DEPARTMENT OF HOUSING AND URBAN DEVELOPMENT

[Docket No. FR-5375-N-08]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, Department of Housing and Urban Development, 451 Seventh Street, SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Rita, Division of Property Management, Program Support Center, HHS, Room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: COE: Mr. Scott Whiteford, Army Corps of Engineers, Real Estate, CEMP-CR, 441 G Street, NW., Washington, DC 20314; (202) 761-5542; ENERGY: Mr. Mark Price, Department of Energy, Office of Engineering & Construction Management, MA-50, 1000 Independence Ave, SW., Washington, DC 20585: (202) 586-5422; GSA: Mr. Gordon Creed, General Services Administration, Office of Property Disposal, 18th and F St., NW., Washington, DC 20405; (202) 501-0084; INTERIOR: Mr. Michael Wright, Acquisition & Property Management, Department of the Interior, 1849 C Street, NW., MS2603, Washington, DC 20240; (202) 208-5399; NAVY: Mr. Albert Johnson, Department of the Navy, Asset Management Division, Naval Facilities Engineering Command, Washington Navy Yard, 1330 Patterson Ave., SW., Suite 1000, Washington, DC 20374; (202) 685-9305; VA: Mr. George Szwarcman, Real Property Service, Department of Veterans Affairs, 811 Vermont Ave., NW., Room 555, Washington, DC 20420; (202) 565-5398; (These are not toll-free numbers).

Dated: February 25, 2010.
Mark R. Johnston,
Deputy Assistant Secretary for Special Needs.

TITLE V, FEDERAL SURPLUS PROPERTY PROGRAM FEDERAL REGISTER REPORT FOR 03/05/2010

Suitable/Available Properties

Building

California

4 Bldgs.

OTH-B Radar Site

Tulelake CA 91634

Landholding Agency: COE

Property Number: 31200840001

Status: Unutilized

Comments: most recent use—communications/vehicle maint., off-site use only

Colorado

Bldg. 2

VAMC

2121 North Avenue

Grand Junction Co: Mesa CO 81501

Landholding Agency: VA

Property Number: 97200430001

Status: Unutilized

Comments: 3298 sq. ft., needs major rehab, presence of asbestos/lead paint

Bldg. 3

VAMC

2121 North Avenue

Grand Junction Co: Mesa CO 81501

Landholding Agency: VA

Property Number: 97200430002

Status: Unutilized

Comments: 7275 sq. ft., needs major rehab, presence of asbestos/lead paint

Indiana

Bldg. 105, VAMC

East 38th Street

Marion Co: Grant IN 46952

Landholding Agency: VA

Property Number: 97199230006

Status: Excess

Comments: 310 sq. ft., 1 story stone structure, no sanitary or heating facilities, Natl Register of Historic Places

Bldg. 10

VA Northern Indiana Health Care System

Marion Campus, 1700 East 38th Street

Marion Co: Grant IN 46953

Landholding Agency: VA

Property Number: 97199810002

Status: Underutilized

Comments: 16,361 sq. ft., presence of asbestos, most recent use—psychiatric ward, National Register of Historic Places

Bldg. 11

VA Northern Indiana Health Care System

Marion Campus, 1700 East 38th Street

Marion Co: Grant IN 46953

Landholding Agency: VA

Property Number: 97199810003

Status: Underutilized

Comments: 16,361 sq. ft., presence of asbestos, most recent use—psychiatric ward, National Register of Historic Places

Bldg. 18

VA Northern Indiana Health Care System

Marion Campus, 1700 East 38th Street

Marion Co: Grant IN 46953

Landholding Agency: VA

Property Number: 97199810004

Status: Underutilized

Comments: 13,802 sq. ft., presence of asbestos, most recent use—psychiatric ward, National Register of Historic Places.

Bldg. 25

VA Northern Indiana Health Care System

Marion Campus, 1700 East 38th Street

Marion Co: Grant IN 46953

Landholding Agency: VA

Property Number: 97199810005

Status: Unutilized

Comments: 32,892 sq. ft., presence of asbestos, most recent use—psychiatric ward, National Register of Historic Places.

Bldg. 1

N. Indiana Health Care System

Marion Co: Grant IN 46952

Landholding Agency: VA

Property Number: 97200310001

Status: Unutilized

Comments: 20,287 sq. ft., needs extensive repairs, presence of asbestos, most recent use—patient ward.

Bldg. 3

N. Indiana Health Care System

Marion Co: Grant IN 46952

Landholding Agency: VA

Property Number: 97200310002

Status: Unutilized

Comments: 20,550 sq. ft., needs extensive repairs, presence of asbestos, most recent use—patient ward.

Bldg. 4

N. Indiana Health Care System

Marion Co: Grant IN 46952

Landholding Agency: VA

Property Number: 97200310003

Status: Unutilized

Comments: 20,550 sq .ft., needs extensive repairs, presence of asbestos, most recent use—patient ward.

Bldg. 13

N. Indiana Health Care System

Marion Co: Grant IN 46952

Landholding Agency: VA

Property Number: 97200310004

Status: Unutilized

Comments: 8971 sq. ft., needs extensive repairs, presence of asbestos, most recent use—office.

Bldg. 42

N. Indiana Health Care System

Marion Co: Grant IN 46952

Landholding Agency: VA

Property Number: 97200310007

Status: Unutilized

Comments: 5025 sq. ft., needs extensive repairs, presence of asbestos, most recent use—office.

Bldg. 60

N. Indiana Health Care System

Marion Co: Grant IN 46952

Landholding Agency: VA

Property Number: 97200310008

Status: Unutilized

Comments: 18,126 sq. ft., needs extensive repairs, presence of asbestos, most recent use—office.

Bldg. 122

N. Indiana Health Care System

Marion Co: Grant IN 46952

Landholding Agency: VA

Property Number: 97200310009

Status: Unutilized

Comments: 37,135 sq. ft., needs extensive repairs, presence of asbestos, most recent use—dining hall/kitchen.

Kentucky

Green River Lock #3

Rochester Co: Butler KY 42273

Landholding Agency: COE

Property Number: 31199010022

Status: Unutilized

Directions: SR 70 west from Morgantown, KY., approximately 7 miles to site.

Comments: 980 sq. ft.; 2 story wood frame; two story residence; potential utilities; needs major rehab.

Montana

Bldg. 1

Butte Natl Guard

Butte Co: Silverbow MT 59701

Landholding Agency: COE

Property Number: 31200040010

Status: Unutilized

Comments: 22799 sq. ft., presence of asbestos, most recent use—cold storage, off-site use only.

Bldg. 2

Butte Natl Guard

Butte Co: Silverbow MT 59701

Landholding Agency: COE

Property Number: 31200040011

Status: Unutilized

Comments: 3292 sq. ft., most recent use—cold storage, off-site use only.

Bldg. 3

Butte Natl Guard

Butte Co: Silverbow MT 59701

Landholding Agency: COE

Property Number: 31200040012

Status: Unutilized

Comments: 964 sq. ft., most recent use—cold storage, off-site use only.

Bldg. 4

Butte Natl Guard

Butte Co: Silverbow MT 59701

Landholding Agency: COE

Property Number: 31200040013

Status: Unutilized

Comments: 72 sq. ft., most recent use—cold storage, off-site use only.

Bldg. 5

Butte Natl Guard

Butte Co: Silverbow MT 59701

Landholding Agency: COE

Property Number: 31200040014

Status: Unutilized

Comments: 1286 sq. ft., most recent use—cold storage, off-site use only.

New York

Bldg. 3

VA Medical Center

Batavia Co: Genesee NY 14020

Landholding Agency: VA

Property Number: 97200520001

Status: Unutilized

Comments: 5840 sq. ft., needs rehab, presence of asbestos, most recent use—offices, eligible for Natl Register of Historic Places.

Ohio

Barker Historic House

Willow Island Locks and Dam

Newport Co: Washington OH 45768-9801

Landholding Agency: COE

Property Number: 31199120018

Status: Unutilized

Directions: Located at lock site, downstream of lock and dam structure.

Comments: 1600 sq. ft. bldg. with ½ acre of land, 2 story brick frame, needs rehab, on Natl Register of Historic Places, no utilities, off-site use only.

Oxford USAR Facility

6557 Todd Road

Oxford OH 45056

Landholding Agency: GSA

Property Number: 54201010007

Status: Excess

GSA Number: 1-D-OH-833

Comments: office bldg./mess hall/barracks/simulator bldg./small support bldgs., structures range from good to needing major rehab.

Pennsylvania

Mahoning Creek Reservoir

New Bethlehem Co: Armstrong PA 16242

Landholding Agency: COE

Property Number: 31199210008

Status: Unutilized

Comments: 1015 sq. ft., 2 story brick residence, off-site use only.

Dwelling

Lock 6, Allegheny River, 1260 River Rd.

Freeport Co: Armstrong PA 16229-2023

Landholding Agency: COE

Property Number: 31199620008

Status: Unutilized

Comments: 2652 sq. ft., 3-story brick house, in close proximity to Lock and Dam, available for interim use for nonresidential purposes.

Dwelling

Lock 4, Allegheny River

Natrona Co: Allegheny PA 15065-2609

Landholding Agency: COE

Property Number: 31199710009

Status: Unutilized

Comments: 1664 sq. ft., 2-story brick residence, needs repair, off-site use only.

Dwelling #1

Crooked Creek Lake

Ford City Co: Armstrong PA 16226-8815

Landholding Agency: COE

Property Number: 31199740002

Status: Excess

Comments: 2030 sq. ft., most recent use—residential, good condition, off-site use only.

Dwelling #2

Crooked Creek Lake

Ford City Co: Armstrong PA 16226-8815

Landholding Agency: COE

Property Number: 31199740003

Status: Excess

Comments: 3045 sq. ft., most recent use—residential, good condition, off-site use only.

Govt Dwelling

East Branch Lake

Wilcox Co: Elk PA 15870-9709

Landholding Agency: COE

Property Number: 31199740005

Status: Underutilized

Comments: approx. 5299 sq. ft., 1-story, most recent use—residence, off-site use only.

Dwelling #1

Loyalhanna Lake

Saltsburg Co: Westmoreland PA 15681-9302

Landholding Agency: COE

Property Number: 31199740006

Status: Excess

Comments: 1996 sq. ft., most recent use—residential, good condition, off-site use only.

Dwelling #2

Loyalhanna Lake

Saltsburg Co: Westmoreland PA 15681-9302

Landholding Agency: COE

Property Number: 31199740007

Status: Excess

Comments: 1996 sq. ft., most recent use—residential, good condition, off-site use only.

Dwelling #2

Lock 6, 1260 River Road

Freeport Co: Armstrong PA 16229-2023

Landholding Agency: COE

Property Number: 31199740009

Status: Excess

Comments: 2652 sq. ft., most recent use—residential, good condition, off-site use only.

Residence A

2045 Pohopoco Drive

Lehighton Co: Carbon PA 18235

Landholding Agency: COE

Property Number: 31200410007

Status: Unutilized

Comments: 1200 sq. ft., presence of asbestos, off-site use only.

Washington

Residence

Turnbull Natl Wildlife Refuge

26010 South Smith Road

Cheney WA 99004

Landholding Agency: GSA

Property Number: 54201010010

Status: Excess

GSA Number: 9-I-WA-1249-AA

Comments: 1600 sq. ft., off-site use only, all costs associated with the move are buyer's responsibility.

Suitable/Available Properties

Land

Alabama

VA Medical Center

VAMC

Tuskegee Co: Macon AL 36083

Landholding Agency: VA

Property Number: 97199010053

Status: Underutilized

Comments: 40 acres, buffer to VA Medical Center, potential utilities, undeveloped.

Arizona

0.23 acres

87th Ave.

Glendale AZ

Landholding Agency: GSA

Property Number: 54201010005

Status: Excess

GSA Number: 9-I-AZ-853

Comments: 0.23 acres used for irrigation canal.

Iowa

40.66 acres

VA Medical Center

1515 West Pleasant St.

Knoxville Co: Marion IA 50138

Landholding Agency: VA

Property Number: 97199740002

Status: Unutilized

Comments: golf course, easement requirements.

Kentucky

Tract 2625

Barkley Lake, Kentucky, and Tennessee

Cadiz Co: Trigg KY 42211

Landholding Agency: COE

Property Number: 31199010025

Status: Excess

Directions: Adjoining the village of Rockcastle.

Comments: 2.57 acres; rolling and wooded.

Tract 2709-10 and 2710-2

Barkley Lake, Kentucky and Tennessee

Cadiz Co: Trigg KY 42211

Landholding Agency: COE

Property Number: 31199010026

Status: Excess

Directions: 2 ½ miles in a southerly direction from the village of Rockcastle.

Comments: 2.00 acres; steep and wooded.

Tract 2708-1 and 2709-1

Barkley Lake, Kentucky and Tennessee

Cadiz Co: Trigg KY 42211

Landholding Agency: COE

Property Number: 31199010027

Status: Excess

Directions: 2 ½ miles in a southerly direction from the village of Rockcastle.

Comments: 3.59 acres; rolling and wooded; no utilities.

Tract 2800

Barkley Lake, Kentucky and Tennessee

Cadiz Co: Trigg KY 42211

Landholding Agency: COE

Property Number: 31199010028

Status: Excess

Directions: 4 ½ miles in a southeasterly direction from the village of Rockcastle.

Comments: 5.44 acres; steep and wooded.

Tract 2915

Barkley Lake, Kentucky and Tennessee

Cadiz Co: Trigg KY 42211

Landholding Agency: COE

Property Number: 31199010029

Status: Excess

Directions: 6 ½ miles west of Cadiz.

Comments: 5.76 acres; steep and wooded; no utilities.

Tract 2702

Barkley Lake, Kentucky and Tennessee

Cadiz Co: Trigg KY 42211

Landholding Agency: COE

Property Number: 31199010031

Status: Excess

Directions: 1 mile in a southerly direction from the village of Rockcastle.

Comments: 4.90 acres; wooded; no utilities.

Tract 4318

Barkley Lake, Kentucky and Tennessee

Canton Co: Trigg KY 42212

Landholding Agency: COE

Property Number: 31199010032

Status: Excess

Directions: Trigg Co. adjoining the city of Canton, KY on the waters of Hopson Creek.

Comments: 8.24 acres; steep and wooded.

Tract 4502

Barkley Lake, Kentucky and Tennessee

Canton Co: Trigg KY 42212

Landholding Agency: COE

Property Number: 31199010033

Status: Excess

Directions: 3 ½ miles in a southerly direction from Canton, KY.

Comments: 4.26 acres; steep and wooded.

Tract 4611

Barkley Lake, Kentucky and Tennessee

Canton Co: Trigg KY 42212

Landholding Agency: COE

Property Number: 31199010034

Status: Excess

Directions: 5 miles south of Canton, KY.

Comments: 10.51 acres; steep and wooded; no utilities.

Tract 4619

Barkley Lake, Kentucky and Tennessee

Canton Co: Trigg KY 42212

Landholding Agency: COE

Property Number: 31199010035

Status: Excess

Directions: 4 ½ miles south from Canton, KY.

Comments: 2.02 acres; steep and wooded; no utilities.

Tract 4817

Barkley Lake, Kentucky and Tennessee

Canton Co: Trigg KY 42212

Landholding Agency: COE

Property Number: 31199010036

Status: Excess

Directions: 6 ½ miles south of Canton, KY.

Comments: 1.75 acres; wooded.

Tract 1217

Barkley Lake, Kentucky and Tennessee

Eddyville Co: Lyon KY 42030

Landholding Agency: COE

Property Number: 31199010042

Status: Excess

Directions: On the north side of the Illinois Central Railroad.

Comments: 5.80 acres; steep and wooded.

Tract 1906

Barkley Lake, Kentucky and Tennessee

Eddyville Co: Lyon KY 42030

Landholding Agency: COE

Property Number: 31199010044

Status: Excess

Directions: Approximately 4 miles east of Eddyville, KY.

Comments: 25.86 acres; rolling steep and partially wooded; no utilities.

Tract 1907

Barkley Lake, Kentucky and Tennessee

Eddyville Co: Lyon KY 42038

Landholding Agency: COE

Property Number: 31199010045

Status: Excess

Directions: On the waters of Pilfen Creek, 4 miles east of Eddyville, KY

Comments: 8.71 acres; rolling steep and wooded; no utilities.

Tract 2001 #1

Barkley Lake, Kentucky and Tennessee

Eddyville Co: Lyon KY 42030

Landholding Agency: COE

Property Number: 31199010046

Status: Excess

Directions: Approximately 4 ½ miles east of Eddyville, KY.

Comments: 47.42 acres; steep and wooded; no utilities.

Tract 2001 #2

Barkley Lake, Kentucky and Tennessee

Eddyville Co: Lyon KY 42030

Landholding Agency: COE

Property Number: 31199010047

Status: Excess

Directions: Approximately 4½ miles east of Eddyville, KY.

Comments: 8.64 acres; steep and wooded; no utilities.

Tract 2005

Barkley Lake, Kentucky and Tennessee

Eddyville Co: Lyon KY 42030

Landholding Agency: COE

Property Number: 31199010048

Status: Excess

Directions: Approximately 5½ miles east of Eddyville, KY.

Comments: 4.62 acres; steep and wooded; no utilities.

Tract 2307

Barkley Lake, Kentucky and Tennessee

Eddyville Co: Lyon KY 42030

Landholding Agency: COE

Property Number: 31199010049

Status: Excess

Directions: Approximately 7½ miles southeasterly of Eddyville, KY.

Comments: 11.43 acres; steep; rolling and wooded; no utilities.

Tract 2403

Barkley Lake, Kentucky and Tennessee

Eddyville Co: Lyon KY 42030

Landholding Agency: COE

Property Number: 31199010050

Status: Excess

Directions: 7 miles southeasterly of Eddyville, KY.

Comments: 1.56 acres; steep and wooded; no utilities.

Tract 2504

Barkley Lake, Kentucky and Tennessee

Eddyville Co: Lyon KY 42030

Landholding Agency: COE

Property Number: 31199010051

Status: Excess

Directions: 9 miles southeasterly of Eddyville, KY.

Comments: 24.46 acres; steep and wooded; no utilities.

Tract 214

Barkley Lake, Kentucky and Tennessee

Grand Rivers Co: Lyon KY 42045

Landholding Agency: COE

Property Number: 31199010052

Status: Excess

Directions: South of the Illinois Central Railroad, 1 mile east of the Cumberland River.

Comments: 5.5 acres; wooded; no utilities.

Tract 215

Barkley Lake, Kentucky and Tennessee

Grand Rivers Co: Lyon KY 42045

Landholding Agency: COE

Property Number: 31199010053

Status: Excess

Directions: 5 miles southwest of Kuttawa

Comments: 1.40 acres; wooded; no utilities.

Tract 241

Barkley Lake, Kentucky and Tennessee

Grand Rivers Co: Lyon KY 42045

Landholding Agency: COE

Property Number: 31199010054

Status: Excess

Directions: Old Henson Ferry Road, 6 miles west of Kuttawa, KY.

Comments: 1.26 acres; steep and wooded; no utilities.

Tracts 306, 311, 315 and 325

Barkley Lake, Kentucky and Tennessee

Grand Rivers Co: Lyon KY 42045

Landholding Agency: COE

Property Number: 31199010055

Status: Excess

Directions: 2.5 miles southwest of Kuttawa, KY. on the waters of Cypress Creek.

Comments: 38.77 acres; steep and wooded; no utilities.

Tracts 2305, 2306, and 2400-1

Barkley Lake, Kentucky and Tennessee

Eddyville Co: Lyon KY 42030

Landholding Agency: COE

Property Number: 31199010056

Status: Excess

Directions: 6½ miles southeasterly of Eddyville, KY.

Comments: 97.66 acres; steep rolling and wooded; no utilities.

Tracts 5203 and 5204

Barkley Lake, Kentucky and Tennessee

Linton Co: Trigg KY 42212

Landholding Agency: COE

Property Number: 31199010058

Status: Excess

Directions: Village of Linton, KY state highway 1254.

Comments: 0.93 acres; rolling, partially wooded; no utilities.

Tract 5240

Barkley Lake, Kentucky and Tennessee

Linton Co: Trigg KY 42212

Landholding Agency: COE

Property Number: 31199010059

Status: Excess

Directions: 1 mile northwest of Linton, KY.

Comments: 2.26 acres; steep and wooded; no utilities.

Tract 4628

Barkley Lake, Kentucky and Tennessee

Canton Co: Trigg KY 42212

Landholding Agency: COE

Property Number: 31199011621

Status: Excess

Directions: 4½ miles south from Canton, KY.

Comments: 3.71 acres; steep and wooded; subject to utility easements.

Tract 4619-B

Barkley Lake, Kentucky and Tennessee

Canton Co: Trigg KY 42212

Landholding Agency: COE

Property Number: 31199011622

Status: Excess

Directions: 4½ miles south from Canton, KY.

Comments: 1.73 acres; steep and wooded; subject to utility easements.

Tract 2403-B

Barkley Lake, Kentucky and Tennessee

Eddyville Co: Lyon KY 42038

Landholding Agency: COE

Property Number: 31199011623

Status: Unutilized

Directions: 7 miles southeasterly from Eddyville, KY.

Comments: 0.70 acres, wooded; subject to utility easements.

Tract 241-B

Barkley Lake, Kentucky and Tennessee

Grand Rivers Co: Lyon KY 42045

Landholding Agency: COE

Property Number: 31199011624

Status: Excess

Directions: South of Old Henson Ferry Road, 6 miles west of Kuttawa, KY.

Comments: 11.16 acres; steep and wooded; subject to utility easements.

Tracts 212 and 237

Barkley Lake, Kentucky and Tennessee

Grand Rivers Co: Lyon KY 42045

Landholding Agency: COE

Property Number: 31199011625

Status: Excess

Directions: Old Henson Ferry Road, 6 miles west of Kuttawa, KY.

Comments: 2.44 acres; steep and wooded; subject to utility easements.

Tract 215-B

Barkley Lake, Kentucky and Tennessee

Grand Rivers Co: Lyon KY 42045

Landholding Agency: COE

Property Number: 31199011626

Status: Excess

Directions: 5 miles southwest of Kuttawa.

Comments: 1.00 acres; wooded; subject to utility easements.

Tract 233

Barkley Lake, Kentucky and Tennessee

Grand Rivers Co: Lyon KY 42045

Landholding Agency: COE

Property Number: 31199011627

Status: Excess

Directions: 5 miles southwest of Kuttawa.

Comments: 1.00 acres; wooded; subject to utility easements.

Tract N-819

Dale Hollow Lake Project

Illwill Creek, Hwy 90

Hobart Co: Clinton KY 42601

Landholding Agency: COE

Property Number: 31199140009

Status: Underutilized

Comments: 91 acres, most recent use—hunting, subject to existing easements.

Nevada

Approx. 22 acres

Mount Diablo

Henderson NV

Landholding Agency: Interior

Property Number: 61201010002

Status: Excess

Comments: approx. 22 acres, lead hazard due to illegal shooting on property.

Ohio

Former Outer Marker Facility

Cleves Warsaw/Muddy Creek

Cincinnati OH 45233

Landholding Agency: GSA

Property Number: 54201010008

Status: Excess

GSA Number: 1-U-OH-0841

Comments: 0.319 acres, river valley terrain/relatively steep hills.

Oklahoma

Pine Creek Lake

Section 27

(See County) Co: McCurtain OK

Landholding Agency: COE

Property Number: 31199010923

Status: Unutilized

Comments: 3 acres; no utilities; subject to right of way for Oklahoma State Highway 3.

Pennsylvania

Mahoning Creek Lake

New Bethlehem Co: Armstrong PA 16242-9603

Landholding Agency: COE

Property Number: 31199010018

Status: Excess

Directions: Route 28 north to Belknap, Road #4

Comments: 2.58 acres; steep and densely wooded.

Tracts 610, 611, 612

Shenango River Lake

Sharpsville Co: Mercer PA 16150

Landholding Agency: COE

Property Number: 31199011001

Status: Excess

Directions: I-79 North, I-80 West, Exit Sharon. R18 North 4 miles, left on R518, right on Mercer Avenue.

Comments: 24.09 acres; subject to flowage easement.

Tracts L24, L26

Crooked Creek Lake

null Co: Armstrong PA 03051

Landholding Agency: COE

Property Number: 31199011011

Status: Unutilized

Directions: Left bank—55 miles downstream of dam.

Comments: 7.59 acres; potential for utilities.

Portion of Tract L-21A

Crooked Creek Lake, LR 03051

Ford City Co: Armstrong PA 16226

Landholding Agency: COE

Property Number: 31199430012

Status: Unutilized

Comments: Approximately 1.72 acres of undeveloped land, subject to gas rights.

South Dakota

Portion/Tract A127

Gavins Point Dam

Yankton SD

Landholding Agency: COE

Property Number: 31200940001

Status: Unutilized

Comments: 0.3018 acre, road right of way.

Tennessee

Tract 6827

Barkley Lake

Dover Co: Stewart TN 37058

Landholding Agency: COE

Property Number: 31199010927

Status: Excess

Directions: 2½ miles west of Dover, TN.

Comments: .57 acres; subject to existing easements.

Tracts 6002-2 and 6010

Barkley Lake

Dover Co: Stewart TN 37058

Landholding Agency: COE

Property Number: 31199010928

Status: Excess

Directions: 3½ miles south of village of Tabaccoport.

Comments: 100.86 acres; subject to existing easements.

Tract 11516

Barkley Lake

Ashland City Co: Dickson TN 37015

Landholding Agency: COE

Property Number: 31199010929

Status: Excess

Directions: ½ mile downstream from Cheatham Dam.

Comments: 26.25 acres; subject to existing easements.

Tract 2319

J. Percy Priest Dam and Reservoir

Murfreesboro Co: Rutherford TN 37130

Landholding Agency: COE

Property Number: 31199010930

Status: Excess

Directions: West of Buckeye Bottom Road.

Comments: 14.48 acres; subject to existing easements.

Tract 2227

J. Percy Priest Dam and Reservoir

Murfreesboro Co: Rutherford TN 37130

Landholding Agency: COE

Property Number: 31199010931

Status: Excess

Directions: Old Jefferson Pike.

Comments: 2.27 acres; subject to existing easements.

Tract 2107

J. Percy Priest Dam and Reservoir

Murfreesboro Co: Rutherford TN 37130

Landholding Agency: COE

Property Number: 31199010932

Status: Excess

Directions: Across Fall Creek near Fall Creek camping area.

Comments: 14.85 acres; subject to existing easements.

Tracts 2601, 2602, 2603, 2604

Cordell Hull Lake and Dam Project

Doe Row Creek

Gainesboro Co: Jackson TN 38562

Landholding Agency: COE

Property Number: 31199010933

Status: Unutilized

Directions: TN Highway 56.

Comments: 11 acres; subject to existing easements.

Tract 1911

J. Percy Priest Dam and Reservoir

Murfreesboro Co: Rutherford TN 37130

Landholding Agency: COE

Property Number: 31199010934

Status: Excess

Directions: East of Lamar Road.

Comments: 6.92 acres; subject to existing easements.

Tract 7206

Barkley Lake

Dover Co: Stewart TN 37058

Landholding Agency: COE

Property Number: 31199010936

Status: Excess

Directions: 2½ miles SE of Dover, TN.

Comments: 10.15 acres; subject to existing easements.

Tracts 8813, 8814

Barkley Lake

Cumberland Co: Stewart TN 37050

Landholding Agency: COE

Property Number: 31199010937

Status: Excess

Directions: 1½ miles East of Cumberland City.

Comments: 96 acres; subject to existing easements.

Tract 8911

Barkley Lake

Cumberland City Co: Montgomery TN 37050

Landholding Agency: COE

Property Number: 31199010938

Status: Excess

Directions: 4 miles east of Cumberland City.

Comments: 7.7 acres; subject to existing easements.

Tract 11503

Barkley Lake

Ashland City Co: Cheatham TN 37015

Landholding Agency: COE

Property Number: 31199010939

Status: Excess

Directions: 2 miles downstream from Cheatham Dam.

Comments: 1.1 acres; subject to existing easements.

Tracts 11523, 11524

Barkley Lake

Ashland City Co: Cheatham TN 37015

Landholding Agency: COE

Property Number: 31199010940

Status: Excess

Directions: 2½ miles downstream from Cheatham Dam.

Comments: 19.5 acres; subject to existing easements.

Tract 6410

Barkley Lake

Bumpus Mills Co: Stewart TN 37028

Landholding Agency: COE

Property Number: 31199010941

Status: Excess

Directions: 4½ miles SW of Bumpus Mills.

Comments: 17 acres; subject to existing easements.

Tract 9707

Barkley Lake

Palmyer Co: Montgomery TN 37142

Landholding Agency: COE

Property Number: 31199010943

Status: Excess

Directions: 3 miles NE of Palmyer, TN. Highway 149.

Comments: 6.6 acres; subject to existing easements.

Tract 6949

Barkley Lake

Dover Co: Stewart TN 37058

Landholding Agency: COE

Property Number: 31199010944

Status: Excess

Directions: 1½ miles SE of Dover, TN.

Comments: 29.67 acres; subject to existing easements.

Tracts 6005 and 6017

Barkley Lake

Dover Co: Stewart TN 37058

Landholding Agency: COE

Property Number: 31199011173

Status: Excess

Directions: 3 miles south of Village of Tobaccoport.

Comments: 5 acres; subject to existing easements.

Tracts K-1191, K-1135

Old Hickory Lock and Dam

Hartsville Co: Trousdale TN 37074

Landholding Agency: COE

Property Number: 31199130007

Status: Underutilized

Comments: 54 acres, (portion in floodway), most recent use—recreation.

Tract A-102

Dale Hollow Lake Project

Canoe Ridge, State Hwy 52

Celina Co: Clay TN 38551

Landholding Agency: COE

Property Number: 31199140006

Status: Underutilized

Comments: 351 acres, most recent use—hunting, subject to existing easements.

Tract A-120

Dale Hollow Lake Project

SW.ann Ridge, State Hwy No. 53

Celina Co: Clay TN 38551

Landholding Agency: COE

Property Number: 31199140007

Status: Underutilized

Comments: 883 acres, most recent use—hunting, subject to existing easements.

Tract D-185

Dale Hollow Lake Project

Ashburn Creek, Hwy No. 53

Livingston Co: Clay TN 38570

Landholding Agency: COE

Property Number: 31199140010

Status: Underutilized

Comments: 97 acres, most recent use—hunting, subject to existing easements.

Texas

Land

Olin E. Teague Veterans Center

1901 South 1st Street

Temple Co: Bell TX 76504

Landholding Agency: VA

Property Number: 97199010079

Status: Underutilized

Comments: 13 acres, portion formerly landfill, portion near flammable materials, railroad crosses property, potential utilities.

Wisconsin

VA Medical Center

County Highway E

Tomah Co: Monroe WI 54660

Landholding Agency: VA

Property Number: 97199010054

Status: Underutilized

Comments: 12.4 acres, serves as buffer between center and private property, no utilities.

Suitable/Unavailable Properties

Building

Alaska

18 Fuel Storage Tanks

Point Barrow Long Range

Radar Site

Barrow AK 99723

Landholding Agency: GSA

Property Number: 54200930009

Status: Excess

GSA Number: 9-D-AK-824

Comments: 18,000-65,000 gallons, off-site use only.

Salmonberry Qtrs.

157 Salmonberry

Bethel AK 99559

Landholding Agency: GSA

Property Number: 54200940001

Status: Excess

GSA Number: 9-U-AK-825

Comments: 2600 sq. ft., most recent use—residential.

Arkansas

Job Corps Center

2020 Vance St.

Little Rock AR 72206

Landholding Agency: GSA

Property Number: 54200920003

Status: Surplus

GSA Number: 7-L-AR-0573

Comments: 74,570 sq. ft., 6 bldgs. most recent use—office/residential.

California

Defense Fuel Support Pt.

Estero Bay Facility

Morro Bay CA 93442

Landholding Agency: GSA

Property Number: 54200810001

Status: Surplus

GSA Number: 9-N-CA-1606

Comments: former 10 acre fuel tank farm w/associated bldgs/pipelines/equipment, possible asbestos/PCBs .

Hawaii

Bldg. 2652

Navy Aloha Center

Pearl Harbor HI 96860

Landholding Agency: Navy

Property Number: 77200710039

Status: Underutilized

Comments: 9125 sq. ft., most recent use—office.

Illinois

Bldg. 7

Ohio River Locks No. 53

Grand Chain Co: Pulaski IL 62941-9801

Landholding Agency: COE

Property Number: 31199010001

Status: Unutilized

Directions: Ohio River Locks and Dam No. 53 at Grand Chain.

Comments: 900 sq. ft.; 1 floor wood frame; most recent use—residence.

Bldg. 6

Ohio River Locks No. 53

Grand Chain Co: Pulaski IL 62941-9801

Landholding Agency: COE

Property Number: 31199010002

Status: Unutilized

Directions: Ohio River Locks and Dam No. 53 at Grand Chain.

Comments: 900 sq. ft.; one floor wood frame; most recent use—residence.

Bldg. 5

Ohio River Locks No. 53

Grand Chain Co: Pulaski IL 62941-9801

Landholding Agency: COE

Property Number: 31199010003

Status: Unutilized

Directions: Ohio River Locks and Dam No. 53 at Grand Chain.

Comments: 900 sq. ft.; one floor wood frame; most recent use—residence.

Bldg. 4

Ohio River Locks No. 53

Grand Chain Co: Pulaski IL 62941-9801

Landholding Agency: COE

Property Number: 31199010004

Status: Unutilized

Directions: Ohio River Locks and Dam No. 53 at Grand Chain.

Comments: 900 sq. ft.; one floor wood frame; most recent use—residence.

Bldg. 3

Ohio River Locks No. 53

Grand Chain Co: Pulaski IL 62941-9801

Landholding Agency: COE

Property Number: 31199010005

Status: Unutilized

Directions: Ohio River Locks and Dam No. 53 at Grand Chain.

Comments: 900 sq. ft.; one floor wood frame.

Bldg. 2

Ohio River Locks No. 53

Grand Chain Co: Pulaski IL 62941-9801

Landholding Agency: COE

Property Number: 31199010006

Status: Unutilized

Directions: Ohio River Locks and Dam No. 53 at Grand Chain.

Comments: 900 sq. ft.; one floor wood frame; most recent use—residence.

Bldg. 1

Ohio River Locks No. 53

Grand Chain Co: Pulaski IL 62941-9801

Landholding Agency: COE

Property Number: 31199010007

Status: Unutilized

Directions: Ohio River Locks and Dam No. 53 at Grand Chain.

Comments: 900 sq. ft.; one floor wood frame; most recent use—residence.

Indiana

Radio Tower

Cannelton Locks & Dam

Perry IN

Landholding Agency: GSA

Property Number: 54200830020

Status: Excess

GSA Number: 1-D-IN-569E

Comments: tower/88 sq. ft. comm storage bldg., heavily wooded area.

John A. Bushemi USARC

3510 W 15th Ave

Gary IN 46404

Landholding Agency: GSA

Property Number: 54200830027

Status: Excess

GSA Number: 1-D-IN-0602

Comments: 18,689 sq. ft. admin bldg & 3780 sq. ft. maintenance bldg.

Iowa

U.S. Army Reserve

620 West 5th St.

Garner IA 50438

Landholding Agency: GSA

Property Number: 54200920017

Status: Excess

GSA Number: 7-D-IA-0510

Comments: 5743 sq. ft., presence of lead paint, most recent use— offices/classrooms/storage, subject to existing easements.

Maine

Border Patrol Station

Rt 1A

Van Buren ME 46278

Landholding Agency: GSA

Property Number: 54200930015

Status: Excess

GSA Number: 1-X-ME-0689

Comments: bldg.—approx. 1717 sq. ft., attached trailer—approx. 460 sq. ft.

Maryland

Federal Office Building

7550 Wisconsin Ave.

Bethesda MD 20814

Landholding Agency: GSA

Property Number: 54200920007

Status: Surplus

GSA Number: GMR-1101-1

Comments: 100,000 sq. ft., 10-story, requires major renovation, limited parking.

Massachusetts

Navy Oper. Support Center

640 Plantation St.

Worcester MA 01605

Landholding Agency: GSA

Property Number: 54200940007

Status: Excess

GSA Number: 1-N-MA-0918

Comments: 36,580 sq. ft. w/6 acres, presence of asbestos/lead paint, most recent use—training facility.

Michigan

Social Security Bldg.

929 Stevens Road

Flint MI 48503

Landholding Agency: GSA

Property Number: 54200720020

Status: Excess

GSA Number: 1-G-MI-822

Comments: 10,283 sq. ft., most recent use—office.

Missouri

Federal Bldg/Courthouse

339 Broadway St.

Cape Girardeau MO 63701

Landholding Agency: GSA

Property Number: 54200840013

Status: Excess

GSA Number: 7-G-MO-0673

Comments: 47,867 sq. ft., possible asbestos/lead paint, needs maintenance & seismic upgrades, 30% occupied—tenants to relocate within 2 yrs.

Montana

Raymond MT Property

1559 Hwy 16 North

Raymond MT 59256

Landholding Agency: GSA

Property Number: 54200920019

Status: Surplus

GSA Number: 7-X-MT-630

Comments: 650 sq. ft., most recent use—office, off-site use only.

Admin Site/Warehouse

731 1st Ave, South

Glasgow MT 59230

Landholding Agency: GSA

Property Number: 54200940002

Status: Excess

GSA Number: 7-I-MT-0631

Comments: 1600 sq. ft., most recent use—office/storage.

Bldg. 743

Glacier National Park

West Glacier MT 59921

Landholding Agency: GSA

Property Number: 54200940005

Status: Surplus

GSA Number: 7-I-MT-0544-AB

Comments: 678 sq. ft., most recent use—dormitory, off-site use only.

Bldg. 744

Glacier National Park

West Glacier MT 59936

Landholding Agency: GSA

Property Number: 54200940006

Status: Surplus

GSA Number: 7-I-MT-0544AA

Comments: 1812 sq. ft., most recent use—dormitory, off-site use only.

VA MT Healthcare

210 S. Winchester

Miles City Co: Custer MT 59301

Landholding Agency: VA

Property Number: 97200030001

Status: Underutilized

Comments: 18 buildings, total sq. ft. = 123,851, presence of asbestos, most recent use—clinic/office/food production.

New Hampshire

Federal Building

719 Main St.

Parcel ID: 424-124-78

Laconia NH 03246

Landholding Agency: GSA

Property Number: 54200920006

Status: Excess

GSA Number: 1-G-NH-0503

Comments: 31,271 sq. ft., most recent use—office bldg., National Register nomination pending.

New Jersey

Camp Petricktown Sup. Facility

US Route 130

Pedricktown NJ 08067

Landholding Agency: GSA

Property Number: 54200740005

Status: Excess

GSA Number: 1-D-NJ-0662

Comments: 21 bldgs., need rehab, most recent use—barracks/mess hall/garages/quarters/admin., may be issues w/right of entry, utilities privately controlled, contaminants.

North Dakota

North House

10951 County Road

Hannah Co: Cavalier ND 58239

Landholding Agency: GSA

Property Number: 54200720008

Status: Surplus

GSA Number: 7-X-ND-0515-1A

Comments: 1128 sq. ft. residence, off-site use only.

South House

10949 County Road

Hannah Co: Cavalier ND 58239

Landholding Agency: GSA

Property Number: 54200720009

Status: Surplus

GSA Number: 7-X-ND-0515-1B

Comments: 1128 sq. ft. residence, off-site use only.

North House

Highway 40

Noonan Co: Divide ND 58765

Landholding Agency: GSA

Property Number: 54200720010

Status: Surplus

GSA Number: 7-X-ND-0517-1A

Comments: 1564 sq. ft. residence, off-site use only.

South House

Highway 40

Noonan Co: Divide ND 58765

Landholding Agency: GSA

Property Number: 54200720011

Status: Surplus

GSA Number: 7-X-ND-0517-1B

Comments: 1564 sq. ft. residence, off-site use only.

North House

Rt. 1, Box 66

Sarles Co: Cavalier ND 58372

Landholding Agency: GSA

Property Number: 54200720012

Status: Surplus

GSA Number: 7-X-ND-0516-1B

Comments: 1228 sq. ft. residence, off-site use only.

South House

Rt. 1, Box 67

Sarles Co: Cavalier ND 58372

Landholding Agency: GSA

Property Number: 54200720013

Status: Surplus

GSA Number: 7-X-ND-0516-1A

Comments: 1228 sq. ft. residence, off-site use only.

House #1

10925 Hwy 28

Sherwood Co: Renville ND 58782

Landholding Agency: GSA

Property Number: 54200720014

Status: Surplus

GSA Number: 7-X-ND-0518-1B

Comments: 1228 sq. ft. residence, off-site use only.

House #2

10927 Hwy 28

Sherwood Co: Renville ND 58782

Landholding Agency: GSA

Property Number: 54200720015

Status: Surplus

GSA Number: 7-X-ND-0518-1A

Comments: 1228 sq. ft. residence, off-site use only.

North House

10913 Hwy 83

Westhope Co: Bottineau ND 58793

Landholding Agency: GSA

Property Number: 54200720016

Status: Surplus

GSA Number: 7-X-ND-0519-1B

Comments: 1218 sq. ft. residence, off-site use only.

South House

10909 Hwy 83

Westhope Co: Bottineau ND 58793

Landholding Agency: GSA

Property Number: 54200720017

Status: Surplus

GSA Number: 7-X-ND-0519-1A

Comments: 1218 sq. ft. residence, off-site use only.

Ohio

Bldg.—Berlin Lake

7400 Bedell Road

Berlin Center Co: Mahoning OH 44401-9797

Landholding Agency: COE

Property Number: 31199640001

Status: Unutilized

Comments: 1420 sq. ft., 2-story brick w/garage and basement, most recent use—residential, secured w/alternate access.

NIKE Site Cd-46

Felicity OH

Landholding Agency: GSA

Property Number: 31200740015

Status: Excess

GSA Number: 1-D-OH-0832

Comments: 8 bldgs., most recent use—Ohio Air Natl Guard site.

PFC Joe R. Hastings

Army Reserve Center

3120 Parkway Dr.

Canton OH 44708

Landholding Agency: GSA

Property Number: 54200840008

Status: Excess

GSA Number: 1-D-OH-835

Comments: 27,603 sq.ft./admin bldg. & vehicle maint. bldg., presence of asbestos/lead paint/radon/PCBs.

Bldg. 116

VA Medical Center

Dayton Co: Montgomery OH 45428

Landholding Agency: VA

Property Number: 97199920002

Status: Unutilized

Comments: 3 floors, potential utilities, needs major rehab, presence of asbestos/lead paint, historic property.

Oregon

3 Bldgs/Land

OTHR-B Radar

Cty Rd 514

Christmas Valley OR 97641

Landholding Agency: GSA

Property Number: 54200840003

Status: Excess

GSA Number: 9-D-OR-0768

Comments: 14000 sq. ft. each/2626 acres, most recent use—radar site, right-of-way.

U.S. Customs House

220 NW 8th Ave.

Portland OR

Landholding Agency: GSA

Property Number: 54200840004

Status: Excess

GSA Number: 9-D-OR-0733

Comments: 100,698 sq. ft., historical property/National Register, most recent use—office, needs to be brought up to meet earthquake code and local bldg codes, presence of asbestos/lead paint.

3 Bldgs.

Fremont-Winema

National Forests

Lakeview OR 97630

Landholding Agency: GSA

Property Number: 54200930013

Status: Excess

GSA Number: 9-A-OR-0779-AA

Comments: various sq. ft., most recent use—storage, off-site use only.

Pennsylvania

Tract 403A

Grays Landing Lock Project

Greensboro Co: Greene PA 15338

Landholding Agency: COE

Property Number: 31199430021

Status: Unutilized

Comments: 620 sq. ft., 2-story, needs repair, most recent use—residential, if used for habitation must be flood proofed or removed off-site.

Tract 403B

Grays Landing Lock Project

Greensboro Co: Greene PA 15338

Landholding Agency: COE

Property Number: 31199430022

Status: Unutilized

Comments: 1600 sq. ft., 2-story, brick structure, needs repair, most recent use—residential, if used for habitation must be flood proofed or removed off-site.

Tract 403C

Grays Landing Lock Project

Greensboro Co: Greene PA 15338

Landholding Agency: COE

Property Number: 31199430023

Status: Unutilized

Comments: 672 sq. ft., 2-story carriage house/stable barn type structure, needs repair, most recent use—storage/garage, if used for habitation must be flood proofed or removed.

Rhode Island

Former SSA Bldg.

Broad & Exchange Streets

Pawtucket RI

Landholding Agency: GSA

Property Number: 54200920008

Status: Excess

GSA Number: 1-G-RI-0518

Comments: 6254 sq. ft., most recent use—office.

Tennessee

NOAA Admin. Bldg.

456 S. Illinois Ave.

Oak Ridge TN 38730

Landholding Agency: GSA

Property Number: 54200920015

Status: Excess

GSA Number: 4-B-TN-0664-AA

Comments: 15,955 sq. ft., most recent use—office/storage/lab.

Texas

Bldgs. 5, 6, 7

Federal Center

501 West Felix Street

Ft. Worth Co: Tarrant TX 76115

Landholding Agency: GSA

Property Number: 54200640002

Status: Excess

GSA Number: 7-G-TX-0767-3

Comments: 3 warehouses with concrete foundation, off-site use only.

Utah

Portion/Clearfield Fed. Center

Clearfield UT 84016

Landholding Agency: GSA

Property Number: 54200930003

Status: Excess

GSA Number: 7-G-UT-414-4

Directions: Bldgs. 2, C-6, C-7, Lot 1, D5 & Wareyard.

Comments: 4 bldgs/approximately 402,535 sq. ft. with land, to be vacated 11/09.

West Virginia

Naval Reserve Center

841 Jackson Ave.

Huntington WV 25704

Landholding Agency: GSA

Property Number: 54200930014

Status: Excess

GSA Number: 4-N-WV-0555

Comments: 31,215 sq. ft., presence of asbestos/lead paint, most recent use—office.

Wisconsin

Bldg. 8

VA Medical Center

County Highway E

Tomah Co: Monroe WI 54660

Landholding Agency: VA

Property Number: 97199010056

Status: Underutilized

Comments: 2200 sq. ft., 2 story wood frame, possible asbestos, potential utilities, structural deficiencies, needs rehab.

Bldg. 2

VA Medical Center

5000 West National Ave.

Milwaukee WI 53295

Landholding Agency: VA

Property Number: 97199830002

Status: Underutilized

Comments: 133,730 sq. ft., needs rehab, presence of asbestos/lead paint, most recent use—storage.

Suitable/Unavailable Properties

Land

Arizona

Parking Lot

322 n 2nd Ave.

Phoenix AZ 85003

Landholding Agency: GSA

Property Number: 54200740007

Status: Surplus

GSA Number: AZ-6293-1

Comments: approx. 21,000 sq. ft., parcel in OU3 study area for clean-up.

Salt River Project

Pecos/Alma School Road

#USBR-08-020

Chander AZ 85225

Landholding Agency: GSA

Property Number: 54200920001

Status: Surplus

GSA Number: 9-I-AZ-0850

Comments: approx. 34,183 sq. ft., ranges from 10-20 ft. wide, very long and.

California

Tract 1607

Lake Sonoma

Rockpile Rd.

Geyserville CA 85746

Landholding Agency: GSA

Property Number: 54200840011

Status: Surplus

GSA Number: 9-GR-CA-1504

Comments: approx. 139 acres, northern portion not accessible because of steep slopes, rare manzanita species.

Quincy Scaling Station

1495 E. Main St.

Quincy CA 95971

Landholding Agency: GSA

Property Number: 54200930004

Status: Surplus

GSA Number: 9-A-CA-1679-1

Comments: 0.98 acre.

Connecticut

MYQ Outer Marker Facility

Enfield CT 06082

Landholding Agency: GSA

Property Number: 54200920004

Status: Surplus

GSA Number: 1-U-CT-0561-1A

Comments: 0.341 acres, only accessible via right of way easement.

Hawaii

6 Parcels

Naval Station

Pearl Harbor HI 96818

Landholding Agency: Navy

Property Number: 77200840012

Status: Unutilized

Comments: various acres; encumbered by substantial improvements owned by a private navy tenant.

Portion of Lot 36-D/69-B

Navy Region

Pearl Harbor HI 96860

Landholding Agency: Navy

Property Number: 77200940011

Status: Unutilized

Comments: 7000 sq. ft.

Iowa

38 acres

VA Medical Center

1515 West Pleasant St.

Knoxville Co: Marion IA 50138

Landholding Agency: VA

Property Number: 97199740001

Status: Unutilized

Comments: golf course.

Louisiana

Raceland Radio Tower

State 652

Raceland LA

Landholding Agency: GSA

Property Number: 54200930005

Status: Surplus

GSA Number: 7-D-LA-573

Comments: 1.8 acres.

Massachusetts

FAA Site

Massasoit Bridge Rd.

Nantucket MA 02554

Landholding Agency: GSA

Property Number: 54200830026

Status: Surplus

GSA Number: MA-0895

Comments: approx 92 acres, entire parcel within MA Division of Fisheries & Wildlife Natural Heritage & Endangered Species Program.

FAA Locator Antenna LOM

Coleman Road

Southhampton MA 01073

Landholding Agency: GSA

Property Number: 54200920005

Status: Excess

GSA Number: MA-0913-AA

Comments: 1.41 acres.

Michigan

Former Elf Comm. Facility

3041 County Road

Republic MI 49879

Landholding Agency: GSA

Property Number: 54200840012

Status: Excess

GSA Number: 1-N-MI-0827

Comments: 6.69 acres w/transmiter bldg, support bldg., gatehouse, endangered species.

VA Medical Center

5500 Armstrong Road

Battle Creek Co: Calhoun MI 49016

Landholding Agency: VA

Property Number: 97199010015

Status: Underutilized

Comments: 20 acres, used as exercise trails and storage areas, potential utilities.

Missouri

Tract LLWAS K3

Mexico City Ave.

Kansas City MO 64153

Landholding Agency: GSA

Property Number: 54200940004

Status: Surplus

GSA Number: 7-U-MO-0687AA

Comments: 0.034 w/easements.

Oregon

20 acres

Cow Hollow Park

Nyssa OR 97913

Landholding Agency: GSA

Property Number: 54200820007

Status: Excess

GSA Number: 9-I-OR-769

Comments: 20 acres w/shower/restroom, eligible for listing on Historic Register.

Pennsylvania

East Branch Clarion River Lake

Wilcox Co: Elk PA

Landholding Agency: COE

Property Number: 31199011012

Status: Underutilized

Directions: Free camping area on the right bank off entrance roadway.

Comments: 1 acre; most recent use—free campground.

Dashields Locks and Dam

(Glenwillard, PA)

Crescent Twp. Co: Allegheny PA 15046-0475

Landholding Agency: COE

Property Number: 31199210009

Status: Unutilized

Comments: 0.58 acres, most recent use—baseball field.

approx. 16.88

271 Sterrettania Rd.

Erie PA 16506

Landholding Agency: GSA

Property Number: 54200820011

Status: Surplus

GSA Number: 4-D-PA-0810

Comments: vacant land.

VA Medical Center

New Castle Road

Butler Co: Butler PA 16001

Landholding Agency: VA

Property Number: 97199010016

Status: Underutilized

Comments: Approx. 9.29 acres, used for patient recreation, potential utilities.

Land No. 645

VA. Medical Center

Highland Drive

Pittsburgh Co: Allegheny PA 15206

Landholding Agency: VA

Property Number: 97199010080

Status: Unutilized

Directions: Between Campania and Wiltsie Streets.

Comments: 90.3 acres, heavily wooded, property includes dump area and numerous site storm drain outfalls.

Land—34.16 acres

VA Medical Center

1400 Black Horse Hill Road

Coatesville Co: Chester PA 19320

Landholding Agency: VA

Property Number: 9719340001

Status: Underutilized

Comments: 34.16 acres, open field, most recent use—recreation/buffer.

Texas

Bee Cave Natl Guard Property

408 St. Stephens School Rd

Austin TX 78746

Landholding Agency: GSA

Property Number: 54200930007

Status: Surplus

GSA Number: 7-D-TX-1108

Comments: 0.67 acres.

Suitable/To Be Excessed

Land

Georgia

Lake Sidney Lanier

null Co: Forsyth GA 30130

Landholding Agency: COE

Property Number: 31199440010

Status: Unutilized

Directions: Located on Two Mile Creek adj. to State Route 369.

Comments: 0.25 acres, endangered plant species.

Lake Sidney Lanier-3 parcels

Gainesville Co: Hall GA 30503

Landholding Agency: COE

Property Number: 31199440011

Status: Unutilized

Directions: Between Gainesville H.S. and State Route 53 By-Pass.

Comments: 3 parcels totalling 5.17 acres, most recent use—buffer zone, endangered plant species.

Massachusetts

Buffumville Dam

Flood Control Project

Gale Road

Carlton Co: Worcester MA 01540-0155

Landholding Agency: COE

Property Number: 31199010016

Status: Excess

Directions: Portion of tracts B-200, B-248, B-251, B-204, B-247, B-200 and B-256.

Comments: 1.45 acres.

Tennessee

Tract D-456

Cheatham Lock and Dam

Ashland Co: Cheatham TN 37015

Landholding Agency: COE

Property Number: 31199010942

Status: Excess

Directions: Right downstream bank of Sycamore Creek.

Comments: 8.93 acres; subject to existing easements.

Texas

Corpus Christi Ship Channel

Corpus Christi Co: Neuces TX

Landholding Agency: COE

Property Number: 31199240001

Status: Unutilized

Directions: >East side of Carbon Plant Road, approx. 14 miles NW of downtown Corpus Christi.

Comments: 4.4 acres, most recent use—farm land.

Unsuitable Properties

Building

Alabama

Comfort Station

Clailborne Lake

Camden AL 36726

Landholding Agency: COE

Property Number: 31200540001

Status: Unutilized

Reasons: Extensive deterioration

Pumphouse

Dannelly Reservoir

Camden AL 36726

Landholding Agency: COE

Property Number: 31200540002

Status: Unutilized

Reasons: Extensive deterioration

Bldg. 7

VA Medical Center

Tuskegee Co: Macon AL 36083

Landholding Agency: VA

Property Number: 97199730001

Status: Underutilized

Reasons: Secured Area

Bldg. 8

VA Medical Center

Tuskegee Co: Macon AL 36083

Landholding Agency: VA

Property Number: 97199730002

Status: Underutilized

Reasons: Secured Area

Arkansas

Dwelling

Bull Shoals Lake/Dry Run Road

Oakland Co: Marion AR 72661

Landholding Agency: COE

Property Number: 31199820001

Status: Unutilized

Reasons: Extensive deterioration

Helena Casting Plant

Helena Co: Phillips AR 72342

Landholding Agency: COE

Property Number: 31200220001

Status: Unutilized

Reasons: Extensive deterioration

BSHOAL-43560

Mountain Home Project

Mountain Home AR 72653

Landholding Agency: COE

Property Number: 31200630001

Status: Unutilized

Reasons: Extensive deterioration

BSHOAL-43561

Mountain Home Project

Mountain Home AR 72653

Landholding Agency: COE

Property Number: 31200630002

Status: Unutilized

Reasons: Extensive deterioration

BSHOAL-43652

Mountain Home Project

Mountain Home AR 72653

Landholding Agency: COE

Property Number: 31200630003

Status: Unutilized

Reasons: Extensive deterioration

NRFORK-48769

Mountain Home Project

Mountain Home AR 72653

Landholding Agency: COE

Property Number: 31200630004

Status: Unutilized

Reasons: Extensive deterioration

Bldgs. 43336, 44910, 44949

Nimrod-Blue Mountain Project

Plainview AR 72858

Landholding Agency: COE

Property Number: 31200630005

Status: Unutilized

Reasons: Extensive deterioration

Bldgs. 44913, 44925

Nimrod-Blue Mountain Project

Plainview AR 72857

Landholding Agency: COE

Property Number: 31200630006

Status: Unutilized

Reasons: Extensive deterioration

Well House

Mountain Home Project

Mountain Home AR 72653

Landholding Agency: COE

Property Number: 31200820001

Status: Unutilized

Reasons: Secured Area

California

Soil Testing Lab

Sausalito CA 00000

Landholding Agency: COE

Property Number: 31199920002

Status: Excess

Reasons: Other—contamination

Bldg. S 00108

Sharpe

Lathrop CA 95231

Landholding Agency: COE

Property Number: 31200820002

Status: Underutilized

Reasons: Secured Area

Bldgs. M03, MO14, MO17

Sandia National Lab

Livermore Co: Alameda CA 94550

Landholding Agency: Energy

Property Number: 41200220001

Status: Excess

Reasons: Extensive deterioration

Bldgs. C920, C921, C922

Sandia Natl Laboratories

Livermore Co: Alameda CA 94551

Landholding Agency: Energy

Property Number: 41200540001

Status: Unutilized

Reasons: Extensive deterioration, Secured Area.

Bldg. 175

Livermore National Lab

Livermore CA

Landholding Agency: Energy

Property Number: 41200630001

Status: Excess

Reasons: Secured Area, Within 2000 ft. of flammable or explosive material.

Trailer 1403

Livermore National Lab

Livermore CA

Landholding Agency: Energy

Property Number: 41200630003

Status: Excess

Reasons: Within 2000 ft. of flammable or explosive material, Secured Area.

Trailer 3703

Livermore National Lab

Livermore CA

Landholding Agency: Energy

Property Number: 41200630004

Status: Excess

Reasons: Secured Area, Within 2000 ft. of flammable or explosive material.

Bldg. 363

National Laboratory

Livermore CA

Landholding Agency: Energy

Property Number: 41200710001

Status: Excess

Reasons: Secured Area

Bldgs. 436, 446

National Laboratory

Livermore CA

Landholding Agency: Energy

Property Number: 41200710002

Status: Excess

Reasons: Secured Area

Bldg. 3520

National Laboratory

Livermore CA

Landholding Agency: Energy

Property Number: 41200710003

Status: Excess

Reasons: Secured Area, Within 2000 ft. of flammable or explosive material.

Bldgs. 4182, 4184, 4187

National Laboratory

Livermore CA

Landholding Agency: Energy

Property Number: 41200710004

Status: Excess

Reasons: Secured Area, Within 2000 ft. of flammable or explosive material.

Bldg. 5974

National Laboratory

Livermore CA

Landholding Agency: Energy

Property Number: 41200710005

Status: Excess

Reasons: Secured Area, Within 2000 ft. of flammable or explosive material.

Bldgs. 194A, 198

Lawrence Livermore Natl Lab

Livermore CA

Landholding Agency: Energy

Property Number: 41200720007

Status: Excess

Reasons: Secured Area, Within 2000 ft. of flammable or explosive material.

Bldgs. 213, 280

Lawrence Livermore Natl Lab

Livermore CA

Landholding Agency: Energy

Property Number: 41200720008

Status: Excess

Reasons: Secured Area, Within 2000 ft. of flammable or explosive material.

Bldgs. 312, 345

Lawrence Livermore Natl Lab

Livermore CA

Landholding Agency: Energy

Property Number: 41200720009

Status: Excess

Reasons: Within 2000 ft. of flammable or explosive material, Secured Area.

Bldgs. 2177, 2178

Lawrence Livermore Natl Lab

Livermore CA

Landholding Agency: Energy

Property Number: 41200720010

Status: Excess

Reasons: Secured Area, Within 2000 ft. of flammable or explosive material.

Bldgs. 2687, 3777

Lawrence Livermore Natl Lab

Livermore CA

Landholding Agency: Energy

Property Number: 41200720011

Status: Excess

Reasons: Within 2000 ft. of flammable or explosive material, Secured Area.

Bldgs. 263, 419

Lawrence Livermore Natl Lab

Livermore CA

Landholding Agency: Energy

Property Number: 41200720012

Status: Excess

Reasons: Secured Area, Within 2000 ft. of flammable or explosive material.

Bldgs. 1401, 1402, 1404

Lawrence Livermore Natl Lab

Livermore CA

Landholding Agency: Energy

Property Number: 41200720013

Status: Excess

Reasons: Secured Area, Within 2000 ft. of flammable or explosive material.

Bldgs. 1405, 1406, 1407

Lawrence Livermore Natl Lab

Livermore CA

Landholding Agency: Energy

Property Number: 41200720014

Status: Excess

Reasons: Within 2000 ft. of flammable or explosive material, Secured Area.

Bldgs. 1408, 1413, 1456

Lawrence Livermore Natl Lab

Livermore CA

Landholding Agency: Energy

Property Number: 41200720015

Status: Excess

Reasons: Secured Area, Within 2000 ft. of flammable or explosive material.

Bldg. 2684

Lawrence Livermore Natl Lab

Livermore CA

Landholding Agency: Energy

Property Number: 41200720016

Status: Excess

Reasons: Within 2000 ft. of flammable or explosive material, Secured Area.

Bldg. CM46A

Sandia Natl Lab

Livermore CA 94551

Landholding Agency: Energy

Property Number: 41200730005

Status: Excess

Reasons: Secured Area

Bldgs. 445, 534

Lawrence Livermore Natl Lab

Livermore CA

Landholding Agency: Energy

Property Number: 41200740001

Status: Excess

Reasons: Secured Area, Within 2000 ft. of flammable or explosive material.

4 Bldgs.

Lawrence Livermore Natl Lab

802A, 811, 830, 854A

Livermore CA

Landholding Agency: Energy

Property Number: 41200740002

Status: Excess

Reasons: Within 2000 ft. of flammable or explosive material, Secured Area.

Bldgs. 8806, 8710, 8711

Lawrence Livermore Natl Lab

Livermore CA

Landholding Agency: Energy

Property Number: 41200740003

Status: Excess

Reasons: Within 2000 ft. of flammable or explosive material, Secured Area.

Bldgs. 1492, 1526, 1579

Lawrence Livermore Natl Lab

Livermore CA

Landholding Agency: Energy

Property Number: 41200740005

Status: Excess

Reasons: Secured Area

Bldgs. 1601, 1632

Lawrence Livermore Natl Lab

Livermore CA

Landholding Agency: Energy

Property Number: 41200740006

Status: Excess

Reasons: Secured Area

Bldgs. 2552, 2685, 2728

Lawrence Livermore Natl Lab

Livermore CA

Landholding Agency: Energy

Property Number: 41200740007

Status: Excess

Reasons: Secured Area

Bldgs. 2801, 2802

Lawrence Livermore Natl Lab

Livermore CA

Landholding Agency: Energy

Property Number: 41200740008

Status: Excess

Reasons: Secured Area

Bldgs. 3175, 3751, 3775

Lawrence Livermore Natl Lab

Livermore CA

Landholding Agency: Energy

Property Number: 41200740009

Status: Excess

Reasons: Secured Area

4 Bldgs.

Lawrence Livermore Natl Lab

Livermore CA

Landholding Agency: Energy

Property Number: 41200740010

Status: Excess

Directions: 4161, 4316, 4384, 4388.

Reasons: Secured Area

Bldgs. 4406, 4475

Lawrence Livermore Natl Lab

Livermore CA

Landholding Agency: Energy

Property Number: 41200740011

Status: Excess

Reasons: Secured Area

Bldgs. 4905, 4906, 4926

Lawrence Livermore Natl Lab

Livermore CA

Landholding Agency: Energy

Property Number: 41200740012

Status: Excess

Reasons: Secured Area

Bldg. 5425

Lawrence Livermore Natl Lab

Livermore CA

Landholding Agency: Energy

Property Number: 41200740013

Status: Excess

Reasons: Secured Area

10 Bldgs.

Lawrence Livermore Natl Lab

Livermore CA

Landholding Agency: Energy

Property Number: 41200830002

Status: Excess

Directions: 2127, 4302, 4377, 4378, 4383, 5225, 5976, 5979, 5980, 6203.

Reasons: Within 2000 ft. of flammable or explosive material, Secured Area.

5 Bldgs.

Lawrence Livermore Natl Lab

1481, 1527, 1884, 1885, 1927

Livermore CA

Landholding Agency: Energy

Property Number: 41200840001

Status: Excess

Reasons: Extensive deterioration

Bldgs. 3577, 3982, 4128

Lawrence Livermore Natl Lab

Livermore CA

Landholding Agency: Energy

Property Number: 41200840002

Status: Excess

Reasons: Secured Area.

Bldgs. 328, 367, 376

Lawrence Livermore Natl Lab

Livermore CA

Landholding Agency: Energy

Property Number: 41200840008

Status: Excess

Reasons: Secured Area, Within 2000 ft. of flammable or explosive material.

Bldg. 5125

Lawrence Livermore Natl Lab

Livermore CA

Landholding Agency: Energy

Property Number: 41200840009

Status: Excess

Reasons: Secured Area, Within 2000 ft. of flammable or explosive material.

6 Bldgs.

Lawrence Livermore Natl Lab

Livermore CA

Landholding Agency: Energy

Property Number: 41200840010

Status: Excess

Directions: 1407, 1408, 1413, 1492, 1526, 1579

Reasons: Secured Area, Within 2000 ft. of flammable or explosive material.

6 Bldgs.

Lawrence Livermore Natl Lab

Livermore CA

Landholding Agency: Energy

Property Number: 41200840011

Status: Excess

Directions: 3775, 4161, 4316, 4388, 4905, 4906

Reasons: Within 2000 ft. of flammable or explosive material Secured Area.

Bldgs. 8710, 8711, 8806

Lawrence Livermore Natl Lab

Livermore CA

Landholding Agency: Energy

Property Number: 41200840012

Status: Excess

Reasons: Secured Area, Within 2000 ft. of flammable or explosive material.

6 Bldgs.

Lawrence Livermore Natl Lab

Livermore CA

Landholding Agency: Energy

Property Number: 41200920005

Status: Excess

Directions: 1541, 1878, 2727, 3180, 4107, 5477

Reasons: Secured Area.

Bldg. 004J

Lawrence Livermore Natl Lab

Livermore CA

Landholding Agency: Energy

Property Number: 41200930003

Status: Excess

Reasons: Secured Area.

Trailers 4, 5, 6, 7, 9, 11, 12

National Park

Death Valley CA 92328

Landholding Agency: Interior

Property Number: 61200930008

Status: Unutilized

Reasons: Extensive deterioration.

Bldg. 2533

Marine Corps Base

Camp Pendleton CA 92055

Landholding Agency: Navy

Property Number: 77200520005

Status: Excess

Reasons: Extensive deterioration, Secured Area.

Bldg. 13111

Marine Corps Base

Camp Pendleton CA 92055

Landholding Agency: Navy

Property Number: 77200520006

Status: Excess

Reasons: Extensive deterioration, Secured Area.

Bldgs. 53325, 53326

Marine Corps Base

Camp Pendleton CA 92055

Landholding Agency: Navy

Property Number: 77200520007

Status: Excess

Reasons: Extensive deterioration, Secured Area.

5 Bldgs.

Marine Corps Base

53421, 53424 thru 53427

Camp Pendleton CA 92055

Landholding Agency: Navy

Property Number: 77200520008

Status: Excess

Reasons: Extensive deterioration, Secured Area.

Bldgs. 61311, 61313, 61314

Marine Corps Base

Camp Pendleton CA 92055

Landholding Agency: Navy

Property Number: 77200520009

Status: Excess

Reasons: Extensive deterioration, Secured Area.

Bldgs. 61320-61324, 61326

Marine Corps Base

Camp Pendleton CA 92055

Landholding Agency: Navy

Property Number: 77200520010

Status: Excess

Reasons: Extensive deterioration, Secured Area.

Bldgs. 62711 thru 62717

Marine Corps Base

Camp Pendleton CA 92055

Landholding Agency: Navy

Property Number: 77200520011

Status: Excess

Reasons: Extensive deterioration, Secured Area.

Bldgs. 4

Naval Submarine Base

Point Loma CA

Landholding Agency: Navy

Property Number: 77200520014

Status: Unutilized

Reasons: Extensive deterioration.

Bldgs. 8915, 8931

Naval Weapons Station

Seal Beach CA 90740

Landholding Agency: Navy

Property Number: 77200530004

Status: Excess

Reasons: Extensive deterioration.

Bldgs. 11, 112

Naval Weapons Station

Seal Beach CA 90740

Landholding Agency: Navy

Property Number: 77200530005

Status: Unutilized

Reasons: Extensive deterioration.

Bldg. 805

Naval Weapons Station

Seal Beach CA 90740

Landholding Agency: Navy

Property Number: 77200530006

Status: Unutilized

Reasons: Extensive deterioration.

Bldgs. 810 thru 823

Naval Weapons Station

Seal Beach CA 90740

Landholding Agency: Navy

Property Number: 77200530007

Status: Unutilized

Reasons: Extensive deterioration.

Bldgs. 851, 859, 864

Naval Weapons Station

Seal Beach CA 90740

Landholding Agency: Navy

Property Number: 77200530008

Status: Unutilized

Reasons: Extensive deterioration.

Bldg. 1146

Naval Base

Port Hueneme Co: Ventura CA 93042

Landholding Agency: Navy

Property Number: 77200530009

Status: Unutilized

Reasons: Extensive deterioration.

Bldgs. 1370, 1371, 1372

Naval Base

Port Hueneme Co: Ventura CA 93042

Landholding Agency: Navy

Property Number: 77200530011

Status: Unutilized

Reasons: Extensive deterioration.

Bldg. 115

Naval Base

San Diego CA

Landholding Agency: Navy

Property Number: 77200530012

Status: Excess

Reasons: Extensive deterioration.

Bldg. 1674

Marine Corps Base

Camp Pendletoon CA 92055

Landholding Agency: Navy

Property Number: 77200530027

Status: Excess

Reasons: Extensive deterioration, Secured Area.

Bldgs. 2636, 2651, 2658

Marine Corps Base

Camp Pendleton CA 92055

Landholding Agency: Navy

Property Number: 77200530028

Status: Excess

Reasons: Extensive deterioration, Secured Area.

4 Bldgs.

Marine Corps Base

Camp Pendleton CA 92055

Landholding Agency: Navy

Property Number: 77200530029

Status: Excess

Directions: 26053, 26054, 26056, 26059

Reasons: Extensive deterioration, Secured Area.

Bldgs. 53333, 53334

Marine Corps Base

Camp Pendleton CA 92055

Landholding Agency: Navy

Property Number: 77200530030

Status: Excess

Reasons: Extensive deterioration, Secured Area.

Bldgs. 53507, 53569

Marine Corps Base

Camp Pendleton CA 92055

Landholding Agency: Navy

Property Number: 77200530031

Status: Excess

Reasons: Secured Area, Extensive deterioration.

Bldg. 170111

Marine Corps Base

Camp Pendleton CA 92055

Landholding Agency: Navy

Property Number: 77200530032

Status: Excess

Reasons: Secured Area, Extensive deterioration.

Bldg. PM4-3

Naval Base

Oxnard Co: Ventura CA 93042

Landholding Agency: Navy

Property Number: 77200530033

Status: Unutilized

Reasons: Extensive deterioration.

Bldg. 1781

Marine Corps Base

Camp Pendleton CA 92055

Landholding Agency: Navy

Property Number: 77200540001

Status: Excess

Reasons: Extensive deterioration, Secured Area.

Bldgs. 398, 399, 404

Naval Base Point Loma

San Diego CA

Landholding Agency: Navy

Property Number: 77200540003

Status: Unutilized

Reasons: Extensive deterioration.

Bldgs. 388, 389, 390, 391

Naval Base Point Loma

San Diego CA

Landholding Agency: Navy

Property Number: 77200540004

Status: Unutilized

Reasons: Extensive deterioration.

Bldg. 16

Naval Submarine Base

San Diego CA

Landholding Agency: Navy

Property Number: 77200540017

Status: Unutilized

Reasons: Extensive deterioration, Secured Area, Within 2000 ft. of flammable or explosive material.

Bldg. 325

Naval Base

Port Hueneme Co: Ventura CA 93043

Landholding Agency: Navy

Property Number: 77200610001

Status: Unutilized

Reasons: Extensive deterioration, Secured Area, Within airport runway clear zone.

Bldgs. 1647, 1648

Marine Corps Base

Camp Pendleton CA 92055

Landholding Agency: Navy

Property Number: 77200610010

Status: Excess

Reasons: Extensive deterioration.

Bldg. 1713

Marine Corps Base

Camp Pendleton CA 92055

Landholding Agency: Navy

Property Number: 77200610011

Status: Excess

Reasons: Extensive deterioration.

Bldg. 220189

Marine Corps Base

Camp Pendleton CA 92055

Landholding Agency: Navy

Property Number: 77200610014

Status: Excess

Reasons: Extensive deterioration.

Bldg. 2295

Marine Corps Base

Camp Pendleton CA 92055

Landholding Agency: Navy

Property Number: 77200610015

Status: Excess

Reasons: Extensive deterioration.

Bldgs. 22115, 22116, 22117

Marine Corps Base

Camp Pendleton CA 92055

Landholding Agency: Navy

Property Number: 77200610016

Status: Excess

Reasons: Extensive deterioration.

Bldg. 143

Naval Air Station

Lemoore CA

Landholding Agency: Navy

Property Number: 77200610017

Status: Excess

Reasons: Extensive deterioration.

Bldgs. 213, 243, 273

Naval Air Station

Lemoore CA

Landholding Agency: Navy

Property Number: 77200610018

Status: Excess

Reasons: Extensive deterioration.

Bldg. 303

Naval Air Station

Lemoore CA

Landholding Agency: Navy

Property Number: 77200610019

Status: Excess

Reasons: Extensive deterioration.

Bldg. 471

Naval Air Station

Lemoore CA

Landholding Agency: Navy

Property Number: 77200610020

Status: Excess

Reasons: Extensive deterioration.

Bldgs. 979, 928, 930

Naval Air Station

Lemoore CA

Landholding Agency: Navy

Property Number: 77200610021

Status: Excess

Reasons: Extensive deterioration.

Bldgs. 999, 1000

Naval Air Station

Lemoore CA

Landholding Agency: Navy

Property Number: 77200610022

Status: Excess

Reasons: Extensive deterioration.

Bldgs. 305, 353

Naval Base Point Loma

San Diego CA

Landholding Agency: Navy

Property Number: 77200610023

Status: Unutilized

Reasons: Extensive deterioration.

Bldgs. 358, 359, 360, 361

Naval Base Point Loma

San Diego CA

Landholding Agency: Navy

Property Number: 77200610024

Status: Unutilized

Reasons: Extensive deterioration.

Bldg. 581

Naval Base Point Loma

San Diego CA

Landholding Agency: Navy

Property Number: 77200610026

Status: Unutilized

Reasons: Extensive deterioration.

Bldgs. A25, A27

Naval Base Point Loma

San Diego CA

Landholding Agency: Navy

Property Number: 77200610027

Status: Unutilized

Reasons: Extensive deterioration.

Bldgs. 31926, 31927, 31928

Marine Corps Base

Camp Pendleton CA 92055

Landholding Agency: Navy

Property Number: 77200610058

Status: Excess

Reasons: Extensive deterioration.

Bldg. 41326

Marine Corps Base

Camp Pendleton CA 92055

Landholding Agency: Navy

Property Number: 77200610059

Status: Excess

Reasons: Extensive deterioration.

Bldg. 41816

Marine Corps Base

Camp Pendleton CA 92055

Landholding Agency: Navy

Property Number: 77200610060

Status: Excess

Reasons: Extensive deterioration.

Bldgs. 1468, 1469

Naval Base

Port Hueneme Co: Ventura CA 93043

Landholding Agency: Navy

Property Number: 77200630002

Status: Unutilized

Reasons: Secured Area.

Bldg. 30869

Naval Air Weapons Station

China Lake CA 93555

Landholding Agency: Navy

Property Number: 77200630005

Status: Excess

Reasons: Secured Area, Extensive deterioration.

Bldgs. 2-8, 3-10

Naval Base

Port Mugu Co: Ventura CA 93043

Landholding Agency: Navy

Property Number: 77200630009

Status: Unutilized

Reasons: Extensive deterioration, Secured Area.

Bldgs. 6-11, 6-12, 6-819

Naval Base

Port Mugu Co: Ventura CA 93043

Landholding Agency: Navy

Property Number: 77200630010

Status: Unutilized

Reasons: Extensive deterioration, Secured Area.

Bldg. 85

Naval Base

Port Mugu Co: Ventura CA 93043

Landholding Agency: Navy

Property Number: 77200630011

Status: Unutilized

Reasons: Extensive deterioration, Secured Area.

Bldgs. 120, 123

Naval Base

Port Mugu Co: Ventura CA 93043

Landholding Agency: Navy

Property Number: 77200630012

Status: Unutilized

Reasons: Secured Area, Extensive deterioration.

Bldg. 724

Naval Base

Port Mugu Co: Ventura CA 93043

Landholding Agency: Navy

Property Number: 77200630013

Status: Unutilized

Reasons: Secured Area, Extensive deterioration.

Bldg. 764

Naval Base

Port Mugu Co: Ventura CA 93043

Landholding Agency: Navy

Property Number: 77200630014

Status: Unutilized

Reasons: Secured Area.

Bldg. 115

Naval Base

Port Hueneme Co: Ventura CA 93042

Landholding Agency: Navy

Property Number: 77200630015

Status: Unutilized

Reasons: Secured Area, Extensive deterioration.

Bldg. 323

Naval Base

Port Hueneme Co: Ventura CA 93042

Landholding Agency: Navy

Property Number: 77200630016

Status: Unutilized

Reasons: Secured Area, Extensive deterioration.

Bldg. 488

Naval Base

Port Hueneme Co: Ventura CA 93042

Landholding Agency: Navy

Property Number: 77200630017

Status: Unutilized

Reasons: Extensive deterioration, Secured Area.

Bldg. 842

Naval Base

Port Hueneme Co: Ventura CA 93042

Landholding Agency: Navy

Property Number: 77200630018

Status: Unutilized

Reasons: Extensive deterioration, Secured Area.

Bldg. 927

Naval Base

Port Hueneme Co: Ventura CA 93042

Landholding Agency: Navy

Property Number: 77200630019

Status: Unutilized

Reasons: Extensive deterioration, Secured Area.

Bldg. 1150

Naval Base

Port Hueneme Co: Ventura CA 93042

Landholding Agency: Navy

Property Number: 77200630020

Status: Unutilized

Reasons: Extensive deterioration, Secured Area.

Bldg. 1361

Naval Base

Port Hueneme Co: Ventura CA 93042

Landholding Agency: Navy

Property Number: 77200630021

Status: Unutilized

Reasons: Extensive deterioration, Secured Area.

Bldg. PH546

Naval Base

Port Hueneme Co: Ventura CA 93043

Landholding Agency: Navy

Property Number: 77200640027

Status: Unutilized

Reasons: Extensive deterioration, Secured Area.

Bldg. PH425

Naval Base

Port Hueneme Co: Ventura CA 93043

Landholding Agency: Navy

Property Number: 77200710001

Status: Unutilized

Reasons: Secured Area, Extensive deterioration.

Bldg. PM 134

Naval Base

Point Mugu Co: Ventura CA 93043

Landholding Agency: Navy

Property Number: 77200710023

Status: Unutilized

Reasons: Extensive deterioration, Secured Area.

Bldgs. PH837, PH1372

Naval Base

Port Hueneme Co: Ventura CA 93043

Landholding Agency: Navy

Property Number: 77200710024

Status: Unutilized

Reasons: Extensive deterioration, Secured Area.

Bldg. 523107

Marine Corps Base

Camp Pendleton CA 92055

Landholding Agency: Navy

Property Number: 77200710025

Status: Excess

Reasons: Extensive deterioration.

6 Bldgs.

Marine Corps Base

Camp Pendleton CA 92055

Landholding Agency: Navy

Property Number: 77200710026

Status: Excess

Directions: 523112, 523113, 523114, 523115, 523116, 523117.

Reasons: Extensive deterioration.

6 Bldgs.

Marine Corps Base

Camp Pendleton CA 92055

Landholding Agency: Navy

Property Number: 77200710027

Status: Excess

Directions: 523122, 523123, 523124, 523125, 523126, 523127.

Reasons: Extensive deterioration.

6 Bldgs.

Marine Corps Base

Camp Pendleton CA 92055

Landholding Agency: Navy

Property Number: 77200710028

Status: Excess

Directions: 523132, 523133, 523134, 523135, 523136, 523137.

Reasons: Extensive deterioration.

6 Bldgs.

Marine Corps Base

Camp Pendleton CA 92055

Landholding Agency: Navy

Property Number: 77200710029

Status: Excess

Directions: 523142, 523143, 523144, 523145, 523146, 523147.

Reasons: Extensive deterioration.

Bldgs. 523156, 523157

Marine Corps Base

Camp Pendleton CA 92055

Landholding Agency: Navy

Property Number: 77200710030

Status: Excess

Reasons: Extensive deterioration.

Bldg. 30726

Naval Air Weapons

China Lake CA 93555

Landholding Agency: Navy

Property Number: 77200710047

Status: Excess

Reasons: Secured Area.

Bldgs. PH284, PH339

Naval Base

Port Hueneme Co: Ventura CA 93043

Landholding Agency: Navy

Property Number: 77200720001

Status: Unutilized

Reasons: Secured Area, Extensive deterioration.

Bldgs. PH805, PH1179

Naval Base

Port Hueneme Co: Ventura CA 93043

Landholding Agency: Navy

Property Number: 77200720002

Status: Unutilized

Reasons: Secured Area, Extensive deterioration.

Bldgs. PH1207, PH1264, PH1288

Naval Base

Port Hueneme Co: Ventura CA 93043

Landholding Agency: Navy

Property Number: 77200720003

Status: Unutilized

Reasons: Secured Area, Extensive deterioration.

Bldgs. PM 3-53, PM129, PM402

Naval Base

Port Mugu Co: Ventura CA 93043

Landholding Agency: Navy

Property Number: 77200720004

Status: Unutilized

Reasons: Secured Area, Extensive deterioration.

Bldg. LP908

Naval Base

Laguna Peak

Port Mugu Co: Ventura CA 93043

Landholding Agency: Navy

Property Number: 77200720005

Status: Unutilized

Reasons: Secured Area, Extensive deterioration.

Bldg. PM790

Naval Base

Oxnard CA 93043

Landholding Agency: Navy

Property Number: 77200720006

Status: Unutilized

Reasons: Secured Area, Extensive deterioration.

Bldg. 53402

Marine Corps Base

Camp Pendleton CA 92055

Landholding Agency: Navy

Property Number: 77200720007

Status: Excess

Reasons: Secured Area, Extensive deterioration.

Bldg. 307

Naval Base

San Diego CA

Landholding Agency: Navy

Property Number: 77200720009

Status: Excess

Reasons: Secured Area.

Bldg. 3135

Naval Base

San Diego CA

Landholding Agency: Navy

Property Number: 77200720010

Status: Excess

Reasons: Secured Area.

Bldgs. 30727, 31409

Naval Air Weapons Station

China Lake CA 93555

Landholding Agency: Navy

Property Number: 77200720011

Status: Excess

Reasons: Secured Area.

Bldgs. 60142, 60158

Naval Base Coronado

San Clemente Island CA

Landholding Agency: Navy

Property Number: 77200720012

Status: Unutilized

Reasons: Extensive deterioration, Not accessible by road.

Bldgs. 60160, 60162, 60164

Naval Base Coronado

San Clemente Island CA

Landholding Agency: Navy

Property Number: 77200720013

Status: Unutilized

Reasons: Extensive deterioration.

Bldgs. 60203, 60210, 60211

Naval Base Coronado

San Clemente Island CA

Landholding Agency: Navy

Property Number: 77200720014

Status: Unutilized

Reasons: Extensive deterioration.

Bldgs. 60214, 60215

Naval Base Coronado

San Clemente Island CA

Landholding Agency: Navy

Property Number: 77200720015

Status: Unutilized

Reasons: Extensive deterioration.

Bldgs. 60227, 60243, 60250

Naval Base Coronado

San Clemente Island CA

Landholding Agency: Navy

Property Number: 77200720016

Status: Unutilized

Reasons: Extensive deterioration.

Bldg. 60313

Naval Base Coronado

San Clemente Island CA

Landholding Agency: Navy

Property Number: 77200720017

Status: Unutilized

Reasons: Extensive deterioration.

Bldg. 404

Naval Air Station

North Island CA

Landholding Agency: Navy

Property Number: 77200720032

Status: Unutilized

Reasons: Extensive deterioration.

Bldg. 3267

Naval Base

San Diego CA

Landholding Agency: Navy

Property Number: 77200720039

Status: Unutilized

Reasons: Secured Area.

Bldgs. 11090, 98033

Naval Air Weapons

China Lake CA 93555

Landholding Agency: Navy

Property Number: 77200720054

Status: Excess

Reasons: Extensive deterioration, Secured Area.

Bldgs. 41314, 41362

Marine Corps Base

Camp Pendleton CA 92055

Landholding Agency: Navy

Property Number: 77200720055

Status: Excess

Reasons: Extensive deterioration.

Bldgs. 192, 193, 410

Naval Base

San Diego CA

Landholding Agency: Navy

Property Number: 77200720063

Status: Excess

Reasons: Secured Area.

Bldg. 415

Naval Base

San Diego CA

Landholding Agency: Navy

Property Number: 77200730013

Status: Unutilized

Reasons: Secured Area.

Bldgs. 3363, 3364

Naval Base

San Diego CA

Landholding Agency: Navy

Property Number: 77200730014

Status: Unutilized

Reasons: Secured Area.

4 Bldgs.

Naval Base

3185D, 3222, 3251, 3309

San Diego CA

Landholding Agency: Navy

Property Number: 77200730015

Status: Unutilized

Reasons: Secured Area.

Portion/Bldg. T17

Naval Base Point Loma

San Diego CA

Landholding Agency: Navy

Property Number: 77200730016

Status: Underutilized

Reasons: Secured Area.

Bldg. 297

Naval Base

San Diego CA

Landholding Agency: Navy

Property Number: 77200730017

Status: Unutilized

Reasons: Secured Area.

Bldgs. 13, 87

Naval Air Station

Coronado Co: San Diego CA

Landholding Agency: Navy

Property Number: 77200730022

Status: Excess

Reasons: Secured Area, Extensive deterioration.

Bldg. 243

Naval Air Station

Coronado Co: San Diego CA

Landholding Agency: Navy

Property Number: 77200730023

Status: Excess

Reasons: Secured Area, Extensive deterioration.

Bldg. 381

Naval Air Station

Coronado Co: San Diego CA

Landholding Agency: Navy

Property Number: 77200730024

Status: Excess

Reasons: Secured Area.

4 Bldgs.

Naval Air Station

493, 663, 682, 784

Coronado Co: San Diego CA

Landholding Agency: Navy

Property Number: 77200730025

Status: Excess

Reasons: Secured Area, Extensive deterioration.

Bldg. 809

Naval Air Station

Coronado Co: San Diego CA

Landholding Agency: Navy

Property Number: 77200730026

Status: Excess

Reasons: Secured Area.

Bldg. 983

Naval Air Station

Coronado Co: San Diego CA

Landholding Agency: Navy

Property Number: 77200730027

Status: Excess

Reasons: Secured Area.

Bldg. 1459

Naval Air Station

Coronado Co: San Diego CA

Landholding Agency: Navy

Property Number: 77200730028

Status: Excess

Reasons: Extensive deterioration, Secured Area.

Bldg. 334

Naval Base

San Diego CA

Landholding Agency: Navy

Property Number: 77200730029

Status: Excess

Reasons: Secured Area.

Bldgs. 124, 148

Naval Air Station

North Island CA

Landholding Agency: Navy

Property Number: 77200740002

Status: Excess

Reasons: Secured Area.

Bldgs. 314, 341, 636

Naval Air Station

North Island CA

Landholding Agency: Navy

Property Number: 77200740003

Status: Excess

Reasons: Secured Area.

Bldgs. 710, 802, 826

Naval Air Station

North Island CA

Landholding Agency: Navy

Property Number: 77200740004

Status: Excess

Reasons: Secured Area.

Bldgs. 60139, 60180

Naval Air Station

San Clemente CA

Landholding Agency: Navy

Property Number: 77200740005

Status: Excess

Reasons: Secured Area.

Bldgs. 41313, 41314

Marine Corps Base

Camp Pendleton CA 92055

Landholding Agency: Navy

Property Number: 77200740006

Status: Excess

Reasons: Secured Area, Extensive deterioration.

4 Bldgs.

Marine Corps Base

41359, 41362, 41365, 41366

Camp Pendleton CA 92055

Landholding Agency: Navy

Property Number: 77200740007

Status: Excess

Reasons: Secured Area, Extensive deterioration.

Bldg. 43976

Marine Corps Base

Camp Pendleton CA 92055

Landholding Agency: Navy

Property Number: 77200740008

Status: Excess

Reasons: Extensive deterioration, Secured Area.

Bldgs. 53440, 53831

Marine Corps Base

Camp Pendleton CA 92055

Landholding Agency: Navy

Property Number: 77200740009

Status: Excess

Reasons: Extensive deterioration, Secured Area.

Bldg. 410365

Marine Corps Base

Camp Pendleton CA 92055

Landholding Agency: Navy

Property Number: 77200740010

Status: Excess

Reasons: Extensive deterioration, Secured Area.

Bldg. 259

Naval Air Station

North Island CA

Landholding Agency: Navy

Property Number: 77200740015

Status: Excess

Reasons: Extensive deterioration, Secured Area.

Bldg. 41356

Marine Corps Base

Camp Pendleton CA 92055

Landholding Agency: Navy

Property Number: 77200740017

Status: Excess

Reasons: Extensive deterioration, Secured Area.

Bldg. 84

Naval Base

San Diego CA

Landholding Agency: Navy

Property Number: 77200740018

Status: Excess

Reasons: Secured Area.

4 Bldgs.

Marine Corps Base

41312, 53426, 53427, 53430

Camp Pendleton CA 92055

Landholding Agency: Navy

Property Number: 77200810008

Status: Excess

Reasons: Extensive deterioration, Secured Area.

Bldgs. 2537, 2538

Marine Corps Base

Camp Pendleton CA 92055

Landholding Agency: Navy

Property Number: 77200810009

Status: Excess

Reasons: Extensive deterioration.

Bldgs. 43286, 43287

Marine Corps Base

Camp Pendleton CA 92055

Landholding Agency: Navy

Property Number: 77200810010

Status: Excess

Reasons: Extensive deterioration.

Bldg. 33007

Naval Air Weapons Station

China Lake CA

Landholding Agency: Navy

Property Number: 77200810011

Status: Excess

Reasons: Secured Area, Within 2000 ft. of flammable or explosive material.

Bldgs. 22176, 62507, 410363

Marine Corps Base

Camp Pendleton CA

Landholding Agency: Navy

Property Number: 77200810021

Status: Excess

Reasons: Secured Area, Extensive deterioration.

Bldgs. 25261, 41342, 41344

Marine Corps Base

Camp Pendleton CA 92055

Landholding Agency: Navy

Property Number: 77200810026

Status: Excess

Reasons: Secured Area, Extensive deterioration.

Bldg. 105

Naval Base

Point Loma Co: San Diego CA

Landholding Agency: Navy

Property Number: 77200820005

Status: Unutilized

Reasons: Secured Area, Extensive deterioration.

Bldg. PH1230

Naval Base

Port Hueneme CA 93043

Landholding Agency: Navy

Property Number: 77200820021

Status: Unutilized

Reasons: Extensive deterioration.

Bldgs. 17, 37, 130

Naval Base

San Diego CA 92136

Landholding Agency: Navy

Property Number: 77200820023

Status: Excess

Reasons: Secured Area.

Bldgs. 3053, 3328

Naval Base

San Diego CA 92136

Landholding Agency: Navy

Property Number: 77200820025

Status: Excess

Reasons: Secured Area.

Bldgs. 3368, 3370

Naval Base

San Diego CA 92136

Landholding Agency: Navy

Property Number: 77200820026

Status: Excess

Reasons: Secured Area.

Bldgs. 3591, 3592

Naval Base

San Diego CA 92136

Landholding Agency: Navy

Property Number: 77200820027

Status: Excess

Reasons: Secured Area.

Bldg. 3603

Naval Base

San Diego CA 92136

Landholding Agency: Navy

Property Number: 77200820028

Status: Excess

Reasons: Secured Area, Floodway.

Bldg. PH1230

Naval Base

Port Hueneme CA 93043

Landholding Agency: Navy

Property Number: 77200820029

Status: Unutilized

Reasons: Secured Area, Extensive deterioration.

Bldg. PM28

Naval Base

Point Mugu CA 93042

Landholding Agency: Navy

Property Number: 77200820030

Status: Unutilized

Reasons: Secured Area, Extensive deterioration.

Bldgs. PH5295, PH5297

Naval Base

Oxnard CA 93042

Landholding Agency: Navy

Property Number: 77200820031

Status: Unutilized

Reasons: Secured Area, Extensive deterioration.

4 Bldgs.

Naval Base

Oxnard CA 93042

Landholding Agency: Navy

Property Number: 77200820032

Status: Unutilized

Directions: PH5303, PH5315, PH5318, PH5319

Reasons: Extensive deterioration, Secured Area.

Bldgs. PH5323, PH5329

Naval Base

Oxnard CA 93042

Landholding Agency: Navy

Property Number: 77200820033

Status: Unutilized

Reasons: Extensive deterioration, Secured Area.

Bldgs. 60180, 60139

San Clemente Island

Naval Base

Coronado CA

Landholding Agency: Navy

Property Number: 77200830001

Status: Excess

Reasons: Secured Area.

Bldg. 148

Naval Amphibious Base

Coronado CA

Landholding Agency: Navy

Property Number: 77200830002

Status: Excess

Reasons: Secured Area.

Bldgs. 13, 87, 124, 243

Naval Air Station

North Island CA

Landholding Agency: Navy

Property Number: 77200830003

Status: Excess

Reasons: Secured Area.

5 Bldgs.

Naval Air Station

307, 311, 314, 341, 381

North Island CA

Landholding Agency: Navy

Property Number: 77200830004

Status: Excess

Reasons: Secured Area.

Bldgs. 493

Naval Air Station

North Island CA

Landholding Agency: Navy

Property Number: 77200830005

Status: Excess

Reasons: Secured Area.

Bldgs. 636, 663, 682

Naval Air Station

North Island CA

Landholding Agency: Navy

Property Number: 77200830006

Status: Excess

Reasons: Secured Area.

Bldgs. 710, 784

Naval Air Station

North Island CA

Landholding Agency: Navy

Property Number: 77200830007

Status: Excess

Reasons: Secured Area.

Bldgs. 802, 809, 826

Naval Air Station

North Island CA

Landholding Agency: Navy

Property Number: 77200830008

Status: Excess

Reasons: Secured Area.

Bldgs. 983, 1459

Naval Air Station

North Island CA

Landholding Agency: Navy

Property Number: 77200830009

Status: Excess

Reasons: Secured Area.

Bldg. 33005

Naval Air Weapons Station

China Lake CA 93555

Landholding Agency: Navy

Property Number: 77200830011

Status: Excess

Reasons: Extensive deterioration, Secured Area, Within 2000 ft. of flammable or explosive material.

Bldgs. 2, 10, 59

Naval Base

Point Loma CA

Landholding Agency: Navy

Property Number: 77200830012

Status: Unutilized

Reasons: Secured Area.

Bldgs. 25152, 41321, 41406

Marine Corps Base

Camp Pendleton CA 92055

Landholding Agency: Navy

Property Number: 77200830022

Status: Excess

Reasons: Secured Area, Extensive deterioration.

Bldg. 1391

Marine Corps Base

Camp Pendleton CA 92055

Landholding Agency: Navy

Property Number: 77200830025

Status: Excess

Reasons: Extensive deterioration.

Bldgs. 1211, 1213, 1214, 1216

Marine Corps Base

Camp Pendleton CA 92055

Landholding Agency: Navy

Property Number: 77200830026

Status: Excess

Reasons: Extensive deterioration.

Bldgs. 52654, 52655

Marine Corps Base

Camp Pendleton CA 92055

Landholding Agency: Navy

Property Number: 77200830027

Status: Excess

Reasons: Extensive deterioration.

Bldgs. 453, 454, 508, 509

Naval Air Station

Lemoore CA

Landholding Agency: Navy

Property Number: 77200840003

Status: Unutilized

Reasons: Within 2000 ft. of flammable or explosive material, Secured Area, Extensive deterioration.

Bldgs. 950, 952, 994

Naval Air Station

Lemoore CA

Landholding Agency: Navy

Property Number: 77200840004

Status: Unutilized

Reasons: Secured Area.

4 Bldgs.

Marine Corps Base

14113, 14114, 14126, 21401

Camp Pendleton CA

Landholding Agency: Navy

Property Number: 77200840010

Status: Excess

Reasons: Secured Area, Extensive deterioration.

4 Bldgs.

Marine Corps Base

Camp Pendleton CA 92055

Landholding Agency: Navy

Property Number: 77200910001

Status: Excess

Directions: 41350, 51916T, 62357T, 62367.

Reasons: Secured Area, Extensive deterioration.

6 Bldgs.

Naval Air Station

North Island CA

Landholding Agency: Navy

Property Number: 77200910002

Status: Excess

Directions: C38, C47, C85, C93B, C101, C102.

Reasons: Extensive deterioration, Secured Area.

Bldgs. 78, 126

Naval Base

San Diego CA

Landholding Agency: Navy

Property Number: 77200910003

Status: Excess

Reasons: Extensive deterioration, Secured Area.

Bldg. 3493

Naval Base

San Diego CA

Landholding Agency: Navy

Property Number: 77200920001

Status: Unutilized

Reasons: Secured Area.

Bldgs. 2245, 2513T, 5509

Marine Corps Air Station

Miramar CA

Landholding Agency: Navy

Property Number: 77200920002

Status: Excess

Reasons: Secured Area, Extensive deterioration.

8 Bldgs.

Marine Corps Base

Camp Pendleton CA 92055

Landholding Agency: Navy

Property Number: 77200920003

Status: Excess

Directions: 1255, 1490, 14121, 14122, 14125, 14127, 62432, 140135.

Reasons: Secured Area, Extensive deterioration.

4 Bldgs.

Naval Air Weapons Station

China Lake CA 93555

Landholding Agency: Navy

Property Number: 77200920004

Status: Excess

Directions: 02702, 02703, 02704, 02705.

Reasons: Secured Area, Extensive deterioration.

Bldgs. PM3-4, PM153

Naval Base

Point Mugu Co: Ventura CA 93043

Landholding Agency: Navy

Property Number: 77200920005

Status: Unutilized

Reasons: Extensive deterioration, Secured Area.

11 Bldgs.

Naval Base

San Nicholas Island Co: Ventura CA 93043

Landholding Agency: Navy

Property Number: 77200920006

Status: Unutilized

Directions: SNI11, 16, 22, 45, 49, 71, 72, 141, 202, 213, 229.

Reasons: Secured Area, Extensive deterioration.

Bldgs. PM126, 327, 327-A

Naval Base

Point Mugu Co: Ventura CA 93043

Landholding Agency: Navy

Property Number: 77200920007

Status: Unutilized

Reasons: Extensive deterioration, Secured Area.

Bldg. PH 462

Naval Base

Port Hueneme Co: Ventura CA 93043

Landholding Agency: Navy

Property Number: 77200920008

Status: Unutilized

Reasons: Extensive deterioration, Secured Area.

14 Bldgs.

Naval Base

Point Mugu Co: Ventura CA 93043

Landholding Agency: Navy

Property Number: 77200920009

Status: Unutilized

Directions: PM4-4, 4-27, 4-30, 6-817, 37, 42, 223, 401, 733, 793, 803, 841, 842, 855.

Reasons: Extensive deterioration, Secured Area.

Bldgs. PH274, 462, 808, 837

Naval Base

Port Hueneme Co: Ventura CA 93043

Landholding Agency: Navy

Property Number: 77200920010

Status: Unutilized

Reasons: Secured Area, Extensive deterioration.

Bldg. 22172

Marine Corps Base

Camp Pendleton CA 92055

Landholding Agency: Navy

Property Number: 77200920020

Status: Excess

Reasons: Secured Area, Extensive deterioration.

Bldg. SNI258

Naval Base

San Nicolas Island CA 93043

Landholding Agency: Navy

Property Number: 77200920021

Status: Unutilized

Reasons: Extensive deterioration, Secured Area.

6 Bldgs.

Naval Base

Point Mugu CA 93042

Landholding Agency: Navy

Property Number: 77200920022

Status: Unutilized

Directions: PM1823A&B, 1825A&B, 1827A&B.

Reasons: Secured Area.

9 Bldgs.

Naval Base

Point Mugu CA 93042

Landholding Agency: Navy

Property Number: 77200920023

Status: Unutilized

Directions: PM1936, 1937, 1938, 1939, 1959, 1961, 1963, 1965, 1967.

Reasons: Secured Area.

Bldgs. 22172, 62432

Marine Corps Base

Camp Pendleton CA 92055

Landholding Agency: Navy

Property Number: 77200920027

Status: Excess

Reasons: Extensive deterioration, Secured Area.

Bldg. 14123

Marine Corps Base

Camp Pendleton CA 92055

Landholding Agency: Navy

Property Number: 77200920031

Status: Excess

Reasons: Secured Area, Extensive deterioration.

Bldg. 3302

Naval Base

San Diego CA

Landholding Agency: Navy

Property Number: 77200920032

Status: Unutilized

Reasons: Secured Area.

Bldg. 1680

Naval Base Coronado

Warner Springs CA

Landholding Agency: Navy

Property Number: 77200920033

Status: Excess

Reasons: Extensive deterioration, Secured Area.

Bldg. PH-11

Naval Base

Port Hueneme CA 93043

Landholding Agency: Navy

Property Number: 77200920034

Status: Unutilized

Reasons: Extensive deterioration, Secured Area.

Bldg. 01474

Naval Air Weapons

China Lake CA 93555

Landholding Agency: Navy

Property Number: 77200930001

Status: Excess

Reasons: Secured Area.

Bldgs. 2246, 2247, 5632T

Marine Corps Air Station

Miramar CA

Landholding Agency: Navy

Property Number: 77200930002

Status: Excess

Reasons: Extensive deterioration, Secured Area.

Bldg. 88

Naval Base

San Diego CA

Landholding Agency: Navy

Property Number: 77200930014

Status: Unutilized

Reasons: Secured Area, Extensive deterioration.

Structure 363

Naval Base

San Diego CA

Landholding Agency: Navy

Property Number: 77200940001

Status: Unutilized

Reasons: Extensive deterioration, Secured Area.

Bldg. 43257

Marine Corps Base

Camp Pendleton CA 92055

Landholding Agency: Navy

Property Number: 77200940005

Status: Excess

Reasons: Secured Area, Extensive deterioration.

6 Bldgs.

Marine Corps Air Station

Miramar CA

Landholding Agency: Navy

Property Number: 77200940009

Status: Excess

Directions: 9618, 9278T, 2003T, 1271T, 1272T, 2740T.

Reasons: Extensive deterioration, Secured Area.

Bldg. 01325

Naval Air Weapons Station

China Lake CA 93555

Landholding Agency: Navy

Property Number: 77200940010

Status: Unutilized

Reasons: Extensive deterioration, Secured Area.

7 Bldgs.

Marine Corps Air Station

Miramar CA

Landholding Agency: Navy

Property Number: 77200940012

Status: Excess

Directions: 9022, 9272, 9539, 9540, 9604, 9623, 9624.

Reasons: Secured Area, Extensive deterioration.

Bldg. X

Naval Base Coronado

San Diego CA 92135

Landholding Agency: Navy

Property Number: 77201010011

Status: Unutilized

Reasons: Secured Area, Within airport runway clear zone.

Bldgs. 425, 494, 1395, 1471

Naval Base

Port Hueneme CA 93043

Landholding Agency: Navy

Property Number: 77201010012

Status: Unutilized

Reasons: Secured Area, Floodway.

8 Bldgs.

Naval Base

Port Hueneme CA 93043

Landholding Agency: Navy

Property Number: 77201010013

Status: Unutilized

Directions: 827, 1206, 1207, 1374, 1375, 1376, 1527, 1528.

Reasons: Secured Area, Floodway.

Bldgs. 1675, 3881

Naval Air Weapons Station

China Lake CA 93555

Landholding Agency: Navy

Property Number: 77201010018

Status: McKinney/Base Closure

Reasons: Extensive deterioration.

Connecticut

Hezekiah S. Ramsdell Farm

West Thompson Lake

North Grosvenordale Co: Windham CT 06255-9801

Landholding Agency: COE

Property Number: 31199740001

Status: Unutilized

Reasons: Floodway, Extensive deterioration.

Bldgs. 25 and 26

Prospect Hill Road

Windsor Co: Hartford CT 06095

Landholding Agency: Energy

Property Number: 41199440003

Status: Excess

Reasons: Secured Area.

9 Bldgs.

Knolls Atomic Power Lab, Windsor Site

Windsor Co: Hartford CT 06095

Landholding Agency: Energy

Property Number: 41199540004

Status: Excess

Reasons: Secured Area.

Bldg. 8, Windsor Site

Knolls Atomic Power Lab

Windsor Co: Hartford CT 06095

Landholding Agency: Energy

Property Number: 41199830006

Status: Unutilized

Reasons: Extensive deterioration.

District of Columbia

Bldg. 396

Naval Support Facility

Anacostia Annex DC 20373

Landholding Agency: Navy

Property Number: 77200630008

Status: Unutilized

Reasons: Within 2000 ft. of flammable or explosive material, Secured Area.

Florida

Bldg. SF-17

Sub-Office Operations

Clewiston Co: Hendry FL 33440

Landholding Agency: COE

Property Number: 31200430005

Status: Unutilized

Reasons: Secured Area, Extensive deterioration.

Bldg. SF-33

Franklin Lock

Alva Co: Lee FL 33920

Landholding Agency: COE

Property Number: 31200620008

Status: Unutilized

Reasons: Extensive deterioration.

Bldg. 25

(f) Richmond Naval Air Station

15810 SW. 129th Ave.

Miami Co: Dade FL 33177

Landholding Agency: COE

Property Number: 31200620031

Status: Excess

Reasons: Extensive deterioration.

Bldg. SF-14

S. Florida Operations Ofc. Reservation

Clewiston Co: Hendry FL 33440

Landholding Agency: COE

Property Number: 31200710001

Status: Unutilized

Reasons: Secured Area.

Bldg. L-10

Jim Woodruff Reservoir

Chattachoochee FL 32324

Landholding Agency: COE

Property Number: 31200820003

Status: Unutilized

Reasons: Extensive deterioration.

Bldg. SF-78

Lock & Dam

Moore Haven FL

Landholding Agency: COE

Property Number: 31200920026

Status: Unutilized

Reasons: Extensive deterioration.

Bldg. U-150

Naval Air Station

Key West Co: Monroe FL 33040

Landholding Agency: Navy

Property Number: 77200520044

Status: Excess

Reasons: Extensive deterioration, Secured Area.

Bldgs. V1221 A

Naval Air Station

Sigsbee Park

Key West Co: Monroe FL 33040

Landholding Agency: Navy

Property Number: 77200530013

Status: Unutilized

Reasons: Extensive deterioration, Secured Area.

Bldg. 969

Naval Air Station

Jacksonville Co: Duval FL 32212

Landholding Agency: Navy

Property Number: 77200540014

Status: Unutilized

Reasons: Secured Area.

Bldgs. 1759, 1760

Naval Air Station

Jacksonville Co: Duval FL

Landholding Agency: Navy

Property Number: 77200540015

Status: Unutilized

Reasons: Secured Area.

Bldg. 1917

Naval Air Station

Jacksonville Co: Duval FL 32212

Landholding Agency: Navy

Property Number: 77200540016

Status: Unutilized

Reasons: Secured Area.

Bldgs. 1, 2

Naval Station

Mayport Co: Duval FL 32228

Landholding Agency: Navy

Property Number: 77200540018

Status: Excess

Reasons: Extensive deterioration, Secured Area, Floodway.

Bldg. 24

Naval Station

Mayport Co: Duval FL 32228

Landholding Agency: Navy

Property Number: 77200540019

Status: Excess

Reasons: Floodway, Secured Area, Extensive deterioration.

Bldg. 66

Naval Station

Mayport Co: Duval FL 32228

Landholding Agency: Navy

Property Number: 77200540020

Status: Excess

Reasons: Extensive deterioration, Floodway, Secured Area.

Bldg. 216

Naval Station

Mayport Co: Duval FL 32228

Landholding Agency: Navy

Property Number: 77200540021

Status: Excess

Reasons: Secured Area, Floodway, Extensive deterioration.

Bldgs. 437, 450

Naval Station

Mayport Co: Duval FL 32228

Landholding Agency: Navy

Property Number: 77200540022

Status: Excess

Reasons: Extensive deterioration, Floodway, Secured Area.

Bldgs. 1234, 1235

Naval Station

Mayport Co: Duval FL 32228

Landholding Agency: Navy

Property Number: 77200540023

Status: Excess

Reasons: Secured Area, Floodway, Extensive deterioration.

Bldg. 212

Naval Station

Mayport Co: Duval FL 32228

Landholding Agency: Navy

Property Number: 77200620011

Status: Unutilized

Reasons: Extensive deterioration, Floodway, Secured Area.

Bldg. 508

Naval Station

Mayport FL 32228

Landholding Agency: Navy

Property Number: 77200620035

Status: Unutilized

Reasons: Secured Area, Floodway.

Bldg. 834

Naval Air Station

Pensacola Co: Escambia FL 32508

Landholding Agency: Navy

Property Number: 77200630022

Status: Unutilized

Reasons: Extensive deterioration.

Bldg. 2658

Naval Air Station

Pensacola Co: Escambia FL 32508

Landholding Agency: Navy

Property Number: 77200630023

Status: Unutilized

Reasons: Extensive deterioration.

Bldg. 3483

Naval Air Station

Pensacola Co: Escambia FL 32508

Landholding Agency: Navy

Property Number: 77200630024

Status: Unutilized

Reasons: Extensive deterioration.

Bldg. 6144

Naval Air Station

Pensacola Co: Escambia FL 32508

Landholding Agency: Navy

Property Number: 77200630025

Status: Unutilized

Reasons: Extensive deterioration.

Bldg. F11

Naval Air Station

Key West FL 33040

Landholding Agency: Navy

Property Number: 77200630026

Status: Unutilized

Reasons: Extensive deterioration, Secured Area.

Bldgs. A225, A409

Naval Air Station

Key West FL 33040

Landholding Agency: Navy

Property Number: 77200630027

Status: Unutilized

Reasons: Extensive deterioration, Secured Area.

Bldg. A515

Naval Air Station

Key West FL 33040

Landholding Agency: Navy

Property Number: 77200630028

Status: Unutilized

Reasons: Secured Area, Extensive deterioration.

Bldg. A635

Naval Air Station

Key West FL 33040

Landholding Agency: Navy

Property Number: 77200630029

Status: Unutilized

Reasons: Secured Area, Extensive deterioration.

Bldgs. A993, A994

Naval Air Station

Key West FL 33040

Landholding Agency: Navy

Property Number: 77200630030

Status: Unutilized

Reasons: Extensive deterioration, Secured Area.

Bldg. A1068

Naval Air Station

Key West FL 33040

Landholding Agency: Navy

Property Number: 77200630031

Status: Unutilized

Reasons: Extensive deterioration, Secured Area.

Bldg. A4021

Naval Air Station

Key West FL 33040

Landholding Agency: Navy

Property Number: 77200630032

Status: Unutilized

Reasons: Extensive deterioration, Secured Area.

Bldg. 4080

Naval Air Station

Key West FL 33040

Landholding Agency: Navy

Property Number: 77200630033

Status: Unutilized

Reasons: Extensive deterioration, Secured Area.

88 Facilities

Saufley Field

Pensacola FL 32508

Landholding Agency: Navy

Property Number: 77200740016

Status: Unutilized

Reasons: Within airport runway clear zone.

Bldgs. C5, A329

Naval Air Station

Key West FL 33040

Landholding Agency: Navy

Property Number: 77200810007

Status: Excess

Reasons: Extensive deterioration, Secured Area.

Bldgs. 2, 5, 24, 26

Naval Air Station

Jacksonville Co: Duval FL

Landholding Agency: Navy

Property Number: 77200820006

Status: Unutilized

Reasons: Extensive deterioration, Secured Area.

Bldgs. 104A, 136, 159

Naval Air Station

Jacksonville Co: Duval FL 32212

Landholding Agency: Navy

Property Number: 77200820007

Status: Unutilized

Reasons: Extensive deterioration, Secured Area.

6 Bldgs.

Naval Air Station

Jacksonville Co: Duval FL 32212

Landholding Agency: Navy

Property Number: 77200820008

Status: Unutilized

Directions: 323, 324, 338, 339, 347, 348.

Reasons: Secured Area, Extensive deterioration.

5 Bldgs.

Naval Air Station

Jacksonville Co: Duval FL 32212

Landholding Agency: Navy

Property Number: 77200820009

Status: Unutilized

Directions: 607, 612, 614B, 674, 675.

Reasons: Secured Area, Extensive deterioration.

Bldgs. 820, 890

Naval Air Station

Jacksonville Co: Duval FL 32212

Landholding Agency: Navy

Property Number: 77200820010

Status: Unutilized

Reasons: Extensive deterioration, Secured Area.

Bldgs. 1756, 1937

Naval Air Station

Jacksonville Co: Duval FL 32212

Landholding Agency: Navy

Property Number: 77200820011

Status: Unutilized

Reasons: Extensive deterioration, Secured Area.

Georgia

Bldg. #WRSH18

West Point Lake

West Point GA 31833

Landholding Agency: COE

Property Number: 31200430006

Status: Unutilized

Reasons: Secured Area.

Bldg. W03

West Point Lake

West Point GA 31833

Landholding Agency: COE

Property Number: 31200430007

Status: Unutilized

Reasons: Extensive deterioration, Within 2000 ft. of flammable or explosive material, Secured Area.

Gatehouse #W03

West Point Lake

West Point GA 31833-9517

Landholding Agency: COE

Property Number: 31200510001

Status: Unutilized

Reasons: Extensive deterioration.

WRSH14, WRSH15, WRSH18

West Point Lake

West Point GA 31833-9517

Landholding Agency: COE

Property Number: 31200510002

Status: Unutilized

Reasons: Extensive deterioration.

Pumphouse

Carters Lake

Oakman GA 30732

Landholding Agency: COE

Property Number: 31200520002

Status: Unutilized

Reasons: Extensive deterioration.

Vault Toilet

Lake Sidney Lanier

Buford GA 30518

Landholding Agency: COE

Property Number: 31200540003

Status: Unutilized

Reasons: Extensive deterioration.

Bldg. WC-19

Walter F. George Lake

Fort Gaines GA 39851

Landholding Agency: COE

Property Number: 31200630007

Status: Unutilized

Reasons: Extensive deterioration.

Radio Room

Walter F. George Lake

Ft. Gaines GA 39851

Landholding Agency: COE

Property Number: 31200640004

Status: Unutilized

Reasons: Extensive deterioration.

Bldg. JST-16711

Hesters Ferry Campground

Lincoln GA

Landholding Agency: COE

Property Number: 31200710002

Status: Unutilized

Reasons: Extensive deterioration.

4 Bldgs.

West Point Lake

WH16, WH18, WR02, WA03

West Point GA 31833

Landholding Agency: COE

Property Number: 31200820004

Status: Unutilized

Reasons: Extensive deterioration.

Pumphouse

Carters Lake

Oakman GA 30732

Landholding Agency: COE

Property Number: 31200820005

Status: Unutilized

Reasons: Extensive deterioration.

4 Stables

Di-Lane Plantation

Elberton GA 30635

Landholding Agency: COE

Property Number: 31200820006

Status: Unutilized

Reasons: Extensive deterioration.

9 Comfort Stations

Hartwell Lake & Dam

Hartwell GA 30643

Landholding Agency: COE

Property Number: 31200920001

Status: Unutilized

Directions: HAR 16099, 16100, 16102, 16555, 16920, 16838, 18482, 18483.

Reasons: Extensive deterioration.

RBR-19069

Richard B. Russell Lake

Elberton GA 30635

Landholding Agency: COE

Property Number: 31200920002

Status: Unutilized

Reasons: Extensive deterioration.

5 Comfort Stations

Hartwell Lake & Dam

Hartwell GA 30643

Landholding Agency: COE

Property Number: 31200920027

Status: Unutilized

Directions: HAR-16113, 18157, 18172, 18357, 18524.

Reasons: Extensive deterioration.

Well House #3

JST-15732

McCormick GA

Landholding Agency: COE

Property Number: 31200920028

Status: Unutilized

Reasons: Extensive deterioration.

Bldgs. LC-05, LC-06, LC-07

West Point Lake

West Point GA 31833

Landholding Agency: COE

Property Number: 31201010001

Status: Unutilized

Reasons: Extensive deterioration.

Bldg. 5101

Naval Submarine Base

Kings Bay Co: Camden GA 31547

Landholding Agency: Navy

Property Number: 77200520004

Status: Unutilized

Reasons: Floodway, Extensive deterioration, Secured Area.

Bldg. 0038

Naval Submarine Base

Kings Bay GA 31547

Landholding Agency: Navy

Property Number: 77200620036

Status: Unutilized

Reasons: Extensive deterioration, Secured Area.

7 Bldgs.

Marine Logistics Base

Albany GA

Landholding Agency: Navy

Property Number: 77200720040

Status: Excess

Directions: 7100, 7106, 7108, 7110, 5584, 7964, 7966.

Reasons: Secured Area.

Guam

Bldg. B-32

Naval Forces

Marianas GU

Landholding Agency: Navy

Property Number: 77200520023

Status: Unutilized

Reasons: Extensive deterioration.

Bldgs. 76, 77, 79

Naval Forces

Marianas GU

Landholding Agency: Navy

Property Number: 77200520024

Status: Unutilized

Reasons: Extensive deterioration.

4 Bldgs.

Naval Forces

261, 262, 263, 269

Marianas GU

Landholding Agency: Navy

Property Number: 77200520025

Status: Unutilized

Reasons: Extensive deterioration.

Bldg. 404NM

Naval Forces

Marianas GU

Landholding Agency: Navy

Property Number: 77200520026

Status: Unutilized

Reasons: Extensive deterioration.

Bldgs. 3150, 3268

Naval Forces

Marianas GU

Landholding Agency: Navy

Property Number: 77200520030

Status: Unutilized

Reasons: Extensive deterioration.

Bldgs. 5409, 5412, 5413

Naval Forces

Marianas GU

Landholding Agency: Navy

Property Number: 77200520031

Status: Unutilized

Reasons: Extensive deterioration.

Bldg. 5500

Naval Forces

Marianas GU

Landholding Agency: Navy

Property Number: 77200520032

Status: Unutilized

Reasons: Extensive deterioration.

73 Bldgs.

Naval Computer Station

Marianas GU

Landholding Agency: Navy

Property Number: 77200520045

Status: Excess

Directions: A700-A716, A725, A728, A735, A741-A784, A803-A805, A811-A813, A829-A831.

Reasons: Extensive deterioration, Secured Area.

Bldgs. 2006, 2009

Naval Ship Repair Facility

Marianas GU

Landholding Agency: Navy

Property Number: 77200520048

Status: Excess

Reasons: Extensive deterioration, Secured Area.

Bldgs. 2014, 2916

Naval Ship Repair Facility

Marianas GU

Landholding Agency: Navy

Property Number: 77200520049

Status: Excess

Reasons: Extensive deterioration, Secured Area.

Bldgs. 277, 308

Naval Forces Marianas

Santa Rita Co: Apra Harbor GU

Landholding Agency: Navy

Property Number: 77200610028

Status: Excess

Reasons: Secured Area

Bldgs. 1686, 1689, 1690

Naval Forces Marianas

Santa Rita Co: Apra Harbor GU

Landholding Agency: Navy

Property Number: 77200610029

Status: Excess

Reasons: Secured Area.

Bldgs. 1714, 1767, 1768

Naval Forces Marianas

Santa Rita Co: Apra Harbor GU

Landholding Agency: Navy

Property Number: 77200610030

Status: Excess

Reasons: Secured Area.

Bldgs. 1771, 1772, 1773

Naval Forces Marianas

Santa Rita Co: Apra Harbor GU

Landholding Agency: Navy

Property Number: 77200610031

Status: Excess

Reasons: Secured Area.

Bldgs. 1791, 1792

Naval Forces Marianas

Santa Rita Co: Apra Harbor GU

Landholding Agency: Navy

Property Number: 77200610032

Status: Excess

Reasons: Secured Area.

Bldgs. 3000, 3001

Naval Forces Marianas

Santa Rita Co: Apra Harbor GU

Landholding Agency: Navy

Property Number: 77200610033

Status: Excess

Reasons: Secured Area.

Bldgs. 3002, 3004, 3005

Naval Forces Marianas

Santa Rita Co: Apra Harbor GU

Landholding Agency: Navy

Property Number: 77200610034

Status: Excess

Reasons: Secured Area.

Bldgs. 3006, 3007

Naval Forces Marianas

Santa Rita Co: Apra Harbor GU

Landholding Agency: Navy

Property Number: 77200610035

Status: Excess

Reasons: Secured Area.

Steam Plant

Naval Forces Marianas

Santa Rita Co: Apra Harbor GU

Landholding Agency: Navy

Property Number: 77200610036

Status: Excess

Reasons: Secured Area.

Bldgs. 403, 404

Marianas Support Activity

Santa Rita Co: Naval Magazine GU

Landholding Agency: Navy

Property Number: 77200620013

Status: Unutilized

Reasons: Secured Area.

Bldgs. 464, 729

Marianas Support Activity

Santa Rita Co: Naval Magazine GU

Landholding Agency: Navy

Property Number: 77200620014

Status: Unutilized

Reasons: Secured Area.

Bldgs. 836, 837

Marianas Support Activity

Santa Rita Co: Naval Magazine GU

Landholding Agency: Navy

Property Number: 77200620015

Status: Unutilized

Reasons: Extensive deterioration, Secured Area.

Bldg. 11XC7

Marianas Support Activity

Santa Rita Co: Naval Magazine GU

Landholding Agency: Navy

Property Number: 77200620016

Status: Unutilized

Reasons: Extensive deterioration, Secured Area.

Bldgs. 23YC1, 23YC2, 23YC3

Marianas Support Activity

Santa Rita Co: Naval Magazine GU

Landholding Agency: Navy

Property Number: 77200620017

Status: Unutilized

Reasons: Secured Area, Extensive deterioration.

Bldgs. 23YC4, 23YC5

Marianas Support Activity

Santa Rita Co: Naval Magazine GU

Landholding Agency: Navy

Property Number: 77200620018

Status: Unutilized

Reasons: Extensive deterioration, Secured Area.

Bldgs. 24YC7, 24YC8

Marianas Support Activity

Santa Rita Co: Naval Magazine GU

Landholding Agency: Navy

Property Number: 77200620019

Status: Unutilized

Reasons: Extensive deterioration, Secured Area.

Bldgs. 26YC3, 26YC5

Marianas Support Activity

Santa Rita Co: Naval Magazine GU

Landholding Agency: Navy

Property Number: 77200620020

Status: Unutilized

Reasons: Extensive deterioration, Secured Area.

Old Bus Stop

Marianas Support Activity

Santa Rita Co: Naval Magazine GU

Landholding Agency: Navy

Property Number: 77200620021

Status: Unutilized

Reasons: Secured Area, Extensive deterioration.

2 Guard Houses

Marianas Support Activity

Santa Rita Co: Naval Magazine GU

Landholding Agency: Navy

Property Number: 77200620022

Status: Unutilized

Reasons: Secured Area, Extensive deterioration.

9 Magazines

Marianas Support Activity

Santa Rita Co: Naval Magazine GU

Landholding Agency: Navy

Property Number: 77200620023

Status: Unutilized

Reasons: Extensive deterioration, Secured Area.

Bldgs. 151, 152, 153

Naval Forces Marianas

Santa Rita Co: Apra Harbor GU

Landholding Agency: Navy

Property Number: 77200630001

Status: Unutilized

Reasons: Extensive deterioration.

Bldg. 4

Naval Base

Barrigada GU

Landholding Agency: Navy

Property Number: 77200710002

Status: Unutilized

Reasons: Extensive deterioration.

Bldg. C115

Naval Base

Barrigada GU

Landholding Agency: Navy

Property Number: 77200710003

Status: Unutilized

Reasons: Extensive deterioration.

Bldg. 160

Naval Base

Barrigada GU

Landholding Agency: Navy

Property Number: 77200710004

Status: Unutilized

Reasons: Extensive deterioration.

Bldg. 176

Naval Base

Barrigada GU

Landholding Agency: Navy

Property Number: 77200710005

Status: Unutilized

Reasons: Extensive deterioration.

Bldg. 33

Naval Base

Santa Rita Co: Apra Harbor GU

Landholding Agency: Navy

Property Number: 77200710006

Status: Excess

Reasons: Extensive deterioration.

Bldg. 219

Naval Base

Santa Rita Co: Apra Harbor GU

Landholding Agency: Navy

Property Number: 77200710007

Status: Excess

Reasons: Extensive deterioration.

Bldg. 950

Naval Base

Santa Rita Co: Apra Harbor GU

Landholding Agency: Navy

Property Number: 77200710008

Status: Excess

Reasons: Extensive deterioration.

Bldg. 1769

Naval Base

Santa Rita Co: Apra Harbor GU

Landholding Agency: Navy

Property Number: 77200710009

Status: Excess

Reasons: Extensive deterioration.

Bldgs. 3186, 3187, 3188

Naval Base

Santa Rita Co: Apra Harbor GU

Landholding Agency: Navy

Property Number: 77200710010

Status: Excess

Reasons: Extensive deterioration.

Bldgs. 4408, 4409

Naval Base

Santa Rita Co: Apra Harbor GU

Landholding Agency: Navy

Property Number: 77200710011

Status: Excess

Reasons: Extensive deterioration.

Hazmat Storage

Naval Base

Polaris Point

Santa Rita Co: Apra Harbor GU

Landholding Agency: Navy

Property Number: 77200710012

Status: Excess

Reasons: Extensive deterioration.

Storage Bldg.

Naval Base

Polaris Point

Santa Rita Co: Apra Harbor GU

Landholding Agency: Navy

Property Number: 77200710013

Status: Excess

Reasons: Extensive deterioration.

10 Bldgs.

Naval Base

North Tipalao

Santa Rita GU

Landholding Agency: Navy

Property Number: 77200920035

Status: Unutilized

Directions: 802, 803, 804, 811, 812, 813, 814, 821, 822, 823.

Reasons: Secured Area.

5 Bldgs.

Naval Base

North Tipalao

Santa Rita GU

Landholding Agency: Navy

Property Number: 77200920036

Status: Unutilized

Directions: 809, 810, 819, 820, 824.

Reasons: Secured Area.

10 Bldgs.

Naval Base

North Tipalao

Santa Rita GU

Landholding Agency: Navy

Property Number: 77200920037

Status: Unutilized

Directions: 972, 974, 975, 982, 971, 973, 970, 976, 978, 980.

Reasons: Secured Area.

Bldgs. 59, 70, 71

Naval Base

Barrigada GU

Landholding Agency: Navy

Property Number: 77200920038

Status: Unutilized

Reasons: Extensive deterioration, Secured Area.

13 Bldgs.

Naval Base, NCTS

Dededo GU

Landholding Agency: Navy

Property Number: 77200920039

Status: Unutilized

Directions: 174, 176, 271, 272, 273, 274, 275, 276, 277, 278, 279, 280, 491.

Reasons: Secured Area.

Bldg. 367 & Storage Bldg.

Naval Base

Main Base

Dededo GU

Landholding Agency: Navy

Property Number: 77200920040

Status: Unutilized

Reasons: Secured Area.

Bldg. 575

Naval Base

Camp Covington

Dededo GU

Landholding Agency: Navy

Property Number: 77200920041

Status: Unutilized

Reasons: Secured Area.

6 Bldgs.

Naval Base

Former FAA Compound

Dededo GU

Landholding Agency: Navy

Property Number: 77200920042

Status: Unutilized

Directions: 1880, 1881, 1882, 1883, 1884, 1885.

Reasons: Extensive deterioration.

9 Bldgs.

Naval Base

Piti GU

Landholding Agency: Navy

Property Number: 77200940006

Status: Unutilized

Directions: 92, 204, 211NH, 292, 453, 454, 4407PP, 5120, 5125.

Reasons: Extensive deterioration. Secured Area.

Hawaii

Bldg. 346

Naval Station

Pearl Harbor HI 96860

Landholding Agency: Navy

Property Number: 77200610002

Status: Excess

Reasons: Extensive deterioration.

Bank

Marine Corps Base

Kaneohe Bay HI 96863

Landholding Agency: Navy

Property Number: 77200830019

Status: Unutilized

Reasons: Secured Area.

Bldgs. S378, 469

Naval Station

Ford Island

Pearl Harbor HI 96860

Landholding Agency: Navy

Property Number: 77200910005

Status: Underutilized

Reasons: Secured Area.

Bldg. 3

Opana Reg. Relay Facility

Kahuku HI 96731

Landholding Agency: Navy

Property Number: 77200920014

Status: Excess

Reasons: Extensive deterioration, Secured Area.

Idaho

Bldg. AFD0070

Albeni Falls Dam

Oldtown Co: Bonner ID 83822

Landholding Agency: COE

Property Number: 31199910001

Status: Unutilized

Reasons: Extensive deterioration.

Bldg. CPP-691

Idaho National Engineering Laboratory

Scoville Co: Butte ID 83415

Landholding Agency: Energy

Property Number: 41199610003

Status: Unutilized

Reasons: Secured Area.

Bldg. TRA-669

Idaho National Engineering Laboratory

Scoville Co: Butte ID 83415

Landholding Agency: Energy

Property Number: 41199610013

Status: Unutilized

Reasons: Secured Area.

Bldg. TRA-673

Idaho National Engineering Laboratory

Scoville Co: Butte ID 83415

Landholding Agency: Energy

Property Number: 41199610018

Status: Unutilized

Reasons: Secured Area.

Bldg. PBF-620

Idaho National Engineering Laboratory

Scoville Co: Butte ID 83415

Landholding Agency: Energy

Property Number: 41199610019

Status: Unutilized

Reasons: Secured Area.

Bldg. PBF-619

Idaho National Engineering Laboratory

Scoville Co: Butte ID 83415

Landholding Agency: Energy

Property Number: 41199610022

Status: Unutilized

Reasons: Secured Area.

Bldg. TRA-641

Idaho National Engineering Laboratory

Scoville Co: Butte ID 83415

Landholding Agency: Energy

Property Number: 41199610034

Status: Unutilized

Reasons: Secured Area.

Bldg. CF-606

Idaho National Engineering Laboratory

Scoville Co: Butte ID 83415

Landholding Agency: Energy

Property Number: 41199610037

Status: Unutilized

Reasons: Secured Area.

Bldgs. CPP638, CPP642

Idaho Natl Eng Lab

Scoville Co: Butte ID 83415

Landholding Agency: Energy

Property Number: 41200410014

Status: Excess

Reasons: Secured Area.

Bldg. CPP 743

Idaho Natl Eng lab

Scoville Co: Butte ID 83-415

Landholding Agency: Energy

Property Number: 41200410020

Status: Excess

Reasons: Secured Area.

Bldgs. CPP1647, 1653

Idaho Natl Eng Lab

Scoville Co: Butte ID 83415

Landholding Agency: Energy

Property Number: 41200410022

Status: Excess

Reasons: Secured Area.

Bldg. CPP1677

Idaho Natl Eng Lab

Scoville Co: Butte ID 83415

Landholding Agency: Energy

Property Number: 41200410023

Status: Excess

Reasons: Secured Area.

Bldg. 694

Idaho Natl Eng Lab

Scoville Co: Butte ID 83415

Landholding Agency: Energy

Property Number: 41200410034

Status: Excess

Reasons: Secured Area.

Bldgs. CPP1604-CPP1608

Idaho National Eng Lab

Scoville Co: Butte ID 83415

Landholding Agency: Energy

Property Number: 41200430071

Status: Excess

Reasons: Secured Area.

Bldgs. CPP1617-CPP1619

Idaho National Eng Lab

Scoville Co: Butte ID 83415

Landholding Agency: Energy

Property Number: 41200430072

Status: Excess

Reasons: Secured Area.

6 Bldgs.

Idaho National Eng Lab

Scoville Co: Butte ID 83415

Landholding Agency: Energy

Property Number: 41200430073

Status: Excess

Directions: CPP1631, CPP1634, CPP1635, CPP1636, CPP1637, CPP1638.

Reasons: Secured Area.

5 Bldgs.

Idaho National Eng Lab

Scoville Co: Butte ID 83415

Landholding Agency: Energy

Property Number: 41200430074

Status: Excess

Directions: CPP1642, CPP1643, CPP1644, CPP1646, CPP1649.

Reasons: Secured Area.

3 Bldgs.

Idaho National Eng Lab

Scoville Co: Butte ID 83415

Landholding Agency: Energy

Property Number: 41200430075

Status: Excess

Directions: CPP1650, CPP1651, CPP1656.

Reasons: Secured Area.

5 Bldgs.

Idaho National Eng Lab

Scoville Co: Butte ID 83415

Landholding Agency: Energy

Property Number: 41200430076

Status: Excess

Directions: CPP1662, CPP1663, CPP1671, CPP1673, CPP1674.

Reasons: Secured Area.

5 Bldgs.

Idaho National Eng Lab

Scoville Co: Butte ID 83415

Landholding Agency: Energy

Property Number: 41200430077

Status: Excess

Directions: CPP1678, CPP1682, CPP1683, CPP1684, CPP1686.

Reasons: Secured Area.

5 Bldgs.

Idaho National Eng Lab

Scoville Co: Butte ID 83415

Landholding Agency: Energy

Property Number: 41200430078

Status: Excess

Directions: CPP1713, CPP1749, CPP1750, CPP1767, CPP1769.

Reasons: Secured Area.

5 Bldgs.

Idaho National Eng Lab

Scoville Co: Butte ID 83415

Landholding Agency: Energy

Property Number: 41200430079

Status: Excess

Directions: CPP1770, CPP1771, CPP1772, CPP1774, CPP1776.

Reasons: Secured Area.

4 Bldgs.

Idaho National Eng Lab

Scoville Co: Butte ID 83415

Landholding Agency: Energy

Property Number: 41200430081

Status: Excess

Directions: CPP1789, CPP1790, CPP1792, CPP1794.

Reasons: Secured Area.

Bldgs. CPP2701, CPP2706

Idaho National Eng Lab

Scoville Co: Butte ID 83415

Landholding Agency: Energy

Property Number: 41200430082

Status: Excess

Reasons: Secured Area.

3 Bldgs.

Idaho National Eng Lab

Scoville Co: Butte ID 83415

Landholding Agency: Energy

Property Number: 41200430089

Status: Excess

Directions: TRA603, TRA604, TRA610.

Reasons: Secured Area.

Bldg. TAN611

Idaho National Eng Lab

Scoville Co: Butte ID 83415

Landholding Agency: Energy

Property Number: 41200430090

Status: Excess

Reasons: Secured Area

5 Bldgs.

Idaho National Eng Lab

Scoville Co: Butte ID 83415

Landholding Agency: Energy

Property Number: 41200430091

Status: Excess

Directions: TRA626, TRA635, TRA642, TRA648, TRA654.

Reasons: Secured Area

Bldg. TAN655

Idaho National Eng Lab

Scoville Co: Butte ID 83415

Landholding Agency: Energy

Property Number: 41200430092

Status: Excess

Reasons: Secured Area

3 Bldgs.

Idaho National Eng Lab

Scoville Co: Butte ID 83415

Landholding Agency: Energy

Property Number: 41200430093

Status: Excess

Directions: TRA657, TRA661, TRA668.

Reasons: Secured Area

Bldg. TAN711

Idaho National Eng Lab

Scoville Co: Butte ID 83415

Landholding Agency: Energy

Property Number: 41200430094

Status: Excess

Reasons: Secured Area

6 Bldgs.

Idaho National Eng Lab

Scoville Co: Butte ID 83415

Landholding Agency: Energy

Property Number: 41200430095

Status: Excess

Directions: CPP602-CPP606, CPP609.

Reasons: Secured Area

5 Bldgs.

Idaho National Eng Lab

Scoville Co: Butte ID 83415

Landholding Agency: Energy

Property Number: 41200430096

Status: Excess

Directions: CPP611-CPP614, CPP616.

Reasons: Secured Area

4 Bldgs.

Idaho National Eng Lab

Scoville Co: Butte ID 83415

Landholding Agency: Energy

Property Number: 41200430097

Status: Excess

Directions: CPP621, CPP626, CPP630, CPP639.

Reasons: Secured Area

4 Bldgs.

Idaho National Eng Lab

Scoville Co: Butte ID 83415

Landholding Agency: Energy

Property Number: 41200430098

Status: Excess

Directions: CPP641, CPP644, CPP645, CPP649.

Reasons: Secured Area

Bldgs. CPP651-CPP655

Idaho National Eng Lab

Scoville Co: Butte ID 83415

Landholding Agency: Energy

Property Number: 41200430099

Status: Excess

Reasons: Secured Area

Bldgs. CPP659-CPP663

Idaho National Eng Lab

Scoville Co: Butte ID 83415

Landholding Agency: Energy

Property Number: 41200440001

Status: Excess

Reasons: Secured Area

Bldgs. CPP666, CPP668

Idaho Naitonal Eng Lab

Scoville Co: Butte ID 83415

Landholding Agency: Energy

Property Number: 41200440002

Status: Excess

Reasons: Secured Area

1 Bldg.

Idaho National Eng Lab

Scoville Co: Butte ID 83415

Landholding Agency: Energy

Property Number: 41200440004

Status: Excess

Directions: CPP684

Reasons: Secured Area

5 Bldgs.

Idaho National Eng Lab

Scoville Co: Butte ID 83415

Landholding Agency: Energy

Property Number: 41200440005

Status: Excess

Directions: CPP692, CPP694, CPP697-CPP699.

Reasons: Secured Area

3 Bldgs.

Idaho National Eng Lab

Scoville Co: Butte ID 83415

Landholding Agency: Energy

Property Number: 41200440006

Status: Excess

Directions: CPP701, CPP701A, CPP708.

Reasons: Secured Area

Bldgs. 711, 719A

Idaho National Eng Lab

Scoville Co: Butte ID 83415

Landholding Agency: Energy

Property Number: 41200440007

Status: Excess

Reasons: Secured Area

4 Bldgs.

Idaho National Eng Lab

Scoville Co: Butte ID 83415

Landholding Agency: Energy

Property Number: 41200440008

Status: Excess

Directions: CPP724-CPP726, CPP728.

Reasons: Secured Area

Bldg. CPP729/741

Idaho National Eng Lab

Scoville Co: Butte ID 83415

Landholding Agency: Energy

Property Number: 41200440012

Status: Excess

Reasons: Secured Area

Bldgs. CPP733, CPP736

Idaho National Eng Lab

Scoville Co: Butte ID 83415

Landholding Agency: Energy

Property Number: 41200440013

Status: Excess

Reasons: Secured Area

Bldgs. CPP740, CPP742

Idaho National Eng Lab

Scoville Co: Butte ID 83415

Landholding Agency: Energy

Property Number: 41200440014

Status: Excess

Reasons: Secured Area

Bldgs. CPP746, CPP748

Idaho National Eng Lab

Scoville Co: Butte ID 83415

Landholding Agency: Energy

Property Number: 41200440015

Status: Excess

Reasons: Secured Area

3 Bldgs.

Idaho National Eng Lab

CPP750, CPP751, CPP752

Scoville Co: Butte ID 83415

Landholding Agency: Energy

Property Number: 41200440016

Status: Excess

Reasons: Secured Area

3 Bldgs.

Idaho National Eng Lab

CPP753, CPP753A, CPP754

Scoville Co: Butte ID 83415

Landholding Agency: Energy

Property Number: 41200440017

Status: Excess

Reasons: Secured Area

Bldgs. CPP760, CPP763

Idaho National Eng Lab

Scoville Co: Butte ID 83415

Landholding Agency: Energy

Property Number: 41200440018

Status: Excess

Reasons: Secured Area

Bldgs. CPP764, CPP765

Idaho National Eng Lab

Scoville Co: Butte ID 83415

Landholding Agency: Energy

Property Number: 41200440019

Status: Excess

Reasons: Secured Area

Bldgs. CPP767, CPP768

Idaho National Eng Lab

Scoville Co: Butte ID 83415

Landholding Agency: Energy

Property Number: 41200440020

Status: Excess

Reasons: Secured Area

Bldgs. CPP791, CPP795

Idaho National Eng Lab

Scoville Co: Butte ID 83415

Landholding Agency: Energy

Property Number: 41200440021

Status: Excess

Reasons: Secured Area

3 Bldgs.

Idaho National Eng Lab

CPP796, CPP797, CPP799

Scoville Co: Butte ID 83415

Landholding Agency: Energy

Property Number: 41200440022

Status: Excess

Reasons: Secured Area

Bldgs. CPP701B, CPP719

Idaho National Eng Lab

Scoville Co: Butte ID 83415

Landholding Agency: Energy

Property Number: 41200440023

Status: Excess

Reasons: Secured Area

Bldgs. CPP720A, CPP720B

Idaho National Eng Lab

Scoville Co: Butte ID 83415

Landholding Agency: Energy

Property Number: 41200440024

Status: Excess

Reasons: Secured Area

Bldg. CPP1781

Idaho National Eng Lab

Scoville Co: Butte ID 83415

Landholding Agency: Energy

Property Number: 41200440025

Status: Excess

Reasons: Secured Area

2 Bldgs.

Idaho National Eng Lab

CPP0000VES-UTI-111, VES-UTI-112

Scoville Co: Butte ID 83415

Landholding Agency: Energy

Property Number: 41200440026

Status: Excess

Reasons: Secured Area

Bldgs. TAN704, TAN733

Idaho National Eng Lab

Scoville Co: Butte ID 83415

Landholding Agency: Energy

Property Number: 41200440028

Status: Excess

Reasons: Secured Area

Bldgs. TAN1611, TAN1614

Idaho National Eng Lab

Scoville Co: Butte ID 83415

Landholding Agency: Energy

Property Number: 41200440029

Status: Excess

Reasons: Secured Area

Bldg. CF633

Idaho Natl Laboratory

Scoville Co: Butte ID 83415

Landholding Agency: Energy

Property Number: 41200520005

Status: Excess

Reasons: Extensive deterioration.

Bldgs. B23-602, B27-601

Idaho Natl Laboratory

Idaho Falls ID 83415

Landholding Agency: Energy

Property Number: 41200820003

Status: Unutilized

Reasons: Secured Area.

Bldgs. CF-635, CF650

Idaho Natl Laboratory

Idaho Falls ID 83415

Landholding Agency: Energy

Property Number: 41200820005

Status: Unutilized

Reasons: Secured Area, Within 2000 ft. of flmmable or explosive material.

Bldgs. CF-662, CF-692

Idaho Natl Laboratory

Idaho Falls ID 83415

Landholding Agency: Energy

Property Number: 41200820006

Status: Unutilized

Reasons: Secured Area, Extensive deterioration.

Bldg. CF-666

Idaho National Laboratory

Idaho Falls ID 83415

Landholding Agency: Energy

Property Number: 41201010005

Status: Unutilized

Reasons: Within 2000 ft. of flammable or explosive material, Secured Area.

Illinois

Bldg. CB562-7141

Wilborn Creek

Shelbyville IL 62565

Landholding Agency: COE

Property Number: 31200620009

Status: Excess

Reasons: Extensive deterioration.

Bldg. CB562-7153

Wilborn Creek

Shelbyville IL 62565

Landholding Agency: COE

Property Number: 31200620010

Status: Excess

Reasons: Extensive deterioration.

Bldg. CB562-7162

Bo Wood

Shelbyville IL 62565

Landholding Agency: COE

Property Number: 31200620011

Status: Excess

Reasons: Extensive deterioration.

Bldg. CB562-7163

Bo Wood

Shelbyville IL 62565

Landholding Agency: COE

Property Number: 31200620012

Status: Excess

Reasons: Extensive deterioration.

Bldg. CB562-7164

Bo Wood

Shelbyville IL 62565

Landholding Agency: COE

Property Number: 31200620013

Status: Excess

Reasons: Extensive deterioration.

Bldg. CB562-7165

Bo Wood

Shelbyville IL 62565

Landholding Agency: COE

Property Number: 31200620014

Status: Excess

Reasons: Extensive deterioration.

Bldg. CB562-7196

Whitley Creek

Shelbyville IL 62565

Landholding Agency: COE

Property Number: 31200620015

Status: Excess

Reasons: Extensive deterioration.

Bldg. CB562-7197

Whitley Creek

Shelbyville IL 62565

Landholding Agency: COE

Property Number: 31200620016

Status: Excess

Reasons: Extensive deterioration.

Bldg. CB562-7199

Whitley Creek

Shelbyville IL 62565

Landholding Agency: COE

Property Number: 31200620017

Status: Excess

Reasons: Extensive deterioration.

Bldg. CB562-7200

Whitley Creek

Shelbyville IL 62565

Landholding Agency: COE

Property Number: 31200620018

Status: Excess

Reasons: Extensive deterioration.

Bldg. CB562-9042

Whitley Creek

Shelbyville IL 62565

Landholding Agency: COE

Property Number: 31200620019

Status: Excess

Reasons: Extensive deterioration.

Bldg. CB639-7876

Rend Lake

Benton IL 62812

Landholding Agency: COE

Property Number: 31200620020

Status: Excess

Reasons: Extensive deterioration.

Fee Booth

Bo Wood Recreation Area

Shelbyville IL 62565

Landholding Agency: COE

Property Number: 31200630008

Status: Unutilized

Reasons: Extensive deterioration.

Comfort Station

Rend Lake

Benton IL 62812

Landholding Agency: COE

Property Number: 31200710004

Status: Excess

Reasons: Extensive deterioration.

Comfort Station

Rend Lake Project

Benton IL 62812

Landholding Agency: COE

Property Number: 31200740001

Status: Excess

Reasons: Extensive deterioration.

Repair Unit Land

400 Old Rock Rd.

Granite City IL 62040

Landholding Agency: COE

Property Number: 31200920005

Status: Unutilized

Reasons: Extensive deterioration.

22 Comfort Stations

Carlyle Lake Project

Carlyle IL 62231

Landholding Agency: COE

Property Number: 31200920032

Status: Unutilized

Directions: CB561-7908, 7909, 7911, 7926, 7927, 7997, 7998, 7999, 8016, 8035, 8037, 8038, 8039, 8040, 8041, 8042, 8078, 8079, 8081, 8097, 8106, 8126.

Reasons: Extensive deterioration.

8 Bldgs.

Lake Shelbyville Project

Shelbyville IL 62565

Landholding Agency: COE

Property Number: 31200920033

Status: Excess

Directions: CB562-7062, 7087, 7088, 7089, 7106, 7140, 7166, 9038.

Reasons: Extensive deterioration.

23 Bldgs.

Rend Lake Project

Benton IL 62812

Landholding Agency: COE

Property Number: 31200920034

Status: Excess

Directions: CB639-7750, 8771, 7757, 7800, 7801, 7811, 7824, 7833, 7834, 7835, 7836, 7838, 7842, 7840, 7839, 7841, 7850, 7870, 7874, 7875, 7877, 7878, 7891.

Reasons: Extensive deterioration.

Trailer

Rend Lake Project

Benton IL 62812

Landholding Agency: COE

Property Number: 31200940003

Status: Excess

Reasons: Extensive deterioration.

Bldgs. 306A, B, C, TR-5

Argonne National Lab

Argonne IL 60439

Landholding Agency: Energy

Property Number: 41200720017

Status: Excess

Reasons: Secured Area.

Bldgs. 310, 330

Argonne National Lab

DuPage IL 60439

Landholding Agency: Energy

Property Number: 41200920007

Status: Excess

Reasons: Contamination, Secured Area.

Indiana

Bldg. 62, VA Medical Center

East 38th Street

Marion Co: Grant IN 46952

Landholding Agency: VA

Property Number: 97199230003

Status: Excess

Reasons: Extensive deterioration.

Iowa

Tract 137

Camp Dodge

Johnston Co: Polk IA 50131-1902

Landholding Agency: COE

Property Number: 31200410001

Status: Excess

Reasons: Extensive deterioration.

Bldg. 29355

Island View Park

Centerville IA 52544

Landholding Agency: COE

Property Number: 31201010002

Status: Excess

Reasons: Extensive deterioration.

Kansas

No. 01017

Kanopolis Project

Marquette Co: Ellsworth KS 67456

Landholding Agency: COE

Property Number: 31200210001

Status: Unutilized

Reasons: Extensive deterioration.

6 Bldgs.

Cottonwood Point/Hillsboro Cove

Marion Co: Coffey KS 66861

Landholding Agency: COE

Property Number: 31200340001

Status: Excess

Reasons: Extensive deterioration.

20 Bldgs.

Riverside

Burlington Co: Coffey KS 66839-8911

Landholding Agency: COE

Property Number: 31200340002

Status: Excess

Reasons: Extensive deterioration.

2 Bldgs.

Canning Creek/Richey Cove

Council Grove Co: Morris KS 66846-9322

Landholding Agency: COE

Property Number: 31200340003

Status: Excess

Reasons: Extensive deterioration.

6 Bldgs.

Santa Fe Trail/Outlet Channel

Council Grove Co: Morris KS 66846

Landholding Agency: COE

Property Number: 31200340004

Status: Excess

Reasons: Extensive deterioration.

16 Bldgs.

Cottonwood Point

Marion KS

Landholding Agency: COE

Property Number: 31200530003

Status: Excess

Reasons: Extensive deterioration.

3 Bldgs.

Damsite PUA

Fall River Co: Greenwood KS 67047

Landholding Agency: COE

Property Number: 31200530004

Status: Excess

Reasons: Extensive deterioration.

2 Bldgs.

Damsite PUA

Fall River Co: Greenwood KS 6047

Landholding Agency: COE

Property Number: 31200530005

Status: Excess

Reasons: Extensive deterioration.

Bldgs.

Canning Creek

Council Grove Co: Morris KS 66846

Landholding Agency: COE

Property Number: 31200620022

Status: Excess

Reasons: Extensive deterioration.

Bldgs. 28370, 28373, 28298

Melvern Lake

Melvern Co: Osage KS 66510

Landholding Agency: COE

Property Number: 31200710006

Status: Excess

Reasons: Extensive deterioration.

Bldgs. 51026, 40016

Outlet Park

Junction City KS 66441

Landholding Agency: COE

Property Number: 31201010003

Status: Excess

Reasons: Extensive deterioration.

Kentucky

Spring House

Kentucky River Lock and Dam No. 1

Highway 320

Carrollton Co: Carroll KY 41008

Landholding Agency: COE

Property Number: 21199040416

Status: Unutilized

Reasons: Other—Spring House.

6-Room Dwelling

Green River Lock and Dam No. 3

Rochester Co: Butler KY 42273

Landholding Agency: COE

Property Number: 31199120010

Status: Unutilized

Directions: Off State Hwy 369, which runs off of Western Ky. Parkway.

Reasons: Floodway.

2-Car Garage

Green River Lock and Dam No. 3

Rochester Co: Butler KY 42273

Landholding Agency: COE

Property Number: 31199120011

Status: Unutilized

Directions: Off State Hwy 369, which runs off of Western Ky. Parkway.

Reasons: Floodway.

Office and Warehouse

Green River Lock and Dam No. 3

Rochester Co: Butler KY 42273

Landholding Agency: COE

Property Number: 31199120012

Status: Unutilized

Directions: Off State Hwy 369, which runs off of Western Ky. Parkway.

Reasons: Floodway.

2 Pit Toilets

Green River Lock and Dam No. 3

Rochester Co: Butler KY 42273

Landholding Agency: COE

Property Number: 31199120013

Status: Unutilized

Reasons: Floodway.

Tract 1379

Barkley Lake

Eddyville Co: Lyon KY 42038

Landholding Agency: COE

Property Number: 31200420001

Status: Unutilized

Reasons: Other—landlocked.

Tract 4300

Barkley Lake

Cadiz Co: Trigg KY 42211

Landholding Agency: COE

Property Number: 31200420002

Status: Unutilized

Reasons: Floodway.

Tracts 317, 318, 319

Barkley Lake

Grand Rivers Co: Lyon KY 42045

Landholding Agency: COE

Property Number: 31200420003

Status: Unutilized

Reasons: Floodway.

Steel Structure

Mcalpine Locks

Louisville KY 40212

Landholding Agency: COE

Property Number: 31200440006

Status: Excess

Reasons: Floodway, Within 2000 ft. of flammable or explosive material.

Comfort Station

Mcalpine Locks

Louisville KY 40212

Landholding Agency: COE

Property Number: 31200440007

Status: Excess

Reasons: Within 2000 ft. of flammable or explosive material Floodway.

Shelter

Mcalpine Locks

Louisville KY 40212

Landholding Agency: COE

Property Number: 31200440008

Status: Excess

Reasons: Floodway, Within 2000 ft. of flammable or explosive material.

Parking Lot

Mcalpine Locks

Louisville KY 40212

Landholding Agency: COE

Property Number: 31200440009

Status: Excess

Reasons: Floodway, Within 2000 ft. of flammable or explosive material.

Loading Docks

Nolin Lake

Bee Spring KY 42007

Landholding Agency: COE

Property Number: 31200540006

Status: Unutilized

Reasons: Extensive deterioration.

Sewage Treatment Plant

Smith Ridge Rec Area

Campbellsville KY 42718

Landholding Agency: COE

Property Number: 31200740008

Status: Excess

Reasons: Extensive deterioration.

Sewage Treatment Plant

Carr Creek Lake

Sassafras KY 41759

Landholding Agency: COE

Property Number: 31200920029

Status: Unutilized

Reasons: Floodway, Extensive deterioration.

Sewage Plant, Pump Station

Nolin River Lake

Bee Spring KY

Landholding Agency: COE

Property Number: 31200930005

Status: Excess

Reasons: Extensive deterioration.

Launching Ramp

Wolf Creek Dam

Somerset KY 42501

Landholding Agency: COE

Property Number: 31200940005

Status: Unutilized

Reasons: Floodway.

Louisiana

Bldg. 11

Naval Support Activity

New Orleans LA 70142

Landholding Agency: Navy

Property Number: 77200810027

Status: Excess

Reasons: Secured Area, Extensive deterioration.

Maryland

Brandywine Family Hsg. Annex

13001-13041 Molly Berry Rd.

Brandywine MD 20613

Landholding Agency: GSA

Property Number: 54201010006

Status: Surplus

GSA Number: NCR-D-MR-1108-AA

Reasons: Within 2000 ft. of flammable or explosive material.

Bldg. 2075

Naval Surface Warfare

Indian Head MD

Landholding Agency: Navy

Property Number: 77200630043

Status: Excess

Reasons: Extensive deterioration.

9 Bldgs

National Naval Medical Ctr

Bethesda MD 20889

Landholding Agency: Navy

Property Number: 77200920028

Status: Unutilized

Directions: 17, 18, 21, 49, 69, 141, 146, 150, 174.

Reasons: Extensive deterioration, Secured Area.

5 Bldgs.

National Naval Medical Ctr

Bethesda MD

Landholding Agency: Navy

Property Number: 77200920030

Status: Unutilized

Directions: 23, 29, 139, 176, 219.

Reasons: Secured Area.

Massachusetts

Lee House

Knightville Dam Project

Huntington MA

Landholding Agency: COE

Property Number: 31200720003

Status: Unutilized

Reasons: Extensive deterioration.

Westview Street Wells

Lexington MA 02173

Landholding Agency: VA

Property Number: 97199920001

Status: Unutilized

Reasons: Extensive deterioration.

Mississippi

Bldg. CB-70

Columbus Lake

Columbus MS 39701

Landholding Agency: COE

Property Number: 31200820009

Status: Unutilized

Reasons: Extensive deterioration.

Bldg. 3053

ERDC

Vicksburg MS 39180

Landholding Agency: COE

Property Number: 31200930008

Status: Unutilized

Reasons: Extensive deterioration.

Bldg. 9

Construction Battalion Center

Gulfport MS

Landholding Agency: Navy

Property Number: 77200610039

Status: Unutilized

Reasons: Secured Area, Extensive deterioration.

Bldgs. 22, 27, 41

Construction Battalion Center

Gulfport MS

Landholding Agency: Navy

Property Number: 77200610040

Status: Unutilized

Reasons: Extensive deterioration, Secured Area.

Bldgs. 108, 181, 183

Construction Battalion Center

Gulfport MS

Landholding Agency: Navy

Property Number: 77200610041

Status: Unutilized

Reasons: Extensive deterioration, Secured Area.

Bldg. 201

Construction Battalion Center

Gulfport MS

Landholding Agency: Navy

Property Number: 77200610042

Status: Unutilized

Reasons: Secured Area, Extensive deterioration.

Bldgs. 270, 270A-1, 270A-2

Construction Battalion Center

Gulfport MS

Landholding Agency: Navy

Property Number: 77200610043

Status: Unutilized

Reasons: Extensive deterioration, Secured Area.

Bldgs. 375, 420

Construction Battalion Center

Gulfport MS

Landholding Agency: Navy

Property Number: 77200610044

Status: Unutilized

Reasons: Extensive deterioration, Secured Area.

Bldgs. 95, 96

Naval Air Station

Meridian MS 39309

Landholding Agency: Navy

Property Number: 77200720046

Status: Unutilized

Reasons: Within 2000 ft. of flammable or explosive material Within airport runway clear zone, Secured Area.

Bldg. 167

Naval Air Station

Meridian MS 39309

Landholding Agency: Navy

Property Number: 77200720047

Status: Unutilized

Reasons: Secured Area.

Bldgs. 212, 228

Naval Air Station

Meridian MS 39309

Landholding Agency: Navy

Property Number: 77200720048

Status: Unutilized

Reasons: Secured Area.

Bldgs. 266, 267

Naval Air Station

Meridian MS 39309

Landholding Agency: Navy

Property Number: 77200720049

Status: Unutilized

Reasons: Secured Area.

Bldgs. 351, 445

Naval Air Station

Meridian MS 39309

Landholding Agency: Navy

Property Number: 77200720050

Status: Unutilized

Reasons: Secured Area.

Bldgs. 182, 183

Naval Air Station

Meridian MS 39309

Landholding Agency: Navy

Property Number: 77200810014

Status: Unutilized

Reasons: Secured Area.

Bldgs. 222, 230, 326

Naval Air Station

Meridian MS 39309

Landholding Agency: Navy

Property Number: 77200810015

Status: Unutilized

Reasons: Secured Area.

Bldg. 6, Boiler Plant

Biloxi VA Medical Center

Gulfport Co: Harrison MS 39531

Landholding Agency: VA

Property Number: 97199410001

Status: Unutilized

Reasons: Floodway.

Bldg. 67

Biloxi VA Medical Center

Gulfport Co: Harrison MS 39531

Landholding Agency: VA

Property Number: 97199410008

Status: Unutilized

Reasons: Extensive deterioration.

Bldg. 68

Biloxi VA Medical Center

Gulfport Co: Harrison MS 39531

Landholding Agency: VA

Property Number: 97199410009

Status: Unutilized

Reasons: Extensive deterioration.

Missouri

Rec Office

Harry S. Truman Dam

Osceola Co: St. Clair MO 64776

Landholding Agency: COE

Property Number: 31200110001

Status: Unutilized

Reasons: Extensive deterioration.

Privy/Nemo Park

Pomme de Terre Lake

Hermitage MO 65668

Landholding Agency: COE

Property Number: 31200120001

Status: Excess

Reasons: Extensive deterioration.

Privy No. 1/Bolivar Park

Pomme de Terre Lake

Hermitage MO 65668

Landholding Agency: COE

Property Number: 31200120002

Status: Excess

Reasons: Extensive deterioration.

Privy No. 2/Bolivar Park

Pomme de Terre Lake

Hermitage MO 65668

Landholding Agency: COE

Property Number: 31200120003

Status: Excess

Reasons: Extensive deterioration.

#07004, 60006, 60007

Crabtree Cove/Stockton Area

Stockton MO 65785

Landholding Agency: COE

Property Number: 31200220007

Status: Excess

Reasons: Extensive deterioration.

Bldg.

Old Mill Park Area

Stockton MO 65785

Landholding Agency: COE

Property Number: 31200310007

Status: Excess

Reasons: Extensive deterioration.

Stockton Lake Proj. Ofc.

Stockton Co: Cedar MO 65785

Landholding Agency: COE

Property Number: 31200330004

Status: Unutilized

Reasons: Extensive deterioration.

House

Tract 1105

Thurnau Mitigation Site

Craig Co: Holt MO 64437

Landholding Agency: COE

Property Number: 31200420005

Status: Unutilized

Reasons: Extensive deterioration.

30x36 Barn

Tract 1105

Thurnau Mitigation Site

Craig Co: Holt MO 64437

Landholding Agency: COE

Property Number: 31200420006

Status: Unutilized

Reasons: Extensive deterioration.

30x26 Barn

Tract 1105

Thurnau Mitigation Site

Craig Co: Holt MO 64437

Landholding Agency: COE

Property Number: 31200420007

Status: Unutilized

Reasons: Extensive deterioration.

30x10 Shed

Tract 1105

Thurnau Mitigation Site

Craig Co: Holt MO 64437

Landholding Agency: COE

Property Number: 31200420008

Status: Unutilized

Reasons: Extensive deterioration.

30x26 Shed

Tract 1105

Thurnau Mitigation Site

Craig Co: Holt MO 64437

Landholding Agency: COE

Property Number: 31200420009

Status: Unutilized

Reasons: Extensive deterioration.

9x9 Shed

Tract 1105

Thurnau Mitigation Site

Craig Co: Holt MO 64437

Landholding Agency: COE

Property Number: 31200420010

Status: Unutilized

Reasons: Extensive deterioration.

Tract 1111

Thurnau Mitigation Site

Craig Co: Holt MO 64437

Landholding Agency: COE

Property Number: 31200420011

Status: Excess

Reasons: Extensive deterioration.

Shower

Pomme de Terre Lake

Hermitage Co: Polk MO 65668

Landholding Agency: COE

Property Number: 31200420012

Status: Unutilized

Reasons: Extensive deterioration.

11 Bldgs.

Warsaw MO 65355

Landholding Agency: COE

Property Number: 31200430013

Status: Excess

Directions: Fairfield, Tally Bend, Cooper Creek, Shawnee Bend.

Reasons: Extensive deterioration.

2 Storage Bldgs.

District Service Base

St. Louis MO

Landholding Agency: COE

Property Number: 31200430014

Status: Excess

Reasons: Extensive deterioration.

Privy

Pomme de Terre Lake

Wheatland Co: Hickory MO

Landholding Agency: COE

Property Number: 31200440010

Status: Underutilized

Reasons: Floodway.

Vault Toilet

Ruark Bluff

Stockton MO

Landholding Agency: COE

Property Number: 31200440011

Status: Excess

Reasons: Extensive deterioration.

Comfort Station

Overlook Area

Stockton MO

Landholding Agency: COE

Property Number: 31200440012

Status: Excess

Reasons: Extensive deterioration.

Maintenance Building

Missouri River Area

Napoleon Co: Lafayette MO 64074

Landholding Agency: COE

Property Number: 31200510007

Status: Excess

Reasons: Floodway.

Bldg. 34001

Orleans Trail Park

Stockton MO 65785

Landholding Agency: COE

Property Number: 31200510008

Status: Excess

Reasons: Extensive deterioration.

Bldgs. 34016, 34017

Orleans Trail Park

Stockton MO 65785

Landholding Agency: COE

Property Number: 31200510009

Status: Excess

Reasons: Extensive deterioration.

Bldg.

Pomme de Terre Lake

Hermitage MO 65668

Landholding Agency: COE

Property Number: 31200610008

Status: Unutilized

Reasons:

Extensive deterioration.

Bldgs. 43841, 43919

Clearwater Project

Piedmont MO 63957

Landholding Agency: COE

Property Number: 31200630010

Status: Unutilized

Reasons: Extensive deterioration.

Dwelling

Harry S. Truman Project

Roscoe MO

Landholding Agency: COE

Property Number: 31200640013

Status: Unutilized

Reasons: Extensive deterioration.

Bldg. 50005

Ruark Bluff East

Stockton MO 65785

Landholding Agency: COE

Property Number: 31200710011

Status: Excess

Reasons: Extensive deterioration.

Bldg. 07002

Crabtree Cove Park

Stockton MO 65785

Landholding Agency: COE

Property Number: 31200710012

Status: Excess

Reasons: Extensive deterioration.

Comfort Station

Riverlands Way Access

West Alton MO 63386

Landholding Agency: COE

Property Number: 31200710013

Status: Excess

Reasons: Extensive deterioration.

Bldg. #55001

Cooper Creek

Warsaw MO 65355

Landholding Agency: COE

Property Number: 31200720005

Status: Excess

Reasons: Extensive deterioration.

Bldgs. 40006, 40007

Pomme de Terre Lake

Pittsburg MO 65724

Landholding Agency: COE

Property Number: 31200730012

Status: Excess

Reasons: Extensive deterioration.

3 Facilities

Wappapello Lake Project

Wayne MO 63966

Landholding Agency: COE

Property Number: 31200730013

Status: Excess

Reasons: Extensive deterioration.

Bldgs. 05004, 05008

Cedar Ridge Park

Stockton MO 65785

Landholding Agency: COE

Property Number: 31200740009

Status: Excess

Reasons: Extensive deterioration.

Bldg. 11002

Greenfield Access

Stockton MO 65785

Landholding Agency: COE

Property Number: 31200740010

Status: Excess

Reasons: Extensive deterioration.

Bldgs. 14008, 14009, 14010

Hawker Point Park

Stockton MO 65785

Landholding Agency: COE

Property Number: 31200740011

Status: Excess

Reasons: Extensive deterioration.

Bldg. 34006

Orleans Trail Park

Stockton MO 65785

Landholding Agency: COE

Property Number: 31200740012

Status: Excess

Reasons: Extensive deterioration.

Bldg. ES801-8319

Wappapello Lake Project

Wayne MO 63966

Landholding Agency: COE

Property Number: 31200740013

Status: Excess

Reasons: Extensive deterioration

Bldg. 14004

Hawker Point Park

Stockton MO 65785

Landholding Agency: COE

Property Number: 31200820008

Status: Excess

Reasons: Extensive deterioration.

Picnic Shelter

ES801-8357, 009R31

Wappapello MO 63966

Landholding Agency: COE

Property Number: 31200830001

Status: Excess

Reasons: Extensive deterioration.

Picnic Shelter

ES801-8358, 009R32

Wappapello MO 63966

Landholding Agency: COE

Property Number: 31200830002

Status: Excess

Reasons: Extensive deterioration.

Bldgs. 23002, 23006

Masters Park

Stockton MO 65785

Landholding Agency: COE

Property Number: 31200840009

Status: Excess

Reasons: Extensive deterioration.

Bldgs. 50014, 50015

Ruark Bluff West

Stockton MO 65785

Landholding Agency: COE

Property Number: 31200840010

Status: Excess

Reasons: Extensive deterioration.

10 Vault Comfort Station

Mark Twain Lake

Monroe City MO 63456

Landholding Agency: COE

Property Number: 31200920045

Status: Excess

Directions: CC302-7388, 7396, 7413, 7486, 7535, 7536, 7542, 7543, 7552, 7553.

Reasons: Extensive deterioration.

Picnic Shelter ES801-8343

Wappapello Lake Project

Wappapello MO 63966

Landholding Agency: COE

Property Number: 31200920046

Status: Excess

Reasons: Extensive deterioration.

42 Privies

Stockton Project Office

Stockton MO 65785

Landholding Agency: COE

Property Number: 31200920047

Status: Excess

Directions: Cedar Ridge, Crabtree Cove, Hawker Point, High Point, Masters, Mutton Creek, Orleans Trail, Ruark Bluff East, Ruark Bluff West, Stockton Area.

Reasons: Extensive deterioration

Bldgs. 47005, 47018

Pomme de Terre Lake

Hermitage MO 65724

Landholding Agency: COE

Property Number: 31200920048

Status: Unutilized

Reasons: Extensive deterioration.

30 Bldgs.

Harry S. Truman Reservoir

Warsaw MO 65355

Landholding Agency: COE

Property Number: 31200920049

Status: Unutilized

Directions: 13012, 13014, 13015, 31005, 31006, 31007, 40005, 40006, 40007, 51008, 51009, 60005, 60006, 60007, 60008, 60009, 60010, 70004, 70005, 70006, 13013, 51006, 51007, 51010, 63009, 63011, 70003, 07010, 60016, 63030.

Reasons: Extensive deterioration.

Bldg. 34010

Orleans Trail Park

Stockton MO

Landholding Agency: COE

Property Number: 31200930006

Status: Excess

Reasons: Extensive deterioration.

8 Bldgs.

Harry Truman Reservoir

Warsaw MO 65355

Landholding Agency: COE

Property Number: 31200930007

Status: Unutilized

Directions: #07007, 07008, 07009, 05011, 49008, 49009, 63004, 63005.

Reasons: Extensive deterioration.

5 Well Houses

Wappapello Lake Project

Wayne MO 63966

Landholding Agency: COE

Property Number: 31200940009

Status: Unutilized

Reasons: Extensive deterioration.

CC3029057, CC3027354

Mark Twain Lake

Monroe City MO 63456

Landholding Agency: COE

Property Number: 31201010004

Status: Excess

Reasons: Extensive deterioration.

Bldg. 3

VA Medical Center

Jefferson Barracks Division

St. Louis MO 63125

Landholding Agency: VA

Property Number: 97200340001

Status: Underutilized

Reasons: Secured Area.

Bldg. 4

VA Medical Center

Jefferson Barracks Division

St. Louis MO

Landholding Agency: VA

Property Number: 97200340002

Status: Underutilized

Reasons: Secured Area.

Bldg. 27

VA Medical Center

Jefferson Barracks Division

St. Louis MO 63125

Landholding Agency: VA

Property Number: 97200340003

Status: Underutilized

Reasons: Secured Area.

Bldg. 28

VA Medical Center

Jefferson Barracks Division

St. Louis MO 63125

Landholding Agency: VA

Property Number: 97200340004

Status: Underutilized

Reasons: Secured Area.

Bldg. 29

VA Medical Center

Jefferson Barracks Division

St. Louis MO 63125

Landholding Agency: VA

Property Number: 97200340005

Status: Underutilized

Reasons: Secured Area.

Bldg. 50

VA Medical Center

Jefferson Barracks Division

St. Louis MO 63125

Landholding Agency: VA

Property Number: 97200340006

Status: Underutilized

Reasons: Secured Area.

Nebraska

Vault Toilets

Harlan County Project

Republican NE 68971

Landholding Agency: COE

Property Number: 31200210006

Status: Unutilized

Reasons: Extensive deterioration.

Patterson Treatment Plant

Harlan County Project

Republican NE 68971

Landholding Agency: COE

Property Number: 31200210007

Status: Unutilized

Reasons: Extensive deterioration.

#30004

Harlan County Project

Republican Co: Harlan NE 68971

Landholding Agency: COE

Property Number: 31200220008

Status: Unutilized

Reasons: Extensive deterioration.

#3005, 3006

Harlan County Project

Republican Co: Harlan NE 68971

Landholding Agency: COE

Property Number: 31200220009

Status: Unutilized

Reasons: Extensive deterioration.

Bldgs. 70001, 70002

South Outlet Park

Republican City NE

Landholding Agency: COE

Property Number: 31200510010

Status: Excess

Reasons: Extensive deterioration.

Bldgs. 40002, 40003, 40006

Harlan County Lake

Republican City NE 68971

Landholding Agency: COE

Property Number: 31200610009

Status: Excess

Reasons: Extensive deterioration.

Bldg. 40020

Harlan County Lake

Republican City NE 68971

Landholding Agency: COE

Property Number: 31200610010

Status: Excess

Reasons: Extensive deterioration.

4 Bldgs.

43004, 43007, 43008, 43009

Republican City NE 68971

Landholding Agency: COE

Property Number: 31200610011

Status: Excess

Reasons: Extensive deterioration.

6 Bldgs.

Harlan County Lake

Republican City NE 68971

Landholding Agency: COE

Property Number: 31200610012

Status: Excess

Directions: 50003, 50004, 50005, 50006, 50007, 50008.

Reasons: Extensive deterioration.

Nevada

28 Facilities

Nevada Test Site

Mercury Co: Nye NV 89023

Landholding Agency: Energy

Property Number: 41200310018

Status: Excess

Reasons: Secured Area, Other—contamination.

31 Bldgs./Facilities

Nellis AFB

Tonopah Test Range

Tonopah Co: Nye NV 89049

Landholding Agency: Energy

Property Number: 41200330003

Status: Unutilized

Reasons: Secured Area.

42 Bldgs.

Nellis Air Force Base

Tonopah Co: Nye NV 89049

Landholding Agency: Energy

Property Number: 41200410029

Status: Unutilized

Directions: 49-01, NM104, NM105, 03-35A-H, 03-35J-N, 03-36A-C, 03-36E-H, 03-36J-N, 03-36R, 03-37, 15036, 03-44A-D, 03-46, 03-47, 03-49, 03-88, 03-89, 03-90.

Reasons: Secured Area.

241 Bldgs.

Tonopah Test Range

Tonopah Co: Nye NV 89049

Landholding Agency: Energy

Property Number: 41200440036

Status: Excess

Reasons: Within 2000 ft. of flammable or explosive material, Secured Area.

10 Bldgs.

Nevada Test Site

Mercury Co: Nye NV 89023

Landholding Agency: Energy

Property Number: 41200610003

Status: Excess

Reasons: Secured Area.

3 Bldgs.

Nevada Test Site

23-790, 06-CP50, 26-2107

Mercury Co: Nye NV 89023

Landholding Agency: Navy

Property Number: 77200510025

Status: Excess

Reasons: Secured Area, Other—contamination.

Units 501-521

Naval Air Station

Fallon NV

Landholding Agency: Navy

Property Number: 77200710017

Status: Excess

Reasons: Secured Area.

New Mexico

Bldgs. 9252, 9268

Kirtland Air Force Base

Albuquerque Co: Bernalillo NM 87185

Landholding Agency: Energy

Property Number: 41199430002

Status: Unutilized

Reasons: Extensive deterioration.

Tech Area II

Kirtland Air Force Base

Albuquerque Co: Bernalillo NM 87105

Landholding Agency: Energy

Property Number: 41199630004

Status: Unutilized

Reasons: Within 2000 ft. of flammable or explosive material, Secured Area, Extensive deterioration.

Bldg. 26, TA-33

Los Alamos National Laboratory

Los Alamos NM 87545

Landholding Agency: Energy

Property Number: 41199810004

Status: Unutilized

Reasons: Secured Area, Extensive deterioration.

Bldg. 2, TA-21

Los Alamos National Laboratory

Los Alamos NM 87545

Landholding Agency: Energy

Property Number: 41199810008

Status: Underutilized

Reasons: Secured Area.

Bldg. 5, TA-21

Los Alamos National Laboratory

Los Alamos NM 87545

Landholding Agency: Energy

Property Number: 41199810011

Status: Unutilized

Reasons: Secured Area.

Bldg. 116, TA-21

Los Alamos National Laboratory

Los Alamos NM 87545

Landholding Agency: Energy

Property Number: 41199810013

Status: Unutilized

Reasons: Secured Area.

Bldg. 286, TA-21

Los Alamos National Laboratory

Los Alamos NM 87545

Landholding Agency: Energy

Property Number: 41199810016

Status: Unutilized

Reasons: Secured Area.

Bldg. 516, TA-16

Los Alamos National Laboratory

Los Alamos NM 87545

Landholding Agency: Energy

Property Number: 41199810021

Status: Unutilized

Reasons: Extensive deterioration, Secured Area, Within 2000 ft. of flammable or explosive material.

Bldg. 517, TA-16

Los Alamos National Laboratory

Los Alamos NM 87545

Landholding Agency: Energy

Property Number: 41199810022

Status: Unutilized

Reasons: Secured Area, Extensive deterioration, Within 2000 ft. of flammable or explosive material.

Bldg. 31

Los Alamos National Lab

Los Alamos NM 87545

Landholding Agency: Energy

Property Number: 41199930003

Status: Unutilized

Reasons: Extensive deterioration, Secured Area.

Bldg. 38, TA-14

Los Alamos National Lab

Los Alamos NM 87545

Landholding Agency: Energy

Property Number: 41199940004

Status: Unutilized

Reasons: Extensive deterioration, Secured Area.

Bldg. 9, TA-15

Los Alamos National Lab

Los Alamos NM 87545

Landholding Agency: Energy

Property Number: 41199940006

Status: Unutilized

Reasons: Secured Area.

Bldg. 141, TA-15

Los Alamos National Lab

Los Alamos NM 87545

Landholding Agency: Energy

Property Number: 41199940008

Status: Unutilized

Reasons: Secured Area.

Bldg. 44, TA-15

Los Alamos National Lab

Los Alamos NM 87545

Landholding Agency: Energy

Property Number: 41199940009

Status: Unutilized

Reasons: Secured Area.

Bldg. 2, TA-18

Los Alamos National Lab

Los Alamos NM 87545

Landholding Agency: Energy

Property Number: 41199940010

Status: Unutilized

Reasons: Extensive deterioration, Secured Area.

Bldg. 5, TA-18

Los Alamos National Lab

Los Alamos NM 87545

Landholding Agency: Energy

Property Number: 41199940011

Status: Unutilized

Reasons: Extensive deterioration, Secured Area.

Bldg. 186, TA-18

Los Alamos National Lab

Los Alamos NM 87545

Landholding Agency: Energy

Property Number: 41199940012

Status: Unutilized

Reasons: Extensive deterioration, Secured Area.

Bldg. 188, TA-18

Los Alamos National Lab

Los Alamos NM 87545

Landholding Agency: Energy

Property Number: 41199940013

Status: Unutilized

Reasons: Extensive deterioration, Secured Area.

Bldg. 44, TA-36

Los Alamos National Lab

Los Alamos NM 87545

Landholding Agency: Energy

Property Number: 41199940015

Status: Unutilized

Reasons: Extensive deterioration, Secured Area.

Bldg. 45, TA-36

Los Alamos National Lab

Los Alamos NM 87545

Landholding Agency: Energy

Property Number: 41199940016

Status: Unutilized

Reasons: Extensive deterioration, Secured Area.

Bldg. 258, TA-46

Los Alamos National Lab

Los Alamos NM 87545

Landholding Agency: Energy

Property Number: 41199940019

Status: Unutilized

Reasons: Extensive deterioration, Secured Area.

TA-3, Bldg. 208

Los Alamos National Lab

Los Alamos NM 87545

Landholding Agency: Energy

Property Number: 41200010010

Status: Unutilized

Reasons: Secured Area, Extensive deterioration

TA-14, Bldg. 5

Los Alamos National Lab

Los Alamos NM 87545

Landholding Agency: Energy

Property Number: 41200010019

Status: Unutilized

Reasons: Secured Area.

TA-21, Bldg. 150

Los Alamos National Lab

Los Alamos NM 87545

Landholding Agency: Energy

Property Number: 41200010020

Status: Unutilized

Reasons: Secured Area.

Bldg. 149, TA-21

Los Alamos National Lab

Los Alamos NM 87545

Landholding Agency: Energy

Property Number: 41200010024

Status: Unutilized

Reasons: Secured Area.

Bldg. 312, TA-21

Los Alamos National Lab

Los Alamos NM 87545

Landholding Agency: Energy

Property Number: 41200010025

Status: Unutilized

Reasons: Secured Area.

Bldg. 313, TA-21

Los Alamos National Lab

Los Alamos NM 87545

Landholding Agency: Energy

Property Number: 41200010026

Status: Unutilized

Reasons: Secured Area.

Bldg. 314, TA-21

Los Alamos National Lab

Los Alamos NM 87545

Landholding Agency: Energy

Property Number: 41200010027

Status: Unutilized

Reasons: Secured Area.

Bldg. 315, TA-21

Los Alamos National Lab

Los Alamos NM 87545

Landholding Agency: Energy

Property Number: 41200010028

Status: Unutilized

Reasons: Secured Area.

Bldg. 1, TA-8

Los Alamos National Lab

Los Alamos NM 87545

Landholding Agency: Energy

Property Number: 41200010029

Status: Unutilized

Reasons: Secured Area.

Bldg. 2, TA-8

Los Alamos National Lab

Los Alamos NM 87545

Landholding Agency: Energy

Property Number: 41200010030

Status: Unutilized

Reasons: Secured Area, Extensive deterioration.

Bldg. 3, TA-8

Los Alamos National Lab

Los Alamos NM 87545

Landholding Agency: Energy

Property Number: 41200020001

Status: Unutilized

Reasons: Extensive deterioration, Secured Area.

Bldg. 51, TA-9

Los Alamos National Lab

Los Alamos NM 87545

Landholding Agency: Energy

Property Number: 41200020002

Status: Unutilized

Reasons: Secured Area.

Bldg. 30, TA-14

Los Alamos National Lab

Los Alamos NM 87545

Landholding Agency: Energy

Property Number: 41200020003

Status: Unutilized

Reasons: Secured Area.

Bldg. 16, TA-3

Los Alamos National Lab

Los Alamos NM 87545

Landholding Agency: Energy

Property Number: 41200020009

Status: Unutilized

Reasons: Secured Area.

Bldg. 48, TA-55

Los Alamos National Lab

Los Alamos NM 87545

Landholding Agency: Energy

Property Number: 41200020017

Status: Unutilized

Reasons: Secured Area.

Bldg. 125, TA-55

Los Alamos National Lab

Los Alamos NM 87545

Landholding Agency: Energy

Property Number: 41200020018

Status: Unutilized

Reasons: Secured Area.

Bldg. 162, TA-55

Los Alamos National Lab

Los Alamos NM 87545

Landholding Agency: Energy

Property Number: 41200020019

Status: Unutilized

Reasons: Secured Area.

Bldg. 22, TA-33

Los Alamos National Lab

Los Alamos NM 87545

Landholding Agency: Energy

Property Number: 41200020022

Status: Unutilized

Reasons: Secured Area, Extensive deterioration.

Bldg. 23, TA-49

Los Alamos National Lab

Los Alamos NM 87545

Landholding Agency: Energy

Property Number: 41200020023

Status: Unutilized

Reasons: Secured Area.

Bldg. 37, TA-53

Los Alamos National Lab

Los Alamos NM 87545

Landholding Agency: Energy

Property Number: 41200020024

Status: Unutilized

Reasons: Secured Area.

Bldg. 121, TA-49

Los Alamos National Lab

Los Alamos NM 87545

Landholding Agency: Energy

Property Number: 41200020025

Status: Unutilized

Reasons: Secured Area.

Bldg. B117

Kirtland Operations

Albuquerque Co: Bernalillo NM 87117

Landholding Agency: Energy

Property Number: 41200220032

Status: Excess

Reasons: Extensive deterioration.

Bldg. B118

Kirtland Operations

Albuquerque Co: Bernalillo NM 87117

Landholding Agency: Energy

Property Number: 41200220033

Status: Excess

Reasons: Extensive deterioration.

Bldg. B119

Kirtland Operations

Albuquerque Co: Bernalillo NM 87117

Landholding Agency: Energy

Property Number: 41200220034

Status: Excess

Reasons: Extensive deterioration.

Bldg. 2, TA-11

Los Alamos National Lab

Los Alamos NM 87545

Landholding Agency: Energy

Property Number: 41200240004

Status: Unutilized

Reasons: Secured Area.

Bldg. 4, TA-41

Los Alamos National Lab

Los Alamos NM 87545

Landholding Agency: Energy

Property Number: 41200240005

Status: Unutilized

Reasons: Secured Area.

Bldg. 116, TA-21

Los Alamos National Lab

Los Alamos NM 87545

Landholding Agency: Energy

Property Number: 41200310003

Status: Unutilized

Reasons: Secured Area.

Bldgs. 1, 2, 3, 4, 5, TA-28

Los Alamos National Lab

Los Alamos NM 87545

Landholding Agency: Energy

Property Number: 41200310004

Status: Unutilized

Reasons: Secured Area.

Bldgs. 447, 1483

Los Alamos Natl Laboratory

Los Alamos NM

Landholding Agency: Energy

Property Number: 41200410002

Status: Excess

Reasons: Secured Area, Extensive deterioration.

Bldg. 99650

Sandia National Laboratory

Albuquerque Co: Bernalillo NM 87185

Landholding Agency: Energy

Property Number: 41200510004

Status: Unutilized

Reasons: Secured Area.

Bldgs. 807, 6017 CAMU2&CAMU3

Sandia Natl Laboratories

Albuquerque NM 87185

Landholding Agency: Energy

Property Number: 41200730001

Status: Unutilized

Reasons: Secured Area.

Bldg. 6502

Sandia National Lab

Albuquerque NM 87185

Landholding Agency: Energy

Property Number: 41200810002

Status: Unutilized

Reasons: Extensive deterioration, Secured Area.

Bldg. 6596

Sandia National Labs

Albuquerque NM 87185

Landholding Agency: Energy

Property Number: 41200920001

Status: Unutilized

Reasons: Extensive deterioration, Secured Area.

9 Bldgs.

Los Alamos National Lab

Los Alamos NM

Landholding Agency: Energy

Property Number: 41200920006

Status: Excess

Directions: 08-0026, 08-0030, 08-0065, 16-0193, 16-0242, 16-0244, 16-0897, 16-1489, 55-0107.

Reasons: Secured Area.

2 Bldgs.

Los Alamos National Lab

18-0257, 18-0258

Los Alamos NM 87545

Landholding Agency: Energy

Property Number: 41200920008

Status: Excess

Reasons: Extensive deterioration, Secured Area.

9 Bldgs.

Los Alamos National Lab

Los Alamos NM 87545

Landholding Agency: Energy

Property Number: 41200920009

Status: Excess

Directions: 53-0401, 53-0403, 53-0409, 53-0456, 53-0514, 53-0525, 53-0535, 53-0544, 53-0675.

Reasons: Extensive deterioration, Secured Area.

6 Bldgs.

Los Alamos National Lab

Los Alamos NM 87545

Landholding Agency: Energy

Property Number: 41200920010

Status: Excess

Directions: 54-0117, 54-0185, 54-210, 54-211, 54-221, 54-221, 60-0282.

Reasons: Extensive deterioration, Secured Area.

6 Bldgs.

Los Alamos National Lab

Los Alamos NM 87545

Landholding Agency: Energy

Property Number: 41200920011

Status: Excess

Directions: 21-0155, 21-0209, 21-0213, 21-0227, 21-0229, 21-0257.

Reasons: Extensive deterioration, Secured Area.

8 Bldgs.

Los Alamos National Lab

Los Alamos NM 87545

Landholding Agency: Energy

Property Number: 41200920012

Status: Excess

Directions: 54-0226, 63-0001, 63-0002, 63-0003, 63-0004, 63-0077, 63-0078, 63-0093.

Reasons: Extensive deterioration, Secured Area.

7 Bldgs.

Los Alamos National Lab

Los Alamos NM

Landholding Agency: Energy

Property Number: 41200930001

Status: Unutilized

Directions: 16-0421, 18-0005, 18-0026, 18-0129, 18-0141, 18-0147, 18-0189.

Reasons: Extensive deterioration, Secured Area.

7 Bldgs.

Los Alamos National Lab

Los Alamos NM

Landholding Agency: Energy

Property Number: 41200930002

Status: Unutilized

Directions: 52-0035, 52-0036, 52-0105, 52-0123, 60-0045, 69-0002, 69-0005.

Reasons: Extensive deterioration, Secured Area.

11 Bldgs.

Los Alamas Natl Lab

Los Alamos NM

Landholding Agency: Energy

Property Number: 41200930004

Status: Excess

Directions: 21-0031, 21-0042, 21-0080, 21-0212, 21-0328, 21-0355, 21-0357, 21-0370, 54-0062, 54-0215, 54-0216.

Reasons: Extensive deterioration, Secured Area.

11 Bldgs.

Los Alamos Natl Lab

Los Alamos NM 87545

Landholding Agency: Energy

Property Number: 41200930005

Status: Excess

Directions: 03-2239, 03-02240, 03-1535, 03-1651, 03-1790, 16-0251, 16-0898, 16-1407, 48-0046, 48-0047, 64-0027.

Reasons: Secured Area.

5 Bldgs.

Los Alamos National Lab

Los Alamos NM 87545

Landholding Agency: Energy

Property Number: 41200940001

Status: Excess

Directions: 54-0002, 54-0008, 54-0011, 54-0020, 54-0048.

Reasons: Extensive deterioration, Secured Area.

10 Bldgs.

Los Alamos National Lab

Los Alamos NM 87545

Landholding Agency: Energy

Property Number: 41200940002

Status: Excess

Directions: 54-0153, 54-0156, 54-0224, 54-0242, 54-0281, 54-0282, 54-0289, 54-0464, 54-1051, 54-1052.

Reasons: Extensive deterioration, Secured Area.

10 Bldgs.

Los Alamos National Lab

Los Alamos NM 87545

Landholding Agency: Energy

Property Number: 41200940003

Status: Excess

Directions: 15-0263, 16-0306, 16-0430, 16-0435, 16-0437, 18-0028, 18-0037, 18-0138, 18-0227, 18-0297.

Reasons: Secured Area, Within 2000 ft. of flammable or explosive material.

13 Bldgs.

Los Alamos National Lab

Los Alamos NM 87545

Landholding Agency: Energy

Property Number: 41200940004

Status: Unutilized

Directions: 54-0306, 54-0315, 54-0324, 54-0325, 54-1058, 54-0296, 54-0304, 54-0367, 54-0483, 54-1027, 54-1028, 54-1030, 54-1041.

Reasons: Extensive deterioration, Secured Area.

9 Bldgs.

Los Alamos National Lab

Los Alamos NM 87545

Landholding Agency: Energy

Property Number: 41200940005

Status: Unutilized

Directions: 35-0046, 35-0224, 35-0226, 35-0227, 35-0249, 35-0250, 35-0256, 35-0337, 35-0382.

Reasons: Extensive deterioration, Secured Area.

13 Bldgs.

Los Alamos National Lab

Los Alamos NM 87545

Landholding Agency: Energy

Property Number: 41201010003

Status: Unutilized

Directions: 03-2237, 09-0273, 36-0082, 46-0165, 46-0179, 46-0185, 46-0231, 46-0232, 46-0234, 46-0254, 46-0314, 46-0546, 52-0043.

Reasons: Extensive deterioration, Secured Area.

11 Bldgs.

Los Alamos National Lab

Los Alamos NM 87545

Landholding Agency: Energy

Property Number: 41201010004

Status: Unutilized

Directions: 03-1516, 03-1533, 03-1559, 03-1566, 08-0020, 08-0032, 09-0051, 09-0214, 11-0024, 11-0036, 14-0006.

Reasons: Extensive deterioration, Secured Area.

New York

Warehouse

Whitney Lake Project

Whitney Point Co: Broome NY 13862-0706

Landholding Agency: COE

Property Number: 31199630007

Status: Unutilized

Reasons: Extensive deterioration.

Bldg. 0096

Brookhaven National Lab

Upton NY 11973

Landholding Agency: Energy

Property Number: 41200730004

Status: Unutilized

Reasons: Extensive deterioration, Secured Area.

Bldg. 913T

Brookhaven Natl Laboratory

Upton NY 11973

Landholding Agency: Energy

Property Number: 41200830001

Status: Unutilized

Reasons: Within 2000 ft. of flammable or explosive material, Secured Area, Extensive deterioration.

Bldgs. 680B, 680C

Brookhaven Natl Lab

Upton NY 11973

Landholding Agency: Energy

Property Number: 41200920002

Status: Excess

Reasons: Extensive deterioration, Secured Area, Within 2000 ft. of flammable or explosive material.

North Carolina

Preston Clark USARC

1301 N. Memorial Dr.

Greenville Co: Pitt NC 27834

Landholding Agency: COE

Property Number: 31200620032

Status: Unutilized

Reasons: Extensive deterioration.

Bldg. MC-A01

Morehead City NC

Landholding Agency: COE

Property Number: 31200740014

Status: Excess

Reasons: Extensive deterioration.

5 Bldgs.

Natural Park

Wilkesboro NC 28697

Landholding Agency: COE

Property Number: 31200930012

Status: Unutilized

Directions: WC-A01, WC-AC01, WC-AW01, WC-FR01, WC-FC01.

Reasons: Extensive deterioration.

3 Bldgs.

Natural Park

Wilkesboro NC 28697

Landholding Agency: COE

Property Number: 31200930013

Status: Unutilized

Directions: BM-W01, BR-R02, RM-M06.

Reasons: Extensive deterioration.

Bldg. 82

Marine Corps Air Station

Cherry Point Co: Craven NC 28533

Landholding Agency: Navy

Property Number: 77200510009

Status: Underutilized

Reasons: Secured Area.

Bldg. 4314

Marine Corps Air Station

Cherry Point Co: Craven NC 28533

Landholding Agency: Navy

Property Number: 77200510010

Status: Underutilized

Reasons: Secured Area

Bldg. 124

Marine Corps Air Station

Cherry Point Co: Craven NC 28533

Landholding Agency: Navy

Property Number: 77200510023

Status: Underutilized

Reasons: Secured Area

Bldgs. 73, 95, 1018

Marine Corps Air Station

Cherry Point NC

Landholding Agency: Navy

Property Number: 77200620003

Status: Unutilized

Reasons: Secured Area

Bldg. 499

Marine Corps Air Station

Cherry Point NC

Landholding Agency: Navy

Property Number: 77200620038

Status: Unutilized

Reasons: Secured Area

Bldgs. 3177, 3885

Marine Corps Air Station

Cherry Point NC

Landholding Agency: Navy

Property Number: 77200620039

Status: Unutilized

Reasons: Secured Area

Bldg. 4473

Marine Corps Air Station

Cherry Point NC

Landholding Agency: Navy

Property Number: 77200620040

Status: Unutilized

Reasons: Secured Area

Bldg. 4523

Marine Corps Air Station

Cherry Point NC

Landholding Agency: Navy

Property Number: 77200620041

Status: Unutilized

Reasons: Secured Area

Bldg. 9

VA Medical Center

1100 Tunnel Road

Asheville Co: Buncombe NC 28805

Landholding Agency: VA

Property Number: 97199010008

Status: Unutilized

Reasons: Extensive deterioration

Ohio

Installation 39875

Hayes Reserve Center

Fremont OH 43420

Landholding Agency: COE

Property Number: 31200740016

Status: Excess

Reasons: Extensive deterioration

Bldg. 105

VA Medical Center

Dayton Co: Montgomery OH 45428

Landholding Agency: VA

Property Number: 97199920005

Status: Unutilized

Reasons: Extensive deterioration

Oklahoma

Comfort Station

LeFlore Landing PUA

Sallisaw Co: LeFlore OK 74955-9445

Landholding Agency: COE

Property Number: 31200240008

Status: Excess

Reasons: Extensive deterioration

Comfort Station

Braden Bend PUA

Sallisaw Co: LeFlore OK 74955-9445

Landholding Agency: COE

Property Number: 31200240009

Status: Excess

Reasons: Extensive deterioration

Water Treatment Plant

Salt Creek Cove

Sawyer Co: Choctaw OK 74756-0099

Landholding Agency: COE

Property Number: 31200240010

Status: Excess

Reasons: Extensive deterioration

Water Treatment Plant

Wilson Point

Sawyer Co: Choctaw OK 74756-0099

Landholding Agency: COE

Property Number: 31200240011

Status: Excess

Reasons: Extensive deterioration

2 Comfort Stations

Landing PUA/Juniper Point PUA

Stigler Co: McIntosh OK 74462-9440

Landholding Agency: COE

Property Number: 31200240012

Status: Excess

Reasons: Extensive deterioration

Filter Plant/Pumphouse

South PUA

Stigler Co: McIntosh OK 74462-9440

Landholding Agency: COE

Property Number: 31200240013

Status: Excess

Reasons: Extensive deterioration

Filter Plant/Pumphouse

North PUA

Stigler Co: McIntosh OK 74462-9440

Landholding Agency: COE

Property Number: 31200240014

Status: Excess

Reasons: Extensive deterioration

Filter Plant/Pumphouse

Juniper Point PUA

Stigler Co: McIntosh OK 74462-9440

Landholding Agency: COE

Property Number: 31200240015

Status: Excess

Reasons: Extensive deterioration

Comfort Station

Juniper Point PUA

Stigler Co: McIntosh OK 74462-9440

Landholding Agency: COE

Property Number: 31200240016

Status: Excess

Reasons: Extensive deterioration

Comfort Station

Brooken Cove PUA

Stigler Co: McIntosh OK 74462-9440

Landholding Agency: COE

Property Number: 31200240017

Status: Excess

Reasons: Extensive deterioration

2 Bldgs.

Outlet Channel/Walker Creek

Waurika OK 73573-0029

Landholding Agency: COE

Property Number: 31200340013

Status: Excess

Reasons: Extensive deterioration

2 Bldgs.

Damsite South

Stigler OK 74462-9440

Landholding Agency: COE

Property Number: 31200340014

Status: Excess

Reasons: Extensive deterioration

19 Bldgs.

Kaw Lake

Ponca City OK 74601-9962

Landholding Agency: COE

Property Number: 31200340015

Status: Excess

Reasons: Extensive deterioration

30 Bldgs.

Keystone Lake

Sand Springs OK 74063-9338

Landholding Agency: COE

Property Number: 31200340016

Status: Excess

Reasons: Extensive deterioration

13 Bldgs.

Oologah Lake

Oologah OK 74053-0700

Landholding Agency: COE

Property Number: 31200340017

Status: Excess

Reasons: Extensive deterioration

14 Bldgs.

Pine Creek Lake

Valliant OK 74764-9801

Landholding Agency: COE

Property Number: 31200340018

Status: Excess

Reasons: Extensive deterioration

6 Bldgs.

Sardis Lake

Clayton OK 74536-9729

Landholding Agency: COE

Property Number: 31200340019

Status: Excess

Reasons: Extensive deterioration

22 Bldgs.

Skiatook Lake

Skiatook OK 74070-9803

Landholding Agency: COE

Property Number: 31200340020

Status: Excess

Reasons: Extensive deterioration

40 Bldgs.

Eufaula Lake

Stigler OK 74462-5135

Landholding Agency: COE

Property Number: 31200340021

Status: Excess

Reasons: Extensive deterioration

2 Bldgs.

Holiday Cove

Stigler OK 74462-5135

Landholding Agency: COE

Property Number: 31200340022

Status: Excess

Reasons: Extensive deterioration

18 Bldgs.

Fort Gibson

Ft. Gibson Co: Wagoner OK 74434-0370

Landholding Agency: COE

Property Number: 31200340023

Status: Excess

Reasons: Extensive deterioration

2 Bldgs.

Fort Supply

Ft. Supply Co: Woodward OK 73841-0248

Landholding Agency: COE

Property Number: 31200340024

Status: Excess

Reasons: Extensive deterioration

Game Bird House

Fort Supply Lake

Ft. Supply Co: Woodward OK 73841-0248

Landholding Agency: COE

Property Number: 31200340025

Status: Excess

Reasons: Extensive deterioration

11 Bldgs.

Hugo Lake

Sawyer OK 74756-0099

Landholding Agency: COE

Property Number: 31200340026

Status: Excess

Reasons: Extensive deterioration

5 Bldgs.

Birch Cove/Twin Cove

Skiatook OK 74070-9803

Landholding Agency: COE

Property Number: 31200340027

Status: Excess

Reasons: Extensive deterioration

2 Bldgs.

Fairview Group Camp

Canton OK 73724-0069

Landholding Agency: COE

Property Number: 31200340028

Status: Excess

Reasons: Extensive deterioration

2 Bldgs.

Chouteau Bluff

Gore Co: Wagoner OK 74935-9404

Landholding Agency: COE

Property Number: 31200340029

Status: Excess

Reasons: Extensive deterioration

2 Bldgs.

Newt Graham L

Gore OK 74935-9404

Landholding Agency: COE

Property Number: 31200340030

Status: Excess

Reasons: Extensive deterioration

2 Bldgs.

Damsite/Fisherman's Landing

Sallisaw OK 74955-9445

Landholding Agency: COE

Property Number: 31200340031

Status: Excess

Reasons: Extensive deterioration

10 Bldgs.

Webbers Falls Lake

Gore OK 74435-5541

Landholding Agency: COE

Property Number: 31200340032

Status: Excess

Reasons: Extensive deterioration

Bldg.

Lower Storage Yard

Skiatook Co: Osage OK 74070

Landholding Agency: COE

Property Number: 31200530007

Status: Excess

Reasons: Extensive deterioration.

3 Bldgs.

Birch Cove PUA

Skiatook Co: Osage OK 74070

Landholding Agency: COE

Property Number: 31200530008

Status: Excess

Reasons: Extensive deterioration.

Bldg.

Canadian Public Use Area

Canton Co: Blaine OK 73724

Landholding Agency: COE

Property Number: 31200530009

Status: Excess

Reasons: Extensive deterioration.

3 Bldgs.

Porum Landing PUA

Stigler Co: McIntosh OK 74462

Landholding Agency: COE

Property Number: 31200530010

Status: Excess

Reasons: Extensive deterioration.

2 Bldgs.

Bluff/Afton Landing

Ft. Gibson Co: Wagoner OK 74434

Landholding Agency: COE

Property Number: 31200530012

Status: Excess

Reasons: Extensive deterioration.

Bldg.

Lake Office

Ft. Supply Co: Woodward OK 73841

Landholding Agency: COE

Property Number: 31200530013

Status: Excess

Reasons: Extensive deterioration.

4 Bldgs.

Overlook PUA

Ft. Supply Co: Texas OK 73841

Landholding Agency: COE

Property Number: 31200530014

Status: Excess

Reasons: Extensive deterioration.

Bldg.

Hugo Lake

Sawyer Co: Chocktaw OK 74756

Landholding Agency: COE

Property Number: 31200530015

Status: Excess

Reasons: Extensive deterioration.

2 Bldgs.

Sarge Creek PUA

Ponca City Co: Kay OK 74601

Landholding Agency: COE

Property Number: 31200530016

Status: Excess

Reasons: Extensive deterioration.

5 Bldgs.

Hawthorne Bluff

Oologah Co: Rogers OK 74053

Landholding Agency: COE

Property Number: 31200530017

Status: Excess

Reasons: Extensive deterioration.

12 Bldgs.

Trout Stream PUAs

Gore Co: Sequoyah OK 74435

Landholding Agency: COE

Property Number: 31200530018

Status: Excess

Reasons: Extensive deterioration.

14 Bldgs.

Chicken Creek PUAs

Gore Co: Cherokee OK 74435

Landholding Agency: COE

Property Number: 31200530019

Status: Excess

Reasons: Extensive deterioration.

4 Bldgs.

Snake Creek Area

Gore Co: Sequoyah OK 74435

Landholding Agency: COE

Property Number: 31200530020

Status: Excess

Reasons: Extensive deterioration.

3 Bldgs.

Brewer's Bend

Gore Co: Muskogee OK 74435

Landholding Agency: COE

Property Number: 31200530021

Status: Excess

Reasons: Extensive deterioration.

Facility

Hulah Lake

Copan Co: Osage OK 74022

Landholding Agency: COE

Property Number: 31200620025

Status: Excess

Reasons: Extensive deterioration.

Bldg.

Webbers Falls

Muskogee OK 74435

Landholding Agency: COE

Property Number: 31200620026

Status: Excess

Reasons: Extensive deterioration.

24 Bldgs.

Hulah Lake

Copan OK

Landholding Agency: COE

Property Number: 31200630011

Status: Unutilized

Reasons: Extensive deterioration.

Bldgs. 44760, 44707

Canton Lake

Canton OK 73724

Landholding Agency: COE

Property Number: 31200630012

Status: Unutilized

Reasons: Extensive deterioration.

Bldg.

Skiatook Lake

Skiatook OK 74070

Landholding Agency: COE

Property Number: 31200630013

Status: Unutilized

Reasons: Extensive deterioration.

Bldgs. 43263, 42364

Oologah Lake

Oologah OK 74053

Landholding Agency: COE

Property Number: 31200630015

Status: Unutilized

Reasons: Extensive deterioration.

Bldg.

Webbers Falls Lake

Webbers Falls OK

Landholding Agency: COE

Property Number: 31200630016

Status: Unutilized

Reasons: Extensive deterioration.

Bldgs. 43523, 43820

Hugo Lake

Sawyer OK 74756

Landholding Agency: COE

Property Number: 31200630017

Status: Unutilized

Reasons: Extensive deterioration.

Bldg.

Newt Graham Lock 18

Inola OK

Landholding Agency: COE

Property Number: 31200640014

Status: Unutilized

Reasons: Extensive deterioration.

4 Bldgs.

Gore OK 74435

Landholding Agency: COE

Property Number: 31200640016

Status: Unutilized

Directions: Afton Landing or Bluff Landing.

Reasons: Extensive deterioration.

Pinecr-58321

Pine Creek Lake

Valiant OK

Landholding Agency: COE

Property Number: 31200710015

Status: Unutilized

Reasons: Extensive deterioration.

KAW-58649

Garrett's Landing

Kaw City OK

Landholding Agency: COE

Property Number: 31200710016

Status: Unutilized

Reasons: Extensive deterioration.

Bldg.

Sizemore Landing

Gore OK 74435

Landholding Agency: COE

Property Number: 31200720007

Status: Unutilized

Reasons: Extensive deterioration.

Bldg.

Taylor Ferry

Fort Gibson OK 74434

Landholding Agency: COE

Property Number: 31200720008

Status: Unutilized

Reasons: Extensive deterioration.

Bldgs. 42670, 42634

Tenkiller Lake

Gore OK 74435

Landholding Agency: COE

Property Number: 31200730014

Status: Unutilized

Reasons: Extensive deterioration.

Bldg. 41946

Webbers Falls Lake

Webbers Lake OK

Landholding Agency: COE

Property Number: 31200730015

Status: Unutilized

Reasons: Extensive deterioration.

Bldgs. 44760, 44707

Canton Lake

Canton OK

Landholding Agency: COE

Property Number: 31200730016

Status: Unutilized

Reasons: Extensive deterioration.

6 Bldgs.

Hugo Lake

Sawyer OK

Landholding Agency: COE

Property Number: 31200730017

Status: Unutilized

Directions: 43803, 43802, 43827, 43760, 43764, 43763.

Reasons: Extensive deterioration.

Gatehouse

Porum Landing

Stigler OK 75562

Landholding Agency: COE

Property Number: 31200740017

Status: Unutilized

Reasons: Extensive deterioration.

Bldgs. 42008, 55088

Webbers Falls Lake

Webbers Falls OK

Landholding Agency: COE

Property Number: 31200740019

Status: Unutilized

Reasons: Extensive deterioration.

4 Bldgs.

Optima Lake

Texas OK

Landholding Agency: COE

Property Number: 31200820010

Status: Unutilized

Directions: 43119, 43192, 43193, 43262.

Reasons: Extensive deterioration.

Bldg. FTGIBS-57431

Fort Gibson

Fort Gibson OK

Landholding Agency: COE

Property Number: 31200840011

Status: Unutilized

Reasons: Extensive deterioration.

Bldg. 43446, Keystone

Washington Irving Rec Area

Sand Springs OK 74063

Landholding Agency: COE

Property Number: 31200920010

Status: Unutilized

Reasons: Extensive deterioration.

Bldgs. 43611, 43612, 43545

Kaw Lake

Coon Creek

Ponca City OK 74604

Landholding Agency: COE

Property Number: 31200920011

Status: Unutilized

Reasons: Extensive deterioration.

9 Bldgs.

Eufaula Lake

Stigler OK 74462

Landholding Agency: COE

Property Number: 31200920012

Status: Unutilized

Reasons: Extensive deterioration.

Bldg. 44065

Fort Gibson

Taylor Ferry South

Ft. Gibson OK 74434

Landholding Agency: COE

Property Number: 31200920013

Status: Unutilized

Reasons: Extensive deterioration.

10 Bldgs.

Flat Rock Creek

Fort Gibson OK 74434

Landholding Agency: COE

Property Number: 31200920014

Status: Unutilized

Reasons: Extensive deterioration.

Bldg. 44763

Canton Lake

Canton OK 73724

Landholding Agency: COE

Property Number: 31200920015

Status: Unutilized

Reasons: Extensive deterioration.

Bldgs. 43302, 43303

Newt Graham Lock & Dam

Inola OK 74036

Landholding Agency: COE

Property Number: 31200920016

Status: Unutilized

Reasons: Extensive deterioration.

5 Bldgs.

Eufaula Lake

Stigler OK 74462

Landholding Agency: COE

Property Number: 31200920050

Status: Unutilized

Directions: EUFUAL-44237, 44147, 56608, 56609, 56570.

Reasons: Extensive deterioration.

61 Structures

Newt Graham Lock & Dam

Inola OK 74036

Landholding Agency: COE

Property Number: 31200920051

Status: Unutilized

Reasons: Extensive deterioration.

19 Structures

Tenkiller Lake

Webber Falls

Gore OK 74435

Landholding Agency: COE

Property Number: 31200920052

Status: Unutilized

Reasons: Extensive deterioration.

40 Structures

Tenkiller Lake

Gore OK 74435

Landholding Agency: COE

Property Number: 31200920053

Status: Unutilized

Reasons: Extensive deterioration.

Bldg. RSKERR-42811

Kerr Lock & Dam

Sallisaw OK 74955

Landholding Agency: COE

Property Number: 31200930009

Status: Unutilized

Reasons: Extensive deterioration.

Bldg. 43992

Fort Gibson Lake

Fort Gibson OK 74434

Landholding Agency: COE

Property Number: 31200940010

Status: Unutilized

Reasons: Extensive deterioration.

Bldgs. 43847, 43783

Hugo Lake

Sawyer OK 74756

Landholding Agency: COE

Property Number: 31200940011

Status: Unutilized

Reasons: Extensive deterioration.

32 Bldgs.

Optima Lake

Texas OK

Landholding Agency: COE

Property Number: 31200940012

Status: Unutilized

Reasons: Extensive deterioration.

CANTON 44700, 44701, 44762

Big Bend Park

Canton OK 73724

Landholding Agency: COE

Property Number: 31201010005

Status: Unutilized

Reasons: Extensive deterioration.

Oregon

2 Floating Docks

Rogue River

Gold Beach Co: Curry OR 97444

Landholding Agency: COE

Property Number: 31200430015

Status: Excess

Reasons: Floodway.

2 Trailers

John Day Project

#1 West Marine Drive

Boardman Co: Morrow OR 97818

Landholding Agency: COE

Property Number: 31200510012

Status: Unutilized

Reasons: Extensive deterioration.

Restroom—V0035

McNary Lock & Dam

Umatilla OR

Landholding Agency: COE

Property Number: 31200940013

Status: Unutilized

Reasons: Extensive deterioration.

Pennsylvania

Bldgs. TIO 12328, 12333

Tionesta PA 16353

Landholding Agency: COE

Property Number: 31200820011

Status: Unutilized

Reasons: Extensive deterioration.

Z-Bldg.

Bettis Atomic Power Lab

West Mifflin Co: Allegheny PA 15122-0109

Landholding Agency: Energy

Property Number: 41199720002

Status: Excess

Reasons: Extensive deterioration.

Bldgs. 13, 90, 93, 97

Naval Support Activity

Philadelphia PA 19111

Landholding Agency: Navy

Property Number: 77200820012

Status: Excess

Reasons: Secured Area, Extensive deterioration.

Bldgs. 431, 483

Naval Support Activity

Philadelphia PA 19111

Landholding Agency: Navy

Property Number: 77200820013

Status: Excess

Reasons: Within 2000 ft. of flammable or explosive material Extensive deterioration.

Bldgs. 530, 534, 567, 585

Naval Support Activity

Philadelphia PA 19111

Landholding Agency: Navy

Property Number: 77200820014

Status: Excess

Reasons: Extensive deterioration, Within 2000 ft. of flammable or explosive material.

Bldgs. 618, 743

Naval Support Activity

Philadelphia PA 19111

Landholding Agency: Navy

Property Number: 77200820015

Status: Excess

Reasons: Extensive deterioration.

Bldg. 37

Naval Support Activity

Philadelphia PA

Landholding Agency: Navy

Property Number: 77200930009

Status: Excess

Reasons: Secured Area.

Bldgs. 619, 636, 662, 947

Naval Business Center

Philadelphia PA 19112

Landholding Agency: Navy

Property Number: 77200930010

Status: Excess

Reasons: Within 2000 ft. of flammable or explosive material.

Bldgs. 47, 531, 1070

Naval Support Activity

Mechanicsburg PA

Landholding Agency: Navy

Property Number: 77200930018

Status: Excess

Reasons: Extensive deterioration.

17 Bldgs.

Naval Support Activity

Philadelphia PA

Landholding Agency: Navy

Property Number: 77201010014

Status: Excess

Directions: 23, 41, 42, 43, 44, 45, 46, 47, 48, 50, 52, 53, 54, 55, 56, 57, 58.

Reasons: Secured Area.

Rhode Island

Bldg. 305CP

Naval Station

Newport RI 02841

Landholding Agency: Navy

Property Number: 77200820004

Status: Excess

Reasons: Extensive deterioration, Secured Area.

Bldg. 1A-CC

Naval Station

Newport RI 02841

Landholding Agency: Navy

Property Number: 77200820022

Status: Excess

Reasons: Secured Area.

Bldg. 164

Naval Station

Newport RI 02841

Landholding Agency: Navy

Property Number: 77200820036

Status: Excess

Reasons: Within 2000 ft. of flammable or explosive material Floodway, Secured Area.

Bldgs. 348, 85CHI

Naval Station

Newport RI

Landholding Agency: Navy

Property Number: 77200820043

Status: Unutilized

Reasons: Secured Area.

Facility 670

Naval Station

Harbor Island

Newport RI 02841

Landholding Agency: Navy

Property Number: 77200820044

Status: Excess

Reasons: Extensive deterioration, Secured Area.

South Carolina

36 Bldgs.

J. Strom Thurmond Lake

Clarks Hill SC 29821

Landholding Agency: COE

Property Number: 31200920017

Status: Unutilized

Reasons: Extensive deterioration.

Bldg. JST 17244

J. Strom Thurmond Lake

Clarks Hill SC 29821

Landholding Agency: COE

Property Number: 31200920018

Status: Unutilized

Reasons: Extensive deterioration.

Bldg. 701-6G

Jackson Barricade

Jackson SC

Landholding Agency: Energy

Property Number: 41200420010

Status: Unutilized

Reasons: Secured Area.

Bldg. 211-000F

Nuclear Materials Processing Facility

Aiken SC 29802

Landholding Agency: Energy

Property Number: 41200420011

Status: Excess

Reasons: Secured Area.

Bldg. 221-001F

Nuclear Materials Processing Facility

Aiken SC 29802

Landholding Agency: Energy

Property Number: 41200420015

Status: Excess

Reasons: Secured Area.

Bldg. 190-K

Savannah River Operations

Aiken SC 29802

Landholding Agency: Energy

Property Number: 41200420030

Status: Unutilized

Reasons: Secured Area.

Bldg. 710-015N

Savannah River Operations

Aiken SC 29802

Landholding Agency: Energy

Property Number: 41200430002

Status: Excess

Reasons: Secured Area.

Bldg. 713-000N

Savannah River Operations

Aiken SC 29802

Landholding Agency: Energy

Property Number: 41200430003

Status: Excess

Reasons: Secured Area.

Bldgs. 80-9G, 10G

Savannah River Operations

Aiken SC 29802

Landholding Agency: Energy

Property Number: 41200430006

Status: Excess

Reasons: Secured Area.

Bldgs. 105-P, 105-R

Savannah River Operations

Aiken SC 29802

Landholding Agency: Energy

Property Number: 41200430007

Status: Excess

Reasons: Secured Area.

Bldg. 183-003L

Savannah River Operations

Aiken SC 29802

Landholding Agency: Energy

Property Number: 41200430009

Status: Excess

Reasons: Secured Area.

Bldg. 221-016F

Savannah River Operations

Aiken SC 29802

Landholding Agency: Energy

Property Number: 41200430014

Status: Excess

Reasons: Secured Area.

Bldgs. 221-053F, 054F

Savannah River Operations

Aiken SC 29802

Landholding Agency: Energy

Property Number: 41200430016

Status: Excess

Reasons: Secured Area.

Bldgs. 252-003F, 005F

Savannah River Operations

Aiken SC 29802

Landholding Agency: Energy

Property Number: 41200430017

Status: Excess

Reasons: Secured Area.

Bldg. 315-M

Savannah River Operations

Aiken SC 29802

Landholding Agency: Energy

Property Number: 41200430030

Status: Excess

Reasons: Secured Area.

Bldg. 716-002A

Savannah River Operations

Aiken SC 29802

Landholding Agency: Energy

Property Number: 41200430040

Status: Excess

Reasons: Secured Area.

Bldgs. 221-21F, 22F

Savannah River Operations

Aiken SC 29802

Landholding Agency: Energy

Property Number: 41200430042

Status: Excess

Reasons: Secured Area.

Bldg. 221-033F

Savannah River Operations

Aiken SC 29802

Landholding Agency: Energy

Property Number: 41200430043

Status: Excess

Reasons: Secured Area.

Bldg. 254-007F

Savannah River Operations

Aiken SC 29802

Landholding Agency: Energy

Property Number: 41200430044

Status: Excess

Reasons: Secured Area.

Bldg. 281-001F

Savannah River Operations

Aiken SC 29802

Landholding Agency: Energy

Property Number: 41200430045

Status: Excess

Reasons: Secured Area.

Bldg. 281-004F

Savannah River Operations

Aiken SC 29802

Landholding Agency: Energy

Property Number: 41200430046

Status: Excess

Reasons: Secured Area.

Bldg. 281-006F

Savannah River Operations

Aiken SC 29802

Landholding Agency: Energy

Property Number: 41200430047

Status: Excess

Reasons: Secured Area.

Bldg. 703-045A

Savannah River Operations

Aiken SC 29802

Landholding Agency: Energy

Property Number: 41200430050

Status: Excess

Reasons: Secured Area.

Bldg. 703-071A

Savannah River Operations

Aiken SC 29802

Landholding Agency: Energy

Property Number: 41200430051

Status: Excess

Reasons: Secured Area.

Bldg. 754-008A

Savannah River Operations

Aiken SC 29802

Landholding Agency: Energy

Property Number: 41200430058

Status: Excess

Reasons: Secured Area.

Bldg. 186-R

Savannah River Site

Aiken SC

Landholding Agency: Energy

Property Number: 41200430063

Status: Unutilized

Reasons: Secured Area.

4 Bldgs.

Savannah River Site

#281-2F, 281-5F, 285-F, 285-5F

Aiken SC

Landholding Agency: Energy

Property Number: 41200430066

Status: Unutilized

Reasons: Secured Area.

Bldg. 701-000M

Savannah River Site

Aiken SC 29802

Landholding Agency: Energy

Property Number: 41200430084

Status: Unutilized

Reasons: Secured Area.

Bldg. 690-000N

Savannah River Site

Aiken SC 29802

Landholding Agency: Energy

Property Number: 41200440032

Status: Underutilized

Reasons: Secured Area.

Facility 701-5G

Savannah River Site

New Ellenton SC

Landholding Agency: Energy

Property Number: 41200530003

Status: Unutilized

Reasons: Extensive deterioration.

Bldg. 714-000A

Savannah River Site

Aiken SC

Landholding Agency: Energy

Property Number: 41200620014

Status: Underutilized

Reasons: Secured Area.

Bldg. 777-018A

Savannah River Site

Aiken SC 29802

Landholding Agency: Energy

Property Number: 41200620022

Status: Excess

Reasons: Secured Area.

Bldgs. 108-1P, 108-2P

Savannah River Site

Aiken SC 29802

Landholding Agency: Energy

Property Number: 41200630007

Status: Unutilized

Reasons: Secured Area.

Bldg. 701-001P

Savannah River Site

Aiken SC 29802

Landholding Agency: Energy

Property Number: 41200640002

Status: Unutilized

Reasons: Secured Area.

Bldgs. 151-1P, 151-2P

Savannah River site

Aiken SC 29802

Landholding Agency: Energy

Property Number: 41200640004

Status: Unutilized

Reasons: Secured Area.

Bldg. 191-P

Savannah River Site

Aiken SC 29802

Landholding Agency: Energy

Property Number: 41200640005

Status: Unutilized

Reasons: Secured Area.

Bldg. 710-P

Savannah River Site

Aiken SC 29802

Landholding Agency: Energy

Property Number: 41200640006

Status: Unutilized

Reasons: Secured Area.

Bldg. 614-63G

Savannah River Site

Aiken SC 29802

Landholding Agency: Energy

Property Number: 41200710006

Status: Unutilized

Reasons: Secured Area.

Bldgs. 701-2G, -905-117G

Savannah River Site

Aiken SC 29802

Landholding Agency: Energy

Property Number: 41200710007

Status: Unutilized

Reasons: Secured Area.

Bldgs. 108-1R, 108-2R

Savannah River Site

Aiken SC 29802

Landholding Agency: Energy

Property Number: 41200710010

Status: Unutilized

Reasons: Secured Area.

Bldgs. 717-003S, 717-010S

Savannah River Site

Aiken SC 29802

Landholding Agency: Energy

Property Number: 41200710011

Status: Unutilized

Reasons: Secured Area.

Facility 151-1R

Savannah River Site

Aiken SC 29802

Landholding Agency: Energy

Property Number: 41200810001

Status: Underutilized

Reasons: Secured Area.

Bldgs. 1000 thru 1021

Naval Weapons Station

Goose Creek Co: Berkeley SC 29445

Landholding Agency: Navy

Property Number: 77200440018

Status: Unutilized

Reasons: Secured Area.

Bldg. 102

Marine Corps Recruit Depot

Parris Island Co: Beaufort SC 29905

Landholding Agency: Navy

Property Number: 77200530017

Status: Unutilized

Reasons: Extensive deterioration, Secured Area, Floodway.

21 Bldgs.

Naval Weapons Station

Goose Creek Co: Berkely SC 29445

Landholding Agency: Navy

Property Number: 77200620034

Status: Unutilized

Directions: 4, 167C, 174, 180, 350, 383, 400, 410, 769, 790, 823, 824, 904, 930, 930A, 953, 953A, 971, 975, 2305, 3526.

Reasons: Secured Area, Within 2000 ft. of flammable or explosive material.

Bldg. 1148

Naval Weapons Station

Goose Creek Co: Berkeley SC 29445

Landholding Agency: Navy

Property Number: 77200630044

Status: Excess

Reasons: Extensive deterioration.

Bldg. 200

Marine Corps Recruit Depot

Parris Island SC 29905

Landholding Agency: Navy

Property Number: 77200720018

Status: Unutilized

Reasons: Secured Area, Floodway.

Bldgs. 908, 1ATX211-1ATX220

Naval Weapons Station

Goose Creek SC 29445

Landholding Agency: Navy

Property Number: 77200810029

Status: Unutilized

Reasons: Secured Area, Within 2000 ft. of flammable or explosive material.

Bldgs. 40, 48, 856

Naval Weapons Station

Goose Creek SC 29445

Landholding Agency: Navy

Property Number: 77200810030

Status: Unutilized

Reasons: Within 2000 ft. of flammable or explosive material, Secured Area.

Bldgs. 934, 2333

Naval Weapons Station

Goose Creek SC 29445

Landholding Agency: Navy

Property Number: 77200810031

Status: Unutilized

Reasons: Within 2000 ft. of flammable or explosive material, Secured Area.

South Dakota

Mobile Home

Tract L-1295

Oahe Dam

Potter SD 00000

Landholding Agency: COE

Property Number: 31200030001

Status: Excess

Reasons: Extensive deterioration.

Tennessee

Bldg. 204

Cordell Hull Lake and Dam Project.

Defeated Creek Recreation Area

Carthage Co: Smith TN 37030

Landholding Agency: COE

Property Number: 31199011499

Status: Unutilized

Directions: US Highway 85.

Reasons: Floodway.

Tract 2618 (Portion)

Cordell Hull Lake and Dam Project

Roaring River Recreation Area

Gainesboro Co: Jackson TN 38562

Landholding Agency: COE

Property Number: 31199011503

Status: Underutilized

Directions: TN Highway 135.

Reasons: Floodway.

Water Treatment Plant

Dale Hollow Lake Project

Obey River Park, State Hwy 42

Livingston Co: Clay TN 38351

Landholding Agency: COE

Property Number: 31199140011

Status: Excess

Reasons: Other—water treatment plant.

Water Treatment Plant

Dale Hollow Lake Project

Lillydale Recreation Area, State Hwy 53

Livingston Co: Clay TN 38351

Landholding Agency: COE

Property Number: 31199140012

Status: Excess

Reasons: Other—water treatment plant.

Water Treatment Plant

Dale Hollow Lake Project

Willow Grove Recreational Area, Hwy No. 53

Livingston Co: Clay TN 38351

Landholding Agency: COE

Property Number: 31199140013

Status: Excess

Reasons: Other—water treatment plant.

Comfort Station/Land

Cook Campground

Nashville Co: Davidson TN 37214

Landholding Agency: COE

Property Number: 31200420024

Status: Unutilized

Reasons: Floodway.

Tracts 915, 920, 931C-1

Cordell Hull Dam/Reservoir

Cathage Co: Smith TN 37030

Landholding Agency: COE

Property Number: 31200430016

Status: Unutilized

Reasons: Other—landlocked, Floodway.

Residence #5

5050 Dale Hollow Dam Rd.

Celina Co: Clay TN 38551

Landholding Agency: COE

Property Number: 31200540010

Status: Unutilized

Reasons: Other—landlocked.

Bldg.

Dale Hollow Lake Dam

Celina Co: Clay TN 38551

Landholding Agency: COE

Property Number: 31200610013

Status: Unutilized

Reasons: Extensive deterioration.

Bldg. 9418-1

Y-12 Plant

Oak Ridge Co: Anderson TN 37831

Landholding Agency: Energy

Property Number: 41199810026

Status: Unutilized

Reasons: Secured Area, Extensive deterioration.

Bldg. 2010

Oak Ridge Natl Laboratory

Oak Ridge TN 37831

Landholding Agency: Energy

Property Number: 41200710009

Status: Excess

Reasons: Secured Area, Extensive deterioration.

3 Bldgs.

Y-12 Natl Nuclear Security Complex

Oak Ridge TN 37831

Landholding Agency: Energy

Property Number: 41200720001

Status: Unutilized

Directions: 9104-01, 9104-02, 9104-03.

Reasons: Secured Area.

Bldgs. 1035, 1058, 1061

E. Tennessee Technology Park

Oak Ridge TN

Landholding Agency: Energy

Property Number: 41200730002

Status: Unutilized

Reasons: Secured Area, Contamination, Extensive deterioration.

Bldgs. 1231, 1416

E. Tennessee Technology Park

Oak Ridge TN 37831

Landholding Agency: Energy

Property Number: 41200730003

Status: Unutilized

Reasons: Contamination, Secured Area, Extensive deterioration.

Bldgs. 413, 1059

E. TN Tech Park

Oak Ridge TN 37831

Landholding Agency: Energy

Property Number: 41200730006

Status: Excess

Reasons: Contamination, Secured Area.

Bldgs. 1000, 1008F, 1028

E. TN Technology Park

Oak Ridge TN 37831

Landholding Agency: Energy

Property Number: 41200810005

Status: Excess

Reasons: Secured Area.

Bldgs. 1101, 1201, 1501

E. TN Technology Park

Oak Ridge TN 37831

Landholding Agency: Energy

Property Number: 41200810006

Status: Excess

Reasons: Within airport runway clear zone, Secured Area.

4 Bldgs.

East TN Technology Park

Oak Ridge TN 37831

Landholding Agency: Energy

Property Number: 41200810007

Status: Excess

Directions: 1513, 1515, 1515E, 1515H.

Reasons: Secured Area.

3 Bldgs.

Y-12 National Security Complex

9706-01, 9706-01A, 9711-05

Oak Ridge TN 37831

Landholding Agency: Energy

Property Number: 41200810008

Status: Unutilized

Reasons: Secured Area.

3 Bldgs.

Y-12 National Security Complex

9733-01, 9733-02, 9733-03

Oak Ridge TN 37831

Landholding Agency: Energy

Property Number: 41200810009

Status: Unutilized

Reasons: Secured Area.

Bldgs. 9734, 9739

Y-12 National Security Complex

Oak Ridge TN 37831

Landholding Agency: Energy

Property Number: 41200810010

Status: Unutilized

Reasons: Secured Area.

4 Bldgs.

Y-12 Natl Security Complex

Oak Ridge TN 37831

Landholding Agency: Energy

Property Number: 41200910001

Status: Unutilized

Directions: 9201-05, 9622, 9769, 9983-HP.

Reasons: Secured Area.

13 Bldgs.

Y-12 Natl Security Complex

Oak Ridge TN 37831

Landholding Agency: Energy

Property Number: 41200920003

Status: Unutilized

Directions: 9404-02, 9404-04, 9409-04, 9409-30, 9416-18, 9416-21, 9709, 9709-19, 9720-19A, 9720-19B, 9724-01, 9766, 9983-FE.

Reasons: Secured Area.

Bldgs. 2, 3, 5

Naval/Marine Corps Rsv Ctr

Knoxville Co: Knox TN 37920

Landholding Agency: Navy

Property Number: 77200530018

Status: Unutilized

Reasons: Secured Area, Extensive deterioration.

Bldgs. 9720-03, 9720-06

Y-12 Natl Nuclear Security Complex

Oak Ridge TN 37831

Landholding Agency: Navy

Property Number: 77200720038

Status: Unutilized

Reasons: Secured Area.

Texas

Comfort Station

Overlook PUA

Powderly Co: Lamar TX 75473-9801

Landholding Agency: COE

Property Number: 31200240018

Status: Excess

Reasons: Extensive deterioration.

148 Bldgs.

Texoma Lake

Denison TX

Landholding Agency: COE

Property Number: 31200740018

Status: Unutilized

Reasons: Extensive deterioration.

18 Bldgs.

Texoma Lake

Denison TX

Landholding Agency: COE

Property Number: 31200820012

Status: Unutilized

Reasons: Extensive deterioration.

Bldg.

Stilling Basin

Pat Mayes Lake

Powderly TX 75473

Landholding Agency: COE

Property Number: 31200820013

Status: Unutilized

Reasons: Extensive deterioration.

4 Bldgs. Burns Run Area

Texoma Lake

57667, 42562, 42486, 42568

Denison TX

Landholding Agency: COE

Property Number: 31200840012

Status: Unutilized

Reasons: Extensive deterioration.

Bldgs. 42466, 42508

Johnson Creek/Caney Creek

Denison TX

Landholding Agency: COE

Property Number: 31200920019

Status: Unutilized

Reasons: Extensive deterioration.

4 Bldgs.

Lake Texoma

42558, 42473, 42543, 42496

Denison TX

Landholding Agency: COE

Property Number: 31200920020

Status: Unutilized

Reasons: Extensive deterioration.

Bldg. 42479

Texoma Lake

Denison TX

Landholding Agency: COE

Property Number: 31200930010

Status: Unutilized

Reasons: Extensive deterioration.

Boat Dock

Pat Mayse Lake

Powderly TX 75473

Landholding Agency: COE

Property Number: 31200940014

Status: Unutilized

Reasons: Extensive deterioration.

Old USMC Training Center

Fort Point

Galveston TX 77550

Landholding Agency: COE

Property Number: 31200940015

Status: Unutilized

Reasons: Extensive deterioration.

5 Bldgs.

Pat Mayse Lake

Powderly TX 75473

Landholding Agency: COE

Property Number: 31201010006

Status: Unutilized

Directions: 43018, 43017, 43010, 43011, 43012

Reasons: Extensive deterioration.

Zone 12, Bldg. 12-20

Pantex Plant

Amarillo Co: Carson TX 79120

Landholding Agency: Energy

Property Number: 41200220053

Status: Unutilized

Reasons: Secured Area, Within 2000 ft. of flammable or explosive material.

Bldgs. 12-017E, 12-019E

Pantex Plant

Amarillo Co: Carson TX 79120

Landholding Agency: Energy

Property Number: 41200320010

Status: Unutilized

Reasons: Secured Area Within 2000 ft. of flammable or explosive material.

4 Bldgs.

NNSA Pantex Plant

Amarillo Co: Carson TX 79120

Landholding Agency: Energy

Property Number: 41200540002

Status: Unutilized

Directions: 12-009, 12-009A, 12-R-009A, 12-R-009B

Reasons: Secured Area, Within 2000 ft. of flammable or explosive material.

Bldg. 12-011A

NNSA Pantex Plant

Amarillo Co: Carson TX 79120

Landholding Agency: Energy

Property Number: 41200540003

Status: Unutilized

Reasons: Secured Area, Within 2000 ft. of flammable or explosive material.

Bldg. 12-097

NNSA Pantex Plant

Amarillo Co: Carson TX 79120

Landholding Agency: Energy

Property Number: 41200540004

Status: Unutilized

Reasons: Within 2000 ft. of flammable or explosive material, Secured Area.

Bldgs. 11-54, 11-54A

Zone 11

Plantex Plant

Amarillo Co: Carson TX 79120

Landholding Agency: Energy

Property Number: 41200630008

Status: Unutilized

Reasons: Secured Area, Within 2000 ft. of flammable or explosive material.

Bldg. 12-002B

Zone 12

Pantex Plant

Amarillo Co: Carson TX 79120

Landholding Agency: Energy

Property Number: 41200630009

Status: Unutilized

Reasons: Within 2000 ft. of flammable or explosive material, Secured Area.

4 Bldgs.

12-003, 12-R-003, 12-003L

Zone 12, Pantex Plant

Amarillo Co: Carson TX 79120

Landholding Agency: Energy

Property Number: 41200630010

Status: Unutilized

Reasons: Secured Area, Within 2000 ft. of flammable or explosive material.

Bldg. 12-014

Zone 12

Pantex Plant

Amarillo Co: Carson TX 79120

Landholding Agency: Energy

Property Number: 41200630011

Status: Unutilized

Reasons: Within 2000 ft. of flammable or explosive material, Secured Area.

Bldg. 12-24E

Zone 12

Pantex Plant

Amarillo Co: Carson TX 79120

Landholding Agency: Energy

Property Number: 41200630012

Status: Unutilized

Reasons: Within 2000 ft. of flammable or explosive material, Secured Area.

Bldg. 11-029, Zone 11

Pantex Plant

Amarillo Co: Carson TX 79120

Landholding Agency: Energy

Property Number: 41200640007

Status: Unutilized

Reasons: Within 2000 ft. of flammable or explosive material, Secured Area.

Bldgs. 11-010, T09-031

Pantex Plant

Amarillo TX 79120

Landholding Agency: Energy

Property Number: 41200810011

Status: Unutilized

Reasons: Within 2000 ft. of flammable or explosive material, Secured Area.

Bldgs. 4-24, 4-27, 4-29

Pantex Plant

Amarillo TX 79120

Landholding Agency: Energy

Property Number: 41200830003

Status: Unutilized

Reasons: Secured Area, Within 2000 ft. of flammable or explosive material.

Bldg. 11-027

Pantex Plant

Amarillo TX 79120

Landholding Agency: Energy

Property Number: 41200830004

Status: Unutilized

Reasons: Within 2000 ft. of flammable or explosive material, Secured Area.

3 Bldgs.

Pantex Plant

12-0245, 12-041SS, 12-075A

Amarillo TX 79120

Landholding Agency: Energy

Property Number: 41200830005

Status: Unutilized

Reasons: Secured Area, Within 2000 ft. of flammable or explosive material.

Bldgs. 04-024, 04-027, 04-029

Pantex Plant

Amarillo TX

Landholding Agency: Energy

Property Number: 41200840003

Status: Unutilized

Reasons: Within 2000 ft. of flammable or explosive material, Secured Area.

Bldgs. 09-013, 09-125

Pantex Plant

Amarillo TX

Landholding Agency: Energy

Property Number: 41200840004

Status: Unutilized

Reasons: Secured Area, Within 2000 ft. of flammable or explosive material.

5 Bldgs.

Pantex Plant

Amarillo TX

Landholding Agency: Energy

Property Number: 41200840005

Status: Unutilized

Directions: 09-095, 09-126, 09-132, 09-132A, 09-134.

Reasons: Secured Area, Within 2000 ft. of flammable or explosive material.

Bldg. 11-027

Pantex Plant

Amarillo TX

Landholding Agency: Energy

Property Number: 41200840006

Status: Unutilized

Reasons: Within 2000 ft. of flammable or explosive material, Secured Area.

4 Bldgs.

Pantex Plant

Amarillo TX

Landholding Agency: Energy

Property Number: 41200840007

Status: Unutilized

Directions: 12-R-009B,12-0245, 12-041SS, 12-075A.

Reasons: Within 2000 ft. of flammable or explosive material, Secured Area.

6 Bldgs.

Pantex Plant

Amarillo TX 79121

Landholding Agency: Energy

Property Number: 41200920004

Status: Unutilized

Directions: 09-056, 11-R-016, 11-030, 12-023, 12-045, 12-047, 12-005G3.

Reasons: Within 2000 ft. of flammable or explosive material, Secured Area.

Bldg. 09-145

Pantex Plant

Amarillo TX 79120

Landholding Agency: Energy

Property Number: 41200940006

Status: Unutilized

Reasons: Within 2000 ft. of flammable or explosive material, Extensive deterioration, Secured Area.

Bldg. 1732

Naval Air Station

Corpus Christi Co: Nueces TX

Landholding Agency: Navy

Property Number: 77200540007

Status: Excess

Reasons: Secured Area, Extensive deterioration.

Bldg. 243

Naval Air Station Joint Reserve Base

Ft. Worth Co: Tarrant TX 76127

Landholding Agency: Navy

Property Number: 77200640035

Status: Unutilized

Reasons: Secured Area, Extensive deterioration.

Bldg. 1430

Naval Air Station Joint Reserve Base

Ft. Worth Co: Tarrant TX 76127

Landholding Agency: Navy

Property Number: 77200640036

Status: Unutilized

Reasons: Secured Area, Extensive deterioration.

Bldg. 1500

Naval Air Station Joint Reserve Base

Ft. Worth Co: Tarrant TX 76127

Landholding Agency: Navy

Property Number: 77200640037

Status: Unutilized

Reasons: Secured Area, Extensive deterioration.

Bldg. 4151

Naval Air Station Joint Reserve Base

Ft. Worth Co: Tarrant TX 76127

Landholding Agency: Navy

Property Number: 77200640038

Status: Unutilized

Reasons: Extensive deterioration, Secured Area.

Bldgs. 3379, 3380

Naval Air Station

Ft. Worth Co: Tarrant TX 76127

Landholding Agency: Navy

Property Number: 77200810023

Status: Unutilized

Reasons: Extensive deterioration, Secured Area.

Bldgs. 1414, 3190

Naval Air Station

Joint Reserve Base

Ft. Worth TX 76127

Landholding Agency: Navy

Property Number: 77200830031

Status: Unutilized

Reasons: Secured Area.

Utah

5 Bldgs.

Naval Industrial Ordinance Plant

Magna UT 84044

Landholding Agency: Navy

Property Number: 77200720033

Status: Unutilized

Directions: 4D, 6A, 6C, 8C, 10B.

Reasons: Secured Area, Within 2000 ft. of flammable or explosive material.

4 Bldgs.

Naval Industrial Ordinance Plant

Magna UT 84044

Landholding Agency: Navy

Property Number: 77200720034

Status: Unutilized

Directions: 11, 15, 16, 19.

Reasons: Secured Area, Within 2000 ft. of flammable or explosive material.

Bldgs. 22A, 22B, 22C

Naval Industrial Ordinance Plant

Magna UT 84044

Landholding Agency: Navy

Property Number: 77200720035

Status: Unutilized

Reasons: Secured Area, Within 2000 ft. of flammable or explosive material.

Bldgs. 23A, 23B, 23C

Naval Industrial Ordinance Plant

Magna UT 84044

Landholding Agency: Navy

Property Number: 77200720036

Status: Unutilized

Reasons: Secured Area, Within 2000 ft. of flammable or explosive material.

4 Bldgs.

Naval Industrial Ordinance Plant

Magna UT 84044

Landholding Agency: Navy

Property Number: 77200720037

Status: Unutilized

Directions: 33, 45B, 45C, 46D.

Reasons: Secured Area, Within 2000 ft. of flammable or explosive material.

Virginia

Bldgs. JHK-17433, JHK-17446

John H. Kerr Project

Boydton VA

Landholding Agency: COE

Property Number: 31200740020

Status: Unutilized

Reasons: Extensive deterioration.

Bldg. JHK-16754

Henderson Point

Mecklenburg VA 23917

Landholding Agency: COE

Property Number: 31200840013

Status: Unutilized

Reasons: Extensive deterioration.

4 Bldgs.

Philpott Lake

16232, 16233, 16234, 16235

Bassett VA 24055

Landholding Agency: COE

Property Number: 31200920021

Status: Unutilized

Reasons: Extensive deterioration.

6 Bldgs.

John H. Kerr Lake & Dam

Mecklenburg VA 23917

Landholding Agency: COE

Property Number: 31200920022

Status: Unutilized

Directions: ID# JHK 15776, 16754, 16810, 17051, 17845, 18244.

Reasons: Extensive deterioration.

3 Comfort Stations

John H. Kerr Lake & Dam

Mecklenburg VA 23917

Landholding Agency: COE

Property Number: 31200920054

Status: Unutilized

Directions: JHK-17450, 17451, 17457.

Reasons: Extensive deterioration.

5 Bldgs.

John H. Kerr Lake & Dam

Mecklenburg VA 23917

Landholding Agency: COE

Property Number: 31200930014

Status: Unutilized

Directions: JHK-15782, 17134, 17453, 17456, 18017.

Reasons: Extensive deterioration.

Bldgs. 22624, 41438, 41439

John Flannagan Dam

Haysi VA 24256

Landholding Agency: COE

Property Number: 31200940016

Status: Unutilized

Reasons: Extensive deterioration.

9 Bldgs.

Philpott Lake & Dam

Bassett VA 24055

Landholding Agency: COE

Property Number: 31200940017

Status: Unutilized

Directions: 15640, 16753, 16775, 16883, 18840, 18854, 18835, 16749, 15636.

Reasons: Extensive deterioration.

Bldgs. 17454, 17455

John Kerr Lake & Dam

Boydton VA 23917

Landholding Agency: COE

Property Number: 31200940018

Status: Unutilized

Reasons: Extensive deterioration.

Chesapeake Light Station

Virginia Beach VA

Landholding Agency: GSA

Property Number: 54201010011

Status: Surplus

GSA Number: 4-X-VA-0739

Reasons: Floodway, Not accessible by road.

Bldgs. 500, 501

Naval Weapon Station

Yorktown VA 23691

Landholding Agency: Navy

Property Number: 77200640012

Status: Excess

Reasons: Extensive deterioration.

Bldg. 628

Naval Weapon Station

Yorktown VA 23691

Landholding Agency: Navy

Property Number: 77200640013

Status: Excess

Reasons: Extensive deterioration.

Bldg. 2398

Naval Station

Norfolk VA

Landholding Agency: Navy

Property Number: 77200730021

Status: Excess

Reasons: Secured Area.

Bldgs. 375, 502, 502A

Naval Weapons Station

Yorktown VA 23691

Landholding Agency: Navy

Property Number: 77200810002

Status: Excess

Reasons: Extensive deterioration, Secured Area.

Bldgs. 503, 503A, 504

Naval Weapons Station

Yorktown VA 23691

Landholding Agency: Navy

Property Number: 77200810003

Status: Excess

Reasons: Secured Area, Extensive deterioration.

Bldgs. 505, 505A

Naval Weapons Station

Yorktown VA 23691

Landholding Agency: Navy

Property Number: 77200810004

Status: Excess

Reasons: Extensive deterioration, Secured Area.

Bldgs. 1213, 1979

Naval Weapons Station

Yorktown VA 23691

Landholding Agency: Navy

Property Number: 77200810005

Status: Excess

Reasons: Secured Area, Extensive deterioration.

Bldgs. 2007, 2008

Naval Weapons Station

Yorktown VA 23691

Landholding Agency: Navy

Property Number: 77200810006

Status: Excess

Reasons: Secured Area, Extensive deterioration.

Bldgs. 439, 466

Naval Weapons Station

Yorktown VA 23691

Landholding Agency: Navy

Property Number: 77200820016

Status: Excess

Reasons: Secured Area.

Bldgs. 760, 761

Naval Weapons Station

Yorktown VA 23691

Landholding Agency: Navy

Property Number: 77200820017

Status: Excess

Reasons: Secured Area.

Bldgs. 1820, 1895

Naval Weapons Station

Yorktown VA 23691

Landholding Agency: Navy

Property Number: 77200820018

Status: Excess

Reasons: Secured Area.

Bldgs. 1977, 1978, 1983

Naval Weapons Station

Yorktown VA 23691

Landholding Agency: Navy

Property Number: 77200820019

Status: Excess

Reasons: Secured Area.

Bldg. CAD-RR

Naval Weapons Station

Yorktown VA 23691

Landholding Agency: Navy

Property Number: 77200820020

Status: Excess

Reasons: Secured Area.

Bldg. 3186

Naval Amphibious Base

Little Creek Co: Norfolk VA

Landholding Agency: Navy

Property Number: 77200840006

Status: Unutilized

Reasons: Secured Area.

Bldg. NAB757

Naval Amphibious Little Creek

Norfolk VA

Landholding Agency: Navy

Property Number: 77200840008

Status: Unutilized

Reasons: Secured Area.

19 Ammunition Bunkers

Naval Weapons Station

Ammo Plant 1 & 2

Yorktown VA 23691

Landholding Agency: Navy

Property Number: 77200840009

Status: Excess

Reasons: Extensive deterioration, Secured Area.

11 Bldgs.

Naval Weapons Station

Yorktown VA 23691

Landholding Agency: Navy

Property Number: 77200840019

Status: Excess

Directions: 10, 11, 97, 97A, 98, 472, 526, 527, 528, 528A, 1592.

Reasons: Secured Area, Extensive deterioration.

8 Bldgs.

Naval Weapons Station

Yorktown VA 23691

Landholding Agency: Navy

Property Number: 77200840020

Status: Excess

Directions: 109, 110, 500A, 501A, 627, 629, 1249, 1462.

Reasons: Secured Area, Extensive deterioration.

5 Bldgs.

Naval Amphibious Base

Norfolk VA

Landholding Agency: Navy

Property Number: 77200840021

Status: Unutilized

Directions: 3375, 3420, 3550, 3695, 3891.

Reasons: Secured Area, Extensive deterioration.

Bldg. 3605

Naval Amphibious

Little Creek

Norfolk VA

Landholding Agency: Navy

Property Number: 77200910020

Status: Unutilized

Reasons: Secured Area.

6 Bldgs.

Naval Station

Norfolk VA 23511

Landholding Agency: Navy

Property Number: 77200930005

Status: Excess

Directions: FRP14, FRP15, FRP33, P17, P64, LP69.

Reasons: Secured Area, Extensive deterioration.

7 Bldgs.

Naval Station

Norfolk VA 23511

Landholding Agency: Navy

Property Number: 77200930007

Status: Excess

Directions: Q57, Q99, Q99A, SP83, SP85, SP85A, SP125.

Reasons: Secured Area, Extensive deterioration.

Bldg. LP23

Naval Station

Norfolk VA 23511

Landholding Agency: Navy

Property Number: 77200930024

Status: Excess

Reasons: Secured Area.

Bldgs. 3112, 3113

Marine Corps Base

Quantico VA

Landholding Agency: Navy

Property Number: 77200940007

Status: Unutilized

Reasons: Extensive deterioration.

Bldg. 1200

Naval Support Activity

Dahlgren VA 22448

Landholding Agency: Navy

Property Number: 77200940008

Status: Excess

Reasons: Extensive deterioration.

Bldgs. 39, 41, 90, M4

Naval Shipyard

St. Juliens Creek Annex

Chesapeake VA

Landholding Agency: Navy

Property Number: 77201010015

Status: Unutilized

Reasons: Extensive deterioration, Secured Area.

Bldgs. 13, 46

Naval Shipyard

St. Juliens Creek Annex

Chesapeake VA

Landholding Agency: Navy

Property Number: 77201010016

Status: Unutilized

Reasons: Extensive deterioration, Secured Area.

7 Bldgs.

Naval Shipyard

St. Juliens Creek Annex

Chesapeake VA

Landholding Agency: Navy

Property Number: 77201010017

Status: Unutilized

Directions: 117, 118, 178, 238, 703, 1511, M23.

Reasons: Secured Area, Extensive deterioration.

Washington

Madame Dorion Vault Toilet

McNary Lock & Dam

Walla Walla WA

Landholding Agency: COE

Property Number: 31200920023

Status: Unutilized

Reasons: Extensive deterioration.

Chiawana Park Restroom

McNary Lock & Dam

Pasco WA 99301

Landholding Agency: COE

Property Number: 31200920024

Status: Unutilized

Reasons: Extensive deterioration.

79 Structures

Hanford Site 100, 300, 400

Richland Co: Benton WA 99352

Landholding Agency: Energy

Property Number: 41200620010

Status: Excess

Directions: Infrastructure Facilities.

Reasons: Secured Area.

87 Structures

Hanford Site 100, 300, 400

Richland Co: Benton WA 99351

Landholding Agency: Energy

Property Number: 41200620011

Status: Excess

Directions: Mobile Offices.

Reasons: Secured Area.

139 Structures

Hanford Site 100, 300, 400

Richland Co: Benton WA 99352

Landholding Agency: Energy

Property Number: 41200620012

Status: Excess

Directions: Office Facilities.

Reasons: Secured Area.

122 Structures

Hanford Site 100, 300, 400

Richland Co: Benton WA 99352

Landholding Agency: Energy

Property Number: 41200620013

Status: Excess

Directions: Process Facilities.

Reasons: Secured Area.

Bldg. 529

Puget Sound Naval Shipyard

Bremerton WA 98314-5000

Landholding Agency: Navy

Property Number: 77200040020

Status: Excess

Reasons: Secured Area.

Bldg. 8

Naval Reserve Center

Spokane WA 99205

Landholding Agency: Navy

Property Number: 77200430025

Status: Excess

Reasons: Extensive deterioration, Secured Area.

Bldgs. 10, 11

Naval Reserve Center

Spokane WA 99205

Landholding Agency: Navy

Property Number: 77200430026

Status: Excess

Reasons: Extensive deterioration, Secured Area.

Bldgs. 2656-2658

Naval Air Station

Lake Hancock

Coupeville Co: Island WA 98239

Landholding Agency: Navy

Property Number: 77200430027

Status: Unutilized

Reasons: Secured Area.

Bldgs. 2652, 2705

Naval Air Station

Whidbey

Oak Harbor WA 98277

Landholding Agency: Navy

Property Number: 77200440010

Status: Unutilized

Reasons: Secured Area.

Bldgs. 79, 884

NAS Whidbey Island

Seaplane Base

Oak Harbor WA 98277

Landholding Agency: Navy

Property Number: 77200440011

Status: Unutilized

Reasons: Secured Area.

Bldg. 121

NAS Whidbey Island

Ault Field

Oak Harbor WA 98277

Landholding Agency: Navy

Property Number: 77200440012

Status: Unutilized

Reasons: Secured Area.

Bldg. 419

NAS Whidbey Island

Ault Field

Oak Harbor WA 98277

Landholding Agency: Navy

Property Number: 77200440013

Status: Unutilized

Reasons: Secured Area.

Bldgs. 2609, 2610

NAS Whidbey Island

Ault Field

Oak Harbor WA 98277

Landholding Agency: Navy

Property Number: 77200440014

Status: Unutilized

Reasons: Secured Area.

Bldg. 2753

NAS Whidbey Island

Ault Field

Oak Harbor WA 98277

Landholding Agency: Navy

Property Number: 77200440015

Status: Unutilized

Reasons: Secured Area.

Bldg. 108

Naval Magazine

Port Hadlock Co: Jefferson WA 98339-9723

Landholding Agency: Navy

Property Number: 77200510015

Status: Unutilized

Reasons: Extensive deterioration, Secured Area.

Bldg. 351

Puget Sound Naval Shipyard

Bremerton WA 98314

Landholding Agency: Navy

Property Number: 77200530026

Status: Unutilized

Reasons: Secured Area, Within 2000 ft. of flammable or explosive material.

Bldg. 1032

Naval Base

Bangor Tower Site

Silverdale WA 98315

Landholding Agency: Navy

Property Number: 77200630045

Status: Unutilized

Reasons: Secured Area, Within 2000 ft. of flammable or explosive material.

Bldg. 71

Naval Magazine

Port Hadlock Co: Jefferson WA 98339-9723

Landholding Agency: Navy

Property Number: 77200640007

Status: Unutilized

Reasons: Secured Area, Extensive deterioration.

Bldgs. 82, 83

Naval Magazine

Port Hadlock Co: Jefferson WA 98339-9723

Landholding Agency: Navy

Property Number: 77200640008

Status: Unutilized

Reasons: Extensive deterioration, Secured Area.

Bldgs. 168, 188

Naval Magazine

Port Hadlock Co: Jefferson WA 98339-9723

Landholding Agency: Navy

Property Number: 77200640009

Status: Unutilized

Reasons: Extensive deterioration, Secured Area.

Bldg. 729

Naval Magazine

Port Hadlock Co: Jefferson WA 98339-9723

Landholding Agency: Navy

Property Number: 77200640010

Status: Unutilized

Reasons: Extensive deterioration, Secured Area.

Bldgs. 910, 921

Naval Magazine

Port Hadlock Co: Jefferson WA 98339-9723

Landholding Agency: Navy

Property Number: 77200640011

Status: Unutilized

Reasons: Extensive deterioration, Secured Area.

Bldgs. 407, 447

Naval Base

Bremerton Co: Kitsap WA 98310

Landholding Agency: Navy

Property Number: 77200640014

Status: Excess

Reasons: Secured Area.

Bldg. 867

Naval Base

Bremerton Co: Kitsap WA 98310

Landholding Agency: Navy

Property Number: 77200640015

Status: Excess

Reasons: Secured Area.

Bldgs. 937, 975

Naval Base

Bremerton Co: Kitsap WA 98310

Landholding Agency: Navy

Property Number: 77200640016

Status: Excess

Reasons: Secured Area.

Bldg. 1449

Naval Base

Silverdale Co: Kitsap WA 98315

Landholding Agency: Navy

Property Number: 77200640017

Status: Unutilized

Reasons: Secured Area.

Bldg. 1670

Naval Base

Silverdale Co: Kitsap WA 98315

Landholding Agency: Navy

Property Number: 77200640018

Status: Unutilized

Reasons: Secured Area.

Bldgs. 2007, 2801

Naval Base

Silverdale Co: Kitsap WA 98315

Landholding Agency: Navy

Property Number: 77200640019

Status: Unutilized

Reasons: Secured Area.

Bldgs. 6021, 6095

Naval Base

Silverdale Co: Kitsap WA 98315

Landholding Agency: Navy

Property Number: 77200640020

Status: Unutilized

Reasons: Secured Area.

Bldgs. 6606, 6661

Naval Base

Silverdale Co: Kitsap WA 98315

Landholding Agency: Navy

Property Number: 77200640021

Status: Unutilized

Reasons: Secured Area.

Bldgs. 726, 727, 734

Naval Undersea Warfare

Keyport Co: Kitsap WA 98345

Landholding Agency: Navy

Property Number: 77200640022

Status: Unutilized

Reasons: Secured Area, Within 2000 ft. of flammable or explosive material.

Bldgs. 901, 911

Naval Undersea Warfare

Keyport Co: Kitsap WA 98345

Landholding Agency: Navy

Property Number: 77200640023

Status: Unutilized

Reasons: Secured Area, Within 2000 ft. of flammable or explosive material.

Bldgs. 925, 938

Naval Undersea Warfare

Keyport Co: Kitsap WA 98345

Landholding Agency: Navy

Property Number: 77200640024

Status: Unutilized

Reasons: Within 2000 ft. of flammable or explosive material, Secured Area.

Bldg. 1020

Naval Undersea Warfare

Keyport Co: Kitsap WA 98345

Landholding Agency: Navy

Property Number: 77200640025

Status: Unutilized

Reasons: Secured Area, Within 2000 ft. of flammable or explosive material.

Fisher Transit Site

Easement

Jefferson WA

Landholding Agency: Navy

Property Number: 77200710015

Status: Excess

Reasons: Other—Remote Location.

Bldgs. 437, 853

Naval Base

Bremerton Co: Kitsap WA 98310

Landholding Agency: Navy

Property Number: 77200710018

Status: Unutilized

Reasons: Secured Area.

Bldg. 1039

Naval Base

Bremerton Co: Kitsap WA 98310

Landholding Agency: Navy

Property Number: 77200710019

Status: Unutilized

Reasons: Secured Area, Within 2000 ft. of flammable or explosive material.

Bldgs. 1400, 1461

Naval Base

Bremerton Co: Kitsap WA 98310

Landholding Agency: Navy

Property Number: 77200710020

Status: Unutilized

Reasons: Secured Area, Within 2000 ft. of flammable or explosive material.

Bldg. 6026

Naval Base

Bremerton Co: Kitsap WA 98310

Landholding Agency: Navy

Property Number: 77200710021

Status: Unutilized

Reasons: Within 2000 ft. of flammable or explosive material, Secured Area.

Bldgs. 6608, 6609, 6904

Naval Base

Bremerton Co: Kitsap WA 98310

Landholding Agency: Navy

Property Number: 77200710022

Status: Unutilized

Reasons: Secured Area, Within 2000 ft. of flammable or explosive material.

Bldgs. 110, 116

Naval Air Station

Oak Harbor WA 98278

Landholding Agency: Navy

Property Number: 77200740013

Status: Excess

Reasons: Secured Area.

Bldg. 839

Puget Sound Naval Shipyard

Bremerton WA 98314

Landholding Agency: Navy

Property Number: 77200740014

Status: Excess

Reasons: Secured Area, Within 2000 ft. of flammable or explosive material.

Bldgs. 402, 403, 2634

Naval Air Station

Oak Harbor Co: Whidbey Island WA 96278

Landholding Agency: Navy

Property Number: 77200810020

Status: Excess

Reasons: Extensive deterioration.

Bldg. 7658

Naval Base

Bangor WA

Landholding Agency: Navy

Property Number: 77200830017

Status: Excess

Reasons: Secured Area, Extensive deterioration.

Bldgs. 986, 987

Naval Air Station

Whidbey Island

Oak Harbor WA 98278

Landholding Agency: Navy

Property Number: 77200840001

Status: Unutilized

Reasons: Secured Area.

Bldg. 94

Naval Air Station

Whidbey Island

Oak Harbor WA 98278

Landholding Agency: Navy

Property Number: 77200840002

Status: Excess

Reasons: Secured Area.

Bldgs. 20, 62, 2616, 2663

Naval Air Station

Whidbey Island WA

Landholding Agency: Navy

Property Number: 77200840017

Status: Excess

Reasons: Secured Area.

Bldg. 113

Naval Air Station

Whidbey Island WA 98278

Landholding Agency: Navy

Property Number: 77200920017

Status: Excess

Reasons: Secured Area.

6 Bldgs.

Naval Air Station

Whidbey Island WA 98278

Landholding Agency: Navy

Property Number: 77200920018

Status: Unutilized

Directions: 175, 855, 2601, 2602, 2603, 2604.

Reasons: Extensive deterioration, Secured Area.

Bldg. 1013

Naval Base Kitsap

Bangor WA

Landholding Agency: Navy

Property Number: 77200920019

Status: Unutilized

Reasons: Secured Area, Extensive deterioration.

Bldgs. 2660, 2661, 2662

Naval Air Station

Whidbey Island WA 98278

Landholding Agency: Navy

Property Number: 77200920047

Status: Unutilized

Reasons: Extensive deterioration.

Bldg. 130

Naval Station

Pacific Beach WA 98571

Landholding Agency: Navy

Property Number: 77200930011

Status: Excess

Reasons: Extensive deterioration.

Bldg. 171

Naval Magazine

Indian Island

Port Hadock WA 98339

Landholding Agency: Navy

Property Number: 77200940003

Status: Excess

Reasons: Secured Area, Extensive deterioration.

GM-1, Gold Mountain

Naval Base

Transmitter/Generator Bldg.

Kitsap WA

Landholding Agency: Navy

Property Number: 77200940004

Status: Excess

Reasons: Secured Area.

Land

Arizona

58 acres

VA Medical Center

500 Highway 89 North

Prescott Co: Yavapai AZ 86313

Landholding Agency: VA

Property Number: 97190630001

Status: Unutilized

Reasons: Floodway.

20 acres

VA Medical Center

500 Highway 89 North

Prescott Co: Yavapai AZ 86313

Landholding Agency: VA

Property Number: 97190630002

Status: Underutilized

Reasons: Floodway.

California

Trailer Space

Naval Base

San Diego CA

Landholding Agency: Navy

Property Number: 77200520013

Status: Unutilized

Reasons: Secured Area.

Parcels 1, 2, 3, 4

Naval Base

Port Hueneme Co: Ventura CA 93043

Landholding Agency: Navy

Property Number: 77200630003

Status: Underutilized

Reasons: Secured Area.

Parcels 11, 12, 13, 14, 15

Naval Base

Port Hueneme Co: Ventura CA 93043

Landholding Agency: Navy

Property Number: 77200630004

Status: Underutilized

Reasons: Secured Area.

Sand Spit

Naval Base

Port Hueneme Co: Ventura CA 93043

Landholding Agency: Navy

Property Number: 77200720008

Status: Underutilized

Reasons: Floodway.

Florida

Wildlife Sanctuary, VAMC

10,000 Bay Pines Blvd.

Bay Pines Co: Pinellas FL 33504

Landholding Agency: VA

Property Number: 97199230004

Status: Underutilized

Reasons: Other—Inaccessible.

Hawaii

14.235 parcel

Marine Corps Base

Kaneohe HI 96863

Landholding Agency: Navy

Property Number: 77200830020

Status: Unutilized

Reasons: Secured Area.

1,100 sq. ft./Land

Marine Corps Training

Area Bellows

Keolu Hills HI

Landholding Agency: Navy

Property Number: 77200930006

Status: Unutilized

Reasons: Secured Area.

Indiana

Approx. 0.2 acre

Naval Support Activity

Crane IN 47522

Landholding Agency: Navy

Property Number: 77200910006

Status: Underutilized

Reasons: Within 2000 ft. of flammable or explosive material, Secured Area.

Kentucky

Tract 4626

Barkley, Lake, Kentucky and Tennessee

Donaldson Creek Launching Area

Cadiz Co: Trigg KY 42211

Landholding Agency: COE

Property Number: 31199010030

Status: Underutilized

Directions: 14 miles from US Highway 68.

Reasons: Floodway.

Tract AA-2747

Wolf Creek Dam and Lake Cumberland

US HWY. 27 to Blue John Road

Burnside Co: Pulaski KY 42519

Landholding Agency: COE

Property Number: 31199010038

Status: Underutilized

Reasons: Floodway.

Tract AA-2726

Wolf Creek Dam and Lake Cumberland

KY HWY. 80 to Route 769

Burnside Co: Pulaski KY 42519

Landholding Agency: COE

Property Number: 31199010039

Status: Underutilized

Reasons: Floodway.

Tract 1358

Barkley Lake, Kentucky and Tennessee

Eddyville Recreation Area

Eddyville Co: Lyon KY 42038

Landholding Agency: COE

Property Number: 31199010043

Status: Excess

Directions: US Highway 62 to state highway 93.

Reasons: Floodway.

Barren River Lock No. 1

Richardsville Co: Warren KY 42270

Landholding Agency: COE

Property Number: 31199120008

Status: Unutilized

Reasons: Floodway.

Green River Lock No. 3

Rochester Co: Butler KY 42273

Landholding Agency: COE

Property Number: 31199120009

Status: Unutilized

Directions: Off State Hwy. 369, which runs off of Western Ky. Parkway.

Reasons: Floodway.

Green River Lock No. 4

Woodbury Co: Butler KY 42288

Landholding Agency: COE

Property Number: 31199120014

Status: Underutilized

Directions: Off State Hwy 403, which is off State Hwy 231.

Reasons: Floodway.

Green River Lock No. 5

Readville Co: Butler KY 42275

Landholding Agency: COE

Property Number: 31199120015

Status: Unutilized

Directions: Off State Highway 185.

Reasons: Floodway.

Green River Lock No. 6

Brownsville Co: Edmonson KY 42210

Landholding Agency: COE

Property Number: 31199120016

Status: Underutilized

Directions: Off State Highway 259.

Reasons: Floodway.

Vacant land west of locksite

Greenup Locks and Dam

5121 New Dam Road

Rural Co: Greenup KY 41144

Landholding Agency: COE

Property Number: 31199120017

Status: Unutilized

Reasons: Floodway.

Maryland

Tract 131R

Youghiogheny River Lake, Rt. 2, Box 100

Friendsville Co: Garrett MD

Landholding Agency: COE

Property Number: 31199240007

Status: Underutilized

Reasons: Floodway.

Minnesota

Portion/Tract Wa-63

Wabasha MN

Landholding Agency: COE

Property Number: 31200940006

Status: Unutilized

Reasons: Other—inaccessible.

3.85 acres (Area #2)

VA Medical Center

4801 8th Street

St. Cloud Co: Stearns MN 56303

Landholding Agency: VA

Property Number: 97199740004

Status: Unutilized

Reasons: Other—landlocked.

7.48 acres (Area #1)

VA Medical Center

4801 8th Street

St. Cloud Co: Stearns MN 56303

Landholding Agency: VA

Property Number: 97199740005

Status: Underutilized

Reasons: Secured Area.

Mississippi

Parcel 1

Grenada Lake

Section 20

Grenada Co: Grenada MS 38901-0903

Landholding Agency: COE

Property Number: 31199011018

Status: Underutilized

Reasons: Within airport runway clear zone.

Missouri

Ditch 19, Item 2, Tract No. 230

St. Francis Basin Project

2½ miles west of Malden

null Co: Dunklin MO

Landholding Agency: COE

Property Number: 31199130001

Status: Unutilized

Reasons: Floodway.

Montana

Sewage Lagoons/40 acres

VA Center

Ft. Harrison MT 59639

Landholding Agency: VA

Property Number: 97200340007

Status: Excess

Reasons: Floodway.

New York

Tract 1

VA Medical Center

Bath Co: Steuben NY 14810

Landholding Agency: VA

Property Number: 97199010011

Status: Unutilized

Directions: Exit 38 off New York State Route 17.

Reasons: Secured Area.

Tract 2

VA Medical Center

Bath Co: Steuben NY 14810

Landholding Agency: VA

Property Number: 97199010012

Status: Underutilized

Directions: Exit 38 off New York State Route 17.

Reasons: Secured Area.

Tract 3

VA Medical Center

Bath Co: Steuben NY 14810

Landholding Agency: VA

Property Number: 97199010013

Status: Underutilized

Directions: Exit 38 off New York State Route 17.

Reasons: Secured Area.

Tract 4

VA Medical Center

Bath Co: Steuben NY 14810

Landholding Agency: VA

Property Number: 97199010014

Status: Unutilized

Directions: Exit 38 off New York State Route 17.

Reasons: Secured Area.

Ohio

Mosquito Creek Lake

Everett Hull Road Boat Launch

Cortland Co: Trumbull OH 44410-9321

Landholding Agency: COE

Property Number: 31199440007

Status: Underutilized

Reasons: Floodway.

Mosquito Creek Lake

Housel—Craft Rd., Boat Launch

Cortland Co: Trumbull OH 44410-9321

Landholding Agency: COE

Property Number: 31199440008

Status: Underutilized

Reasons: Floodway.

36 Site Campground

German Church Campground

Berlin Center Co: Portage OH 44401-9707

Landholding Agency: COE

Property Number: 31199810001

Status: Unutilized

Reasons: Floodway.

Oregon

Tongue Point JCC

Parcels 24528, 24540, 24106

Astoria OR 97103

Landholding Agency: GSA

Property Number: 54201010009

Status: Excess

GSA Number: 9-L-OR-0782-AA

Reasons: Not accessible by road, Other—no public access.

Pennsylvania

Lock and Dam #7

Monongahela River

Greensboro Co: Greene PA

Landholding Agency: COE

Property Number: 31199011564

Status: Unutilized

Directions: Left hand side of entrance roadway to project.

Reasons: Floodway.

Mercer Recreation Area

Shenango Lake

Transfer Co: Mercer PA 16154

Landholding Agency: COE

Property Number: 31199810002

Status: Unutilized

Reasons: Floodway.

Tract No. B-212C

Upstream from Gen. Jadwin Dam

Honesdale Co: Wayne PA 18431

Landholding Agency: COE

Property Number: 31200020005

Status: Unutilized

Reasons: Floodway.

South Carolina

Laurel Bay Tract

Marine Corps Air Station

Beaufort SC

Landholding Agency: Navy

Property Number: 77200830010

Status: Excess

Reasons: Secured Area.

Tennessee

Brooks Bend

Cordell Hull Dam and Reservoir

Highway 85 to Brooks Bend Road

Gainesboro Co: Jackson TN 38562

Landholding Agency: COE

Property Number: 21199040413

Status: Underutilized

Directions: Tracts 800, 802-806, 835-837, 900-902, 1000-1003, 1025.

Reasons: Floodway.

Cheatham Lock and Dam

Highway 12

Ashland City Co: Cheatham TN 37015

Landholding Agency: COE

Property Number: 21199040415

Status: Underutilized

Directions: Tracts E-513, E-512-1 and E-512-2.

Reasons: Floodway.

Tract 2321

J. Percy Priest Dam and Reservoir

Murfreesboro Co: Rutherford TN 37130

Landholding Agency: COE

Property Number: 31199010935

Status: Excess

Directions: South of Old Jefferson Pike.

Reasons: Other—landlocked.

Tract 6737

Blue Creek Recreation Area

Barkley Lake, Kentucky and Tennessee

Dover Co: Stewart TN 37058

Landholding Agency: COE

Property Number: 31199011478

Status: Underutilized

Directions: U.S. Highway 79/TN Highway 761.

Reasons: Floodway.

Tracts 3102, 3105, and 3106

Brimstone Launching Area

Cordell Hull Lake and Dam Project

Gainesboro Co: Jackson TN 38562

Landholding Agency: COE

Property Number: 31199011479

Status: Excess

Directions: Big Bottom Road.

Reasons: Floodway.

Tract 3507

Proctor Site

Cordell Hull Lake and Dam Project

Celina Co: Clay TN 38551

Landholding Agency: COE

Property Number: 31199011480

Status: Unutilized

Directions: TN Highway 52.

Reasons: Floodway.

Tract 3721

Obey

Cordell Hull Lake and Dam Project

Celina Co: Clay TN 38551

Landholding Agency: COE

Property Number: 31199011481

Status: Unutilized

Directions: TN Highway 53.

Reasons: Floodway.

Tracts 608, 609, 611 and 612

Sullivan Bend Launching Area

Cordell Hull Lake and Dam Project

Carthage Co: Smith TN 37030

Landholding Agency: COE

Property Number: 31199011482

Status: Underutilized

Directions: Sullivan Bend Road.

Reasons: Floodway.

Tracts 1710, 1716 and 1703

Flynns Lick Launching Ramp

Cordell Hull Lake and Dam Project

Gainesboro Co: Jackson TN 38562

Landholding Agency: COE

Property Number: 31199011484

Status: Underutilized

Directions: Whites Bend Road.

Reasons: Floodway.

Tract 1810

Wartrace Creek Launching Ramp

Cordell Hull Lake and Dam Project

Gainesboro Co: Jackson TN 38551

Landholding Agency: COE

Property Number: 31199011485

Status: Underutilized

Directions: TN Highway 85.

Reasons: Floodway.

Tract 2524

Jennings Creek

Cordell Hull Lake and Dam Project

Gainesboro Co: Jackson TN 38562

Landholding Agency: COE

Property Number: 31199011486

Status: Unutilized

Directions: TN Highway 85.

Reasons: Floodway.

Tracts 2905 and 2907

Webster

Cordell Hull Lake and Dam Project

Gainesboro Co: Jackson TN 38551

Landholding Agency: COE

Property Number: 31199011487

Status: Unutilized

Directions: Big Bottom Road.

Reasons: Floodway.

Tracts 2200 and 2201

Gainesboro Airport

Cordell Hull Lake and Dam Project

Gainesboro Co: Jackson TN 38562

Landholding Agency: COE

Property Number: 31199011488

Status: Underutilized

Directions: Big Bottom Road.

Reasons: Floodway, Within airport runway clear zone.

Tracts 710C and 712C

Sullivan Island

Cordell Hull Lake and Dam Project

Carthage Co: Smith TN 37030

Landholding Agency: COE

Property Number: 31199011489

Status: Unutilized

Directions: Sullivan Bend Road.

Reasons: Floodway.

Tract 2403, Hensley Creek

Cordell Hull Lake and Dam Project

Gainesboro Co: Jackson TN 38562

Landholding Agency: COE

Property Number: 31199011490

Status: Unutilized

Directions: TN Highway 85.

Reasons: Floodway.

Tracts 2117C, 2118 and 2120

Cordell Hull Lake and Dam Project

Trace Creek

Gainesboro Co: Jackson TN 38562

Landholding Agency: COE

Property Number: 31199011491

Status: Unutilized

Directions: Brooks Ferry Road.

Reasons: Floodway.

Tracts 424, 425 and 426

Cordell Hull Lake and Dam Project

Stone Bridge

Carthage Co: Smith TN 37030

Landholding Agency: COE

Property Number: 31199011492

Status: Unutilized

Directions: Sullivan Bend Road.

Reasons: Floodway.

Tract 517

J. Percy Priest Dam and Reservoir

Suggs Creek Embayment

Nashville Co: Davidson TN 37214

Landholding Agency: COE

Property Number: 31199011493

Status: Underutilized

Directions: Interstate 40 to S. Mount Juliet Road.

Reasons: Floodway.

Tract 1811

West Fork Launching Area

Smyrna Co: Rutherford TN 37167

Landholding Agency: COE

Property Number: 31199011494

Status: Underutilized

Directions: Florence road near Enon Springs Road.

Reasons: Floodway.

Tract 1504

J. Perry Priest Dam and Reservoir

Lamon Hill Recreation Area

Smyrna Co: Rutherford TN 37167

Landholding Agency: COE

Property Number: 31199011495

Status: Underutilized

Directions: Lamon Road.

Reasons: Floodway.

Tract 1500

J. Perry Priest Dam and Reservoir

Pools Knob Recreation

Smyrna Co: Rutherford TN 37167

Landholding Agency: COE

Property Number: 31199011496

Status: Underutilized

Directions: Jones Mill Road.

Reasons: Floodway.

Tracts 245, 257, and 256

J. Perry Priest Dam and Reservoir

Cook Recreation Area

Nashville Co: Davidson TN 37214

Landholding Agency: COE

Property Number: 31199011497

Status: Underutilized

Directions: 2.2 miles south of Interstate 40 near Saunders Ferry Pike.

Reasons: Floodway.

Tracts 107, 109 and 110

Cordell Hull Lake and Dam Project

Two Prong

Carthage Co: Smith TN 37030

Landholding Agency: COE

Property Number: 31199011498

Status: Unutilized

Directions: US Highway 85.

Reasons: Floodway.

Tracts 2919 and 2929

Cordell Hull Lake and Dam Project

Sugar Creek

Gainesboro Co: Jackson TN 38562

Landholding Agency: COE

Property Number: 31199011500

Status: Unutilized

Directions: Sugar Creek Road.

Reasons: Floodway.

Tracts 1218 and 1204

Cordell Hull Lake and Dam Project

Granville—Alvin Yourk Road

Granville Co: Jackson TN 38564

Landholding Agency: COE

Property Number: 31199011501

Status: Unutilized

Reasons: Floodway.

Tract 2100

Cordell Hull Lake and Dam Project

Galbreaths Branch

Gainesboro Co: Jackson TN 38562

Landholding Agency: COE

Property Number: 31199011502

Status: Unutilized

Directions: TN Highway 53.

Reasons: Floodway.

Tract 104 et al.

Cordell Hull Lake and Dam Project

Horshoe Bend Launching Area

Carthage Co: Smith TN 37030

Landholding Agency: COE

Property Number: 31199011504

Status: Underutilized

Directions: Highway 70 N.

Reasons: Floodway.

Tracts 510, 511, 513 and 514

J. Percy Priest Dam and Reservoir Project

Lebanon Co: Wilson TN 37087

Landholding Agency: COE

Property Number: 31199120007

Status: Underutilized

Directions: Vivrett Creek Launching Area, Alvin Sperry Road.

Reasons: Floodway.

Tract A-142, Old Hickory Beach

Old Hickory Blvd.

Old Hickory Co: Davidson TN 37138

Landholding Agency: COE

Property Number: 31199130008

Status: Underutilized

Reasons: Floodway.

Tract D, 7 acres

Cheatham Lock

Nashville Co: Davidson TN 37207

Landholding Agency: COE

Property Number: 31200020006

Status: Underutilized

Reasons: Floodway.

Tract F-608

Cheatham Lock

Ashland Co: Cheatham TN 37015

Landholding Agency: COE

Property Number: 31200420021

Status: Unutilized

Reasons: Floodway.

Tracts G702-G706

Cheatham Lock

Ashland Co: Cheatham TN 37015

Landholding Agency: COE

Property Number: 31200420022

Status: Unutilized

Reasons: Floodway.

6 Tracts

Shutes Branch Campground

Lakewood Co: Wilson TN

Landholding Agency: COE

Property Number: 31200420023

Status: Unutilized

Reasons: Floodway.

Texas

Tracts 104, 105-1, 105-2

Joe Pool Lake

null Co: Dallas TX

Landholding Agency: COE

Property Number: 31199010397

Status: Underutilized

Reasons: Floodway.

Part of Tract 201-3

Joe Pool Lake

null Co: Dallas TX

Landholding Agency: COE

Property Number: 31199010398

Status: Underutilized

Reasons: Floodway.

Part of Tract 323

Joe Pool Lake

null Co: Dallas TX

Landholding Agency: COE

Property Number: 31199010399

Status: Underutilized

Reasons: Floodway.

Tract 702-3

Granger Lake

Route 1, Box 172

Granger Co: Williamson TX 76530-9801

Landholding Agency: COE

Property Number: 31199010401

Status: Unutilized

Reasons: Floodway.

Tract 706

Granger Lake

Route 1, Box 172

Granger Co: Williamson TX 76530-9801

Landholding Agency: COE

Property Number: 31199010402

Status: Unutilized

Reasons: Floodway.

Washington

405 sq. ft./Land

Naval Base Kitsap

Bangor WA

Landholding Agency: Navy

Property Number: 77200520060

Status: Unutilized

Reasons: Secured Area.

230 sq. ft. land

Naval Magazine

Indian Island WA

Landholding Agency: Navy

Property Number: 77200620037

Status: Underutilized

Reasons: Secured Area, Within 2000 ft. of flammable or explosive material.

Tabook Transit Site

Easement

Jefferson WA

Landholding Agency: Navy

Property Number: 77200710016

Status: Excess

Reasons: Other—Remote Location.

West Virginia

Morgantown Lock and Dam

Box 3 RD # 2

Morgantown Co: Monongahelia WV 26505

Landholding Agency: COE

Property Number: 31199011530

Status: Unutilized

Reasons: Floodway.

London Lock and Dam

Route 60 East

Rural Co: Kanawha WV 25126

Landholding Agency: COE

Property Number: 31199011690

Status: Unutilized

Directions: 20 miles east of Charleston, W. Virginia.

Reasons: Other—.03 acres; very narrow strip of land.

Portion of Tract #101

Buckeye Creek

Sutton Co: Braxton WV 26601

Landholding Agency: COE

Property Number: 31199810006

Status: Excess

Reasons: Other—inaccessible.

[FR Doc. 2010-4281 Filed 3-4-10; 8:45 am]

BILLING CODE 4210-67-P